POSTAL SERVICE

Change in Rates and Classes of General Applicability for Competitive Products

AGENCY: Postal Service™.

ACTION: Notice of a change in rates of general applicability for competitive products.

SUMMARY: This notice sets forth changes in rates of general applicability for competitive products.

DATES: This action begins January 26, 2020.

FOR FURTHER INFORMATION CONTACT: Elizabeth Reed, 202-268-3179.

SUPPLEMENTARY INFORMATION: On October 3, 2019, pursuant to their authority under 39 U.S.C. 3632, the Governors of the Postal Service established prices and classification changes for competitive products. The Governors' Decision and the record of proceedings in connection with such decision are reprinted below in accordance with section 3632(b)(2).

Elizabeth Reed,
Attorney, Corporate and Postal Business Law.

Decision of the Governors of the United States Postal Service on Changes in Rates of General Applicability for Competitive Products (Governors' Decision No. 19-3)

October 3, 2019

Statement of Explanation and Justification

Pursuant to authority under section 3632 of title 39, as amended by the Postal Accountability and Enhancement Act of 2006 (“PAEA”), we establish new prices of general applicability for the Postal Service's shipping services (competitive products), and such changes in classifications as are necessary to define the new prices. The changes are described generally below, with a detailed description of the changes in the attachment. The attachment includes the draft Mail Classification Schedule sections with classification changes in legislative format, and new prices displayed in the price charts.

As shown in the nonpublic annex being filed under seal herewith, the changes we establish should enable each competitive product to cover its attributable costs (39 U.S.C. 3633(a)(2)) and should result in competitive products as a whole complying with 39 U.S.C. 3633(a)(3), which, as implemented by 39 CFR 3015.7(c), requires competitive products collectively to contribute a minimum of 8.8 percent to the Postal Service's institutional costs. Accordingly, no issue of subsidization of competitive products by market dominant products should arise (39 U.S.C. 3633(a)(1)). We therefore find that the new prices are in accordance with 39 U.S.C. 3632-3633 and 39 CFR 3015.2.

I. Domestic Products

A. Priority Mail Express

Overall, the Priority Mail Express price change represents a 3.5 percent increase. The existing structure of zoned Retail, Commercial Base, and Commercial Plus price categories is maintained, with Commercial Base and Commercial Plus prices continuing to be set equal to each other. Dimensional weighting, which was introduced for all zones in 2019, will continue in 2020. New for 2020, a $0.20 Unmanifested eVS Fee will be introduced to discourage unmanifested commercial parcels from occurring, reduce occurrences of lower postage assessments, and offset additional reconciliation, manual processes, and operational costs.

Retail prices will increase an average of 3.8 percent. The price for the Retail Flat Rate Envelope, a significant portion of all Priority Mail Express volume, is increasing to $26.35, with the Legal Size and Padded Flat Rate Envelopes priced at $26.50 and $26.95, respectively.

The Commercial Base price category offers lower prices to customers who use online and other authorized postage payment methods. The Commercial Base prices will increase 2.2 percent on average. Commercial Base prices will, on average, reflect a 13.8 percent discount off of Retail prices.

The Commercial Plus price category has traditionally offered even lower prices to large-volume customers. Commercial Plus prices were matched to the Commercial Base prices in 2016 and will continue to be in 2020. For January, Commercial Plus prices as a whole will receive a 2.2 percent increase on average.

B. Priority Mail

On average, the Priority Mail prices will be increased by 4.1 percent. The existing structure of Priority Mail Retail, Commercial Base, and Commercial Plus price categories is maintained. Dimensional weighting, which was extended to all zones in 2019, will continue in 2020. New for 2020, a $0.20 Unmanifested eVS Fee will be introduced to discourage unmanifested commercial parcels from occurring, reduce occurrences of lower postage assessments, and offset additional reconciliation, manual processes, and operational costs.

Retail prices will increase an average of 4.9 percent. Retail Flat Rate Box prices will be: Small, $8.30; Medium, $15.05; Large, $21.10 and Large APO/FPO/DPO, $19.60. Thus, the Large APO/FPO/DPO Flat Rate Box will be $1.50 less than the Large Flat Rate Box. The regular Flat Rate Envelope will be priced at $7.75, with the Legal Size and Padded Flat Rate Envelopes priced at $8.05 and $8.40, respectively.

The Commercial Base price category offers lower prices to customers using authorized postage payment methods. The Commercial Base prices will increase 2.8 percent on average. Commercial Base prices will, on average, reflect a 15.3 percent discount off of Retail prices.

The Commercial Plus price category has traditionally offered even lower prices to large-volume customers. For January, Commercial Plus prices as a whole will receive a 3.0 percent increase and will average 15.2 percent off Retail prices.

C. Parcel Select

On average, prices for destination-entered non-Lightweight Parcel Select, the Postal Service's bulk ground shipping product, will increase 2.5 percent. For destination delivery unit (DDU) entered parcels, the average price increase is 2.0 percent. For destination sectional center facility (DSCF) destination entered parcels, the average price increase is 1.8 percent. For destination network distribution center (DNDC) parcels, the average price increase is 2.8 percent. Prices for Parcel Select Lightweight will increase by 4.2 percent. Parcel Select Ground will see a 3.9 percent price increase. Dimensional weighting, which was introduced for all zones in 2019, will continue in 2020. New for 2020, a $0.20 Unmanifested eVS Fee will be introduced to discourage unmanifested commercial parcels from occurring, reduce occurrences of lower postage assessments, and offset additional reconciliation, manual processes, and operational costs.

D. Parcel Return Service

Parcel Return Service prices will have an overall price increase of 4.9 percent. Prices for parcels retrieved at a return sectional center facility (RSCF) will increase by 4.9 percent, and prices for parcels picked up at a return delivery unit (RDU) will increase 4.9 percent.

E. First-Class Package Service

First-Class Package Service (FCPS) continues to be positioned as a lightweight (less than one pound) offering primarily used by businesses for fulfillment purposes. In 2017, First-Class Mail Parcels were transferred to the competitive product list and renamed First-Class Package Service—Retail (FCPS-Retail), and in 2019, the FCPS-Retail and FCPS-Commercial price categories were given zone-based pricing. Overall, FCPS prices will increase 2.6 percent, with a 3.9 percent increase for FCPS-Retail and a 2.2 percent increase for FCPS-Commercial. New for 2020, a $0.20 Unmanifested eVS Fee will be introduced to discourage unmanifested commercial parcels from occurring, reduce occurrences of lower postage assessments, and offset additional reconciliation, manual processes, and operational costs.

F. USPS Retail Ground

USPS Retail Ground prices will increase 3.9 percent. Customers shipping in Zones 1-4 will continue to receive Priority Mail service and will only default to Retail Ground if the item contains hazardous material or is otherwise not permitted to travel by air transportation. New for 2020, USPS Retail Ground's dimensional weighting will be extended from Zones 1-4 to Zones 1-8 to align with Priority Mail, but will not apply to the Limited Overland Routes price category.

G. Domestic Extra Services

Premium Forwarding Service (PFS) prices will increase between 0.9 and 5.3 percent in 2020, depending on the specific rate element. The retail counter enrollment fee will increase to $21.90. The online enrollment option, introduced in 2014, will now be available for $20.10. The weekly reshipment fee will increase to $21.90. PFS Local, which was introduced in 2019 for P.O. Box customers, will have an increase in the reshipment fee to $21.90. Prices for Adult Signature service will increase to $6.65 for the basic service and $6.90 for the person-specific service. Address Enhancement Service prices will be increasing between 0.4 and 3.8 percent depending on the particular rate element, to ensure adequate cost coverage. Competitive Post Office Box prices will be increasing 10.4 percent on average, which is within the existing price ranges. Package Intercept Service will increase 3.9 percent, to $14.65. The Pickup On Demand fee will increase to $24.00 for 2020. New for 2020, Premium Data Retention and Retrieval Service will be introduced under the Competitive Ancillary Services product, which will allow customers to request that the Postal Service retain tracking information longer than the default period.

II. International Products

A. Expedited Services

International expedited services include Global Express Guaranteed (GXG) and Priority Mail Express International (PMEI). Overall, GXG prices will remain unchanged for 2020, and PMEI will be subject to an overall 2.0 percent increase. Commercial Plus prices will be equivalent to Commercial Base; however, deeper discounting may still be made available to customers through negotiated service agreements.

B. Priority Mail International

The overall increase for Priority Mail International (PMI) will be 6.0 percent. Commercial Plus prices will be equivalent to Commercial Base; however, deeper discounting may still be made available to customers through negotiated service agreements.

C. International Priority Airmail and International Surface Air Lift

Published prices for International Priority Airmail (IPA) and International Surface Air Lift (ISAL), as well as their associated M-Bags, will increase by 5.9 percent.

D. Airmail M-Bags

The published prices for Airmail M-Bags will increase by 6.0 percent.

E. First-Class Package International Service™

The overall increase for First-Class Package International Service (FCPIS) prices will be 9.9 percent. Commercial Plus prices will be equivalent to Commercial Base; however, deeper discounting will still be made available to customers through negotiated service agreements.

F. International Ancillary Services and Special Services

Prices for several international ancillary services will be increased, with an overall increase of 2.7 percent. However, some services will be increased above average to ensure cost coverage, including International Postal Money Orders and Money Transfer Service, which will increase by 7.3 percent, and PMEI Insurance and PMI Insurance, which will increase by 5.2 and 4.9 percent, respectively.

Order

The changes in prices and classes set forth herein shall be effective at 12:01 a.m. on January 26, 2020. We direct the Secretary to have this decision published in the Federal Register in accordance with 39 U.S.C. 3632(b)(2), and direct management to file with the Postal Regulatory Commission appropriate notice of these changes.

By The Governors:

/s/

Robert M. Duncan,

Chairman, Board of Governors.

United States Postal Service Office of the Board of Governors

Certification of Governors' Vote on Governors' Decision No. 19-3

Consistent with 39 U.S.C. 3632(a), I hereby certify that, on October 3, 2019, the Governors voted on adopting Governors' Decision No. 19-3, and that a majority of the Governors then holding office voted in favor of that Decision.

/s/

Date: October 7, 2019

Michael J. Elston,

Secretary of the Board of Governors (A).

Part B

Competitive Products

2000 Competitive Product List

2100 Domestic Products

* * *

* * *

2105 Priority Mail Express

* * *

2105.5 Optional Features

The following additional postal services may be available in conjunction with the product specified in this section:

• Pickup On Demand Service

• Sunday/Holiday Delivery

• 10:30 a.m. Delivery

• Ancillary Services (1505)

○ Address Correction Service (1505.1)

○ Collect On Delivery (1505.7)

○ Priority Mail Express Insurance (1505.9)

○ Return Receipt (1505.13)

○ Special Handling (1505.18)

• Competitive Ancillary Services (2545)

○ Adult Signature (2545.1)

○ Package Intercept Service (2545.2)

○ Premium Data Retention and Retrieval Service (2545.3)

2105.6 Prices

Retail Priority Mail Express Zone/Weight
Maximum weight (pounds) | Local, zones 1 & 2 ($) | Zone 3 ($) | Zone 4 ($) | Zone 5 ($) | Zone 6 ($) | Zone 7 ($) | Zone 8 ($) | Zone 9 ($)
0.5 | 26.35 | 26.60 | 27.50 | 30.70 | 32.75 | 34.80 | 37.15 | 50.60
1 | 26.75 | 28.85 | 31.50 | 36.70 | 39.50 | 41.75 | 44.00 | 59.90
2 | 27.15 | 31.15 | 35.55 | 42.75 | 46.20 | 48.70 | 50.85 | 69.25
3 | 27.55 | 33.40 | 39.55 | 48.75 | 52.95 | 55.60 | 57.65 | 78.55
4 | 27.95 | 35.70 | 43.60 | 54.80 | 59.65 | 62.55 | 64.50 | 87.90
5 | 28.35 | 37.95 | 47.60 | 60.80 | 66.40 | 69.50 | 71.35 | 97.20
6 | 31.20 | 41.65 | 52.80 | 66.80 | 72.55 | 76.10 | 78.10 | 106.40
7 | 34.10 | 45.35 | 58.05 | 72.80 | 78.70 | 82.75 | 84.90 | 115.65
8 | 36.95 | 49.10 | 63.25 | 78.75 | 84.80 | 89.35 | 91.65 | 124.85
9 | 39.85 | 52.80 | 68.50 | 84.75 | 90.95 | 96.00 | 98.45 | 134.10
10 | 42.70 | 56.50 | 73.70 | 90.75 | 97.10 | 102.60 | 105.20 | 143.30
11 | 44.75 | 60.70 | 77.85 | 94.80 | 100.95 | 106.60 | 109.40 | 149.05
12 | 46.80 | 64.90 | 82.00 | 98.85 | 104.80 | 110.65 | 113.60 | 154.75
13 | 48.90 | 69.15 | 86.15 | 102.90 | 108.65 | 114.65 | 117.80 | 160.45
14 | 50.95 | 73.35 | 90.30 | 106.95 | 112.50 | 118.70 | 122.00 | 166.20
15 | 53.00 | 77.55 | 94.45 | 111.05 | 116.35 | 122.70 | 126.20 | 171.90
16 | 55.05 | 81.75 | 98.60 | 115.10 | 120.15 | 126.70 | 130.45 | 177.65
17 | 57.10 | 85.95 | 102.75 | 119.15 | 124.00 | 130.75 | 134.65 | 183.35
18 | 59.20 | 90.20 | 106.90 | 123.20 | 127.85 | 134.75 | 138.85 | 189.10
19 | 61.25 | 94.40 | 111.05 | 127.25 | 131.70 | 138.80 | 143.05 | 194.80
20 | 63.30 | 98.60 | 115.20 | 131.30 | 135.55 | 142.80 | 147.25 | 200.55
21 | 65.60 | 103.15 | 119.70 | 136.30 | 140.65 | 148.05 | 152.75 | 208.05
22 | 67.95 | 107.65 | 124.15 | 141.30 | 145.70 | 153.35 | 158.20 | 215.50
23 | 70.25 | 112.20 | 128.65 | 146.35 | 150.80 | 158.60 | 163.70 | 223.00
24 | 72.55 | 116.70 | 133.10 | 151.35 | 155.85 | 163.90 | 169.20 | 230.45
25 | 74.85 | 121.25 | 137.60 | 156.35 | 160.95 | 169.15 | 174.70 | 237.95
26 | 77.20 | 125.80 | 142.05 | 161.35 | 166.05 | 174.45 | 180.15 | 245.40
27 | 79.50 | 130.30 | 146.55 | 166.35 | 171.10 | 179.70 | 185.65 | 252.90
28 | 81.80 | 134.85 | 151.00 | 171.40 | 176.20 | 185.00 | 191.15 | 260.35
29 | 84.10 | 139.35 | 155.50 | 176.40 | 181.25 | 190.25 | 196.65 | 267.85
30 | 86.45 | 143.90 | 159.95 | 181.40 | 186.35 | 195.55 | 202.10 | 275.30
31 | 88.75 | 148.45 | 164.45 | 186.40 | 191.45 | 200.80 | 207.60 | 282.80
32 | 91.05 | 152.95 | 168.90 | 191.40 | 196.50 | 206.10 | 213.10 | 290.25
33 | 93.35 | 157.50 | 173.40 | 196.45 | 201.60 | 211.35 | 218.60 | 297.75
34 | 95.70 | 162.00 | 177.85 | 201.45 | 206.65 | 216.65 | 224.05 | 305.20
35 | 98.00 | 166.55 | 182.35 | 206.45 | 211.75 | 221.90 | 229.55 | 312.70
36 | 100.55 | 171.00 | 187.20 | 212.00 | 217.55 | 227.95 | 235.70 | 321.20
37 | 102.75 | 175.20 | 192.05 | 217.35 | 223.35 | 233.90 | 241.95 | 329.45
38 | 105.15 | 179.70 | 196.90 | 222.85 | 228.90 | 239.65 | 247.90 | 337.75
39 | 107.75 | 184.05 | 201.85 | 228.20 | 234.20 | 245.15 | 254.05 | 346.10
40 | 110.05 | 188.20 | 206.75 | 233.70 | 239.95 | 251.00 | 260.30 | 354.55
41 | 112.20 | 192.65 | 211.55 | 239.00 | 245.75 | 257.10 | 266.35 | 362.70
42 | 114.20 | 197.05 | 216.45 | 244.30 | 251.55 | 263.00 | 272.40 | 371.05
43 | 116.85 | 201.35 | 221.15 | 249.65 | 257.10 | 268.70 | 278.55 | 379.45
44 | 119.00 | 205.75 | 226.10 | 255.10 | 262.65 | 274.45 | 284.65 | 387.65
45 | 121.30 | 210.10 | 230.80 | 260.30 | 268.25 | 280.25 | 290.90 | 396.20
46 | 123.60 | 214.30 | 235.95 | 265.85 | 273.85 | 285.95 | 296.90 | 404.40
47 | 126.25 | 218.65 | 240.70 | 271.15 | 279.55 | 291.80 | 303.05 | 412.70
48 | 128.35 | 223.20 | 245.45 | 276.35 | 285.15 | 297.55 | 309.15 | 421.10
49 | 130.70 | 227.35 | 250.40 | 281.70 | 291.00 | 303.50 | 315.25 | 429.50
50 | 133.45 | 231.85 | 255.25 | 287.20 | 296.40 | 309.10 | 321.35 | 437.75
51 | 135.80 | 236.25 | 260.10 | 292.45 | 301.95 | 314.80 | 326.65 | 444.95
52 | 138.10 | 240.30 | 264.85 | 297.70 | 307.80 | 320.75 | 333.80 | 454.55
53 | 140.40 | 244.85 | 269.80 | 303.05 | 313.45 | 326.50 | 339.85 | 462.90
54 | 142.90 | 249.20 | 274.60 | 308.20 | 319.15 | 332.35 | 345.90 | 471.15
55 | 145.75 | 254.95 | 279.60 | 313.70 | 324.65 | 338.00 | 352.00 | 479.45
56 | 148.75 | 259.40 | 284.30 | 318.90 | 330.20 | 343.80 | 358.10 | 487.85
57 | 151.35 | 263.75 | 289.15 | 324.25 | 335.80 | 349.45 | 364.20 | 496.05
58 | 153.90 | 267.95 | 294.00 | 329.45 | 341.50 | 355.25 | 370.30 | 504.35
59 | 156.05 | 272.30 | 298.75 | 334.70 | 347.30 | 361.05 | 376.45 | 512.70
60 | 158.15 | 276.70 | 303.65 | 340.00 | 352.90 | 366.80 | 382.55 | 521.05
61 | 160.40 | 281.05 | 308.80 | 345.60 | 358.50 | 372.45 | 388.65 | 529.35
62 | 162.90 | 285.35 | 313.50 | 350.60 | 364.05 | 378.20 | 394.90 | 537.85
63 | 165.55 | 289.65 | 318.35 | 355.95 | 369.80 | 384.05 | 401.00 | 546.20
64 | 167.85 | 293.95 | 323.15 | 361.05 | 375.50 | 389.85 | 407.10 | 554.65
65 | 170.70 | 298.30 | 328.00 | 366.30 | 381.10 | 395.30 | 413.20 | 562.80
66 | 173.90 | 302.80 | 333.00 | 371.70 | 386.80 | 401.05 | 419.30 | 570.95
67 | 175.90 | 307.05 | 337.90 | 377.00 | 392.15 | 406.65 | 425.40 | 579.45
68 | 178.20 | 311.35 | 342.70 | 382.10 | 398.05 | 412.60 | 431.70 | 588.00
69 | 181.00 | 315.75 | 347.45 | 387.35 | 403.55 | 418.15 | 437.55 | 595.95
70 | 184.30 | 320.15 | 352.40 | 392.65 | 409.20 | 423.85 | 443.70 | 604.40

Retail Flat Rate Envelope
| ($)
Retail Regular Flat Rate Envelope, per piece | 26.35
Retail Legal Flat Rate Envelope, per piece | 26.50
Retail Padded Flat Rate Envelope, per piece | 26.95

Retail Dimensional Weight

In Zones 1-9 (including local), parcels exceeding one cubic foot are priced at the actual weight or the dimensional weight, whichever is greater.

For box-shaped parcels, the dimensional weight (pounds) is calculated by multiplying the length (inches) times the width (inches) times the height (inches) of the parcel, and dividing by 166.

For irregular-shaped parcels (parcels not appearing box-shaped), the dimensional weight (pounds) is calculated by multiplying the length (inches) times the width (inches) times the height (inches) at the associated maximum cross-sections of the parcel, dividing by 166, and multiplying by an adjustment factor of 0.785.

Commercial Base Zone/Weight
Maximum weight (pounds) | Local, Zones 1 & 2 ($) | Zone 3 ($) | Zone 4 ($) | Zone 5 ($) | Zone 6 ($) | Zone 7 ($) | Zone 8 ($) | Zone 9 ($)
0.5 | 22.75 | 23.30 | 24.05 | 26.35 | 28.25 | 30.05 | 32.45 | 43.95
1 | 23.00 | 25.20 | 27.45 | 31.20 | 33.65 | 35.65 | 38.05 | 51.50
2 | 23.25 | 27.05 | 30.90 | 36.00 | 39.05 | 41.20 | 43.60 | 59.05
3 | 23.50 | 28.95 | 34.30 | 40.85 | 44.40 | 46.80 | 49.20 | 66.55
4 | 23.75 | 30.80 | 37.75 | 45.65 | 49.80 | 52.35 | 54.75 | 74.10
5 | 24.00 | 32.70 | 41.15 | 50.50 | 55.20 | 57.95 | 60.35 | 81.65
6 | 26.45 | 35.95 | 45.70 | 55.55 | 60.40 | 63.55 | 66.15 | 89.50
7 | 28.90 | 39.20 | 50.30 | 60.60 | 65.60 | 69.15 | 71.95 | 97.35
8 | 31.40 | 42.50 | 54.85 | 65.60 | 70.75 | 74.75 | 77.75 | 105.20
9 | 33.85 | 45.75 | 59.45 | 70.65 | 75.95 | 80.35 | 83.55 | 113.05
10 | 36.30 | 49.00 | 64.00 | 75.70 | 81.15 | 85.95 | 89.35 | 120.90
11 | 38.20 | 52.90 | 67.90 | 79.60 | 84.90 | 89.90 | 93.55 | 126.55
12 | 40.10 | 56.80 | 71.75 | 83.55 | 88.70 | 93.85 | 97.70 | 132.20
13 | 42.05 | 60.70 | 75.65 | 87.45 | 92.45 | 97.80 | 101.90 | 137.90
14 | 43.95 | 64.60 | 79.55 | 91.40 | 96.20 | 101.75 | 106.05 | 143.55
15 | 45.85 | 68.50 | 83.45 | 95.30 | 100.00 | 105.65 | 110.20 | 149.20
16 | 47.75 | 72.35 | 87.30 | 99.20 | 103.75 | 109.60 | 114.40 | 154.85
17 | 49.65 | 76.25 | 91.20 | 103.15 | 107.50 | 113.55 | 118.55 | 160.50
18 | 51.60 | 80.15 | 95.10 | 107.05 | 111.25 | 117.50 | 122.75 | 166.20
19 | 53.50 | 84.05 | 98.95 | 111.00 | 115.05 | 121.45 | 126.90 | 171.85
20 | 55.40 | 87.95 | 102.85 | 114.90 | 118.80 | 125.40 | 131.10 | 177.50
21 | 57.35 | 91.90 | 106.75 | 119.15 | 123.15 | 129.90 | 135.85 | 183.95
22 | 59.35 | 95.85 | 110.65 | 123.45 | 127.50 | 134.45 | 140.60 | 190.40
23 | 61.30 | 99.80 | 114.50 | 127.70 | 131.80 | 138.95 | 145.40 | 196.85
24 | 63.30 | 103.75 | 118.40 | 132.00 | 136.15 | 143.45 | 150.15 | 203.25
25 | 65.25 | 107.70 | 122.30 | 136.25 | 140.50 | 147.95 | 154.90 | 209.70
26 | 67.20 | 111.65 | 126.20 | 140.50 | 144.85 | 152.50 | 159.65 | 216.15
27 | 69.20 | 115.60 | 130.10 | 144.80 | 149.20 | 157.00 | 164.40 | 222.60
28 | 71.15 | 119.55 | 133.95 | 149.05 | 153.50 | 161.50 | 169.20 | 229.05
29 | 73.15 | 123.50 | 137.85 | 153.35 | 157.85 | 166.00 | 173.95 | 235.50
30 | 75.10 | 127.45 | 141.75 | 157.60 | 162.20 | 170.55 | 178.70 | 241.95
31 | 77.05 | 131.40 | 145.65 | 161.85 | 166.55 | 175.05 | 183.45 | 248.40
32 | 79.05 | 135.35 | 149.55 | 166.15 | 170.90 | 179.55 | 188.20 | 254.80
33 | 81.00 | 139.30 | 153.40 | 170.40 | 175.20 | 184.05 | 193.00 | 261.25
34 | 83.00 | 143.25 | 157.30 | 174.70 | 179.55 | 188.60 | 197.75 | 267.70
35 | 84.95 | 147.20 | 161.20 | 178.95 | 183.90 | 193.10 | 202.50 | 274.15
36 | 87.15 | 151.10 | 165.60 | 183.75 | 188.95 | 198.30 | 207.90 | 281.50
37 | 89.00 | 154.85 | 169.85 | 188.35 | 193.95 | 203.50 | 213.35 | 288.85
38 | 91.10 | 158.75 | 174.15 | 193.10 | 198.75 | 208.50 | 218.65 | 296.05
39 | 93.35 | 162.65 | 178.55 | 197.75 | 203.40 | 213.30 | 224.10 | 303.45
40 | 95.35 | 166.30 | 182.90 | 202.55 | 208.35 | 218.45 | 229.55 | 310.80
41 | 97.25 | 170.25 | 187.15 | 207.10 | 213.40 | 223.65 | 234.90 | 318.00
42 | 98.95 | 174.15 | 191.40 | 211.75 | 218.40 | 228.80 | 240.20 | 325.25
43 | 101.25 | 177.90 | 195.65 | 216.35 | 223.25 | 233.80 | 245.70 | 332.60
44 | 103.05 | 181.80 | 200.00 | 221.05 | 228.05 | 238.75 | 251.00 | 339.85
45 | 105.05 | 185.65 | 204.15 | 225.55 | 232.95 | 243.85 | 256.50 | 347.30
46 | 107.10 | 189.40 | 208.70 | 230.40 | 237.80 | 248.80 | 261.85 | 354.55
47 | 109.35 | 193.25 | 212.90 | 235.00 | 242.70 | 253.85 | 267.25 | 361.85
48 | 111.25 | 197.20 | 217.10 | 239.45 | 247.60 | 258.90 | 272.65 | 369.15
49 | 113.20 | 200.90 | 221.45 | 244.15 | 252.65 | 264.10 | 278.10 | 376.55
50 | 115.65 | 204.85 | 225.80 | 248.90 | 257.40 | 268.90 | 283.45 | 383.75
51 | 117.65 | 208.75 | 230.05 | 253.45 | 262.20 | 273.90 | 288.10 | 390.05
52 | 119.70 | 212.40 | 234.25 | 258.00 | 267.30 | 279.05 | 294.30 | 398.50
53 | 121.60 | 216.35 | 238.65 | 262.65 | 272.20 | 284.10 | 299.70 | 405.75
54 | 123.80 | 220.25 | 242.85 | 267.15 | 277.05 | 289.15 | 305.05 | 413.05
55 | 126.25 | 225.30 | 247.30 | 271.90 | 281.90 | 294.05 | 310.40 | 420.30
56 | 128.90 | 229.20 | 251.50 | 276.40 | 286.75 | 299.05 | 315.85 | 427.65
57 | 131.10 | 233.05 | 255.80 | 281.00 | 291.60 | 304.05 | 321.20 | 434.85
58 | 133.35 | 236.75 | 260.05 | 285.50 | 296.60 | 309.10 | 326.60 | 442.15
59 | 135.20 | 240.60 | 264.30 | 290.10 | 301.60 | 314.15 | 331.95 | 449.45
60 | 137.00 | 244.45 | 268.65 | 294.65 | 306.45 | 319.10 | 337.35 | 456.75
61 | 138.95 | 248.40 | 273.15 | 299.45 | 311.35 | 324.10 | 342.75 | 464.05
62 | 141.10 | 252.10 | 277.30 | 303.85 | 316.15 | 328.95 | 348.25 | 471.50
63 | 143.45 | 255.95 | 281.60 | 308.45 | 321.10 | 334.10 | 353.70 | 478.85
64 | 145.35 | 259.75 | 285.80 | 312.90 | 326.05 | 339.10 | 359.10 | 486.15
65 | 147.85 | 263.60 | 290.10 | 317.45 | 330.90 | 343.95 | 364.40 | 493.35
66 | 150.60 | 267.55 | 294.50 | 322.15 | 335.80 | 349.00 | 369.75 | 500.55
67 | 152.35 | 271.30 | 298.85 | 326.75 | 340.55 | 353.80 | 375.20 | 507.95
68 | 154.35 | 275.15 | 303.10 | 331.15 | 345.65 | 359.00 | 380.70 | 515.45
69 | 156.80 | 279.05 | 307.35 | 335.70 | 350.40 | 363.85 | 385.85 | 522.45
70 | 159.65 | 282.90 | 311.70 | 340.25 | 355.35 | 368.80 | 391.30 | 529.80

Commercial Base Flat Rate Envelope
| ($)
Commercial Base Regular Flat Rate Envelope, per piece | 22.75
Commercial Base Legal Flat Rate Envelope, per piece | 22.95
Commercial Base Padded Flat Rate Envelope, per piece | 23.25

Commercial Base Dimensional Weight

In Zones 1-9 (including local), parcels exceeding one cubic foot are priced at the actual weight or the dimensional weight, whichever is greater.

For box-shaped parcels, the dimensional weight (pounds) is calculated by multiplying the length (inches) times the width (inches) times the height (inches) of the parcel, and dividing by 166.

For irregular-shaped parcels (parcels not appearing box-shaped), the dimensional weight (pounds) is calculated by multiplying the length (inches) times the width (inches) times the height (inches) at the associated maximum cross-sections of the parcel, dividing by 166, and multiplying by an adjustment factor of 0.785.

Commercial Plus Zone/Weight
Maximum weight (pounds) | Local, Zones 1 & 2 ($) | Zone 3 ($) | Zone 4 ($) | Zone 5 ($) | Zone 6 ($) | Zone 7 ($) | Zone 8 ($) | Zone 9 ($)
0.5 | 22.75 | 23.30 | 24.05 | 26.35 | 28.25 | 30.05 | 32.45 | 43.95
1 | 23.00 | 25.20 | 27.45 | 31.20 | 33.65 | 35.65 | 38.05 | 51.50
2 | 23.25 | 27.05 | 30.90 | 36.00 | 39.05 | 41.20 | 43.60 | 59.05
3 | 23.50 | 28.95 | 34.30 | 40.85 | 44.40 | 46.80 | 49.20 | 66.55
4 | 23.75 | 30.80 | 37.75 | 45.65 | 49.80 | 52.35 | 54.75 | 74.10
5 | 24.00 | 32.70 | 41.15 | 50.50 | 55.20 | 57.95 | 60.35 | 81.65
6 | 26.45 | 35.95 | 45.70 | 55.55 | 60.40 | 63.55 | 66.15 | 89.50
7 | 28.90 | 39.20 | 50.30 | 60.60 | 65.60 | 69.15 | 71.95 | 97.35
8 | 31.40 | 42.50 | 54.85 | 65.60 | 70.75 | 74.75 | 77.75 | 105.20
9 | 33.85 | 45.75 | 59.45 | 70.65 | 75.95 | 80.35 | 83.55 | 113.05
10 | 36.30 | 49.00 | 64.00 | 75.70 | 81.15 | 85.95 | 89.35 | 120.90
11 | 38.20 | 52.90 | 67.90 | 79.60 | 84.90 | 89.90 | 93.55 | 126.55
12 | 40.10 | 56.80 | 71.75 | 83.55 | 88.70 | 93.85 | 97.70 | 132.20
13 | 42.05 | 60.70 | 75.65 | 87.45 | 92.45 | 97.80 | 101.90 | 137.90
14 | 43.95 | 64.60 | 79.55 | 91.40 | 96.20 | 101.75 | 106.05 | 143.55
15 | 45.85 | 68.50 | 83.45 | 95.30 | 100.00 | 105.65 | 110.20 | 149.20
16 | 47.75 | 72.35 | 87.30 | 99.20 | 103.75 | 109.60 | 114.40 | 154.85
17 | 49.65 | 76.25 | 91.20 | 103.15 | 107.50 | 113.55 | 118.55 | 160.50
18 | 51.60 | 80.15 | 95.10 | 107.05 | 111.25 | 117.50 | 122.75 | 166.20
19 | 53.50 | 84.05 | 98.95 | 111.00 | 115.05 | 121.45 | 126.90 | 171.85
20 | 55.40 | 87.95 | 102.85 | 114.90 | 118.80 | 125.40 | 131.10 | 177.50
21 | 57.35 | 91.90 | 106.75 | 119.15 | 123.15 | 129.90 | 135.85 | 183.95
22 | 59.35 | 95.85 | 110.65 | 123.45 | 127.50 | 134.45 | 140.60 | 190.40
23 | 61.30 | 99.80 | 114.50 | 127.70 | 131.80 | 138.95 | 145.40 | 196.85
24 | 63.30 | 103.75 | 118.40 | 132.00 | 136.15 | 143.45 | 150.15 | 203.25
25 | 65.25 | 107.70 | 122.30 | 136.25 | 140.50 | 147.95 | 154.90 | 209.70
26 | 67.20 | 111.65 | 126.20 | 140.50 | 144.85 | 152.50 | 159.65 | 216.15
27 | 69.20 | 115.60 | 130.10 | 144.80 | 149.20 | 157.00 | 164.40 | 222.60
28 | 71.15 | 119.55 | 133.95 | 149.05 | 153.50 | 161.50 | 169.20 | 229.05
29 | 73.15 | 123.50 | 137.85 | 153.35 | 157.85 | 166.00 | 173.95 | 235.50
30 | 75.10 | 127.45 | 141.75 | 157.60 | 162.20 | 170.55 | 178.70 | 241.95
31 | 77.05 | 131.40 | 145.65 | 161.85 | 166.55 | 175.05 | 183.45 | 248.40
32 | 79.05 | 135.35 | 149.55 | 166.15 | 170.90 | 179.55 | 188.20 | 254.80
33 | 81.00 | 139.30 | 153.40 | 170.40 | 175.20 | 184.05 | 193.00 | 261.25
34 | 83.00 | 143.25 | 157.30 | 174.70 | 179.55 | 188.60 | 197.75 | 267.70
35 | 84.95 | 147.20 | 161.20 | 178.95 | 183.90 | 193.10 | 202.50 | 274.15
36 | 87.15 | 151.10 | 165.60 | 183.75 | 188.95 | 198.30 | 207.90 | 281.50
37 | 89.00 | 154.85 | 169.85 | 188.35 | 193.95 | 203.50 | 213.35 | 288.85
38 | 91.10 | 158.75 | 174.15 | 193.10 | 198.75 | 208.50 | 218.65 | 296.05
39 | 93.35 | 162.65 | 178.55 | 197.75 | 203.40 | 213.30 | 224.10 | 303.45
40 | 95.35 | 166.30 | 182.90 | 202.55 | 208.35 | 218.45 | 229.55 | 310.80
41 | 97.25 | 170.25 | 187.15 | 207.10 | 213.40 | 223.65 | 234.90 | 318.00
42 | 98.95 | 174.15 | 191.40 | 211.75 | 218.40 | 228.80 | 240.20 | 325.25
43 | 101.25 | 177.90 | 195.65 | 216.35 | 223.25 | 233.80 | 245.70 | 332.60
44 | 103.05 | 181.80 | 200.00 | 221.05 | 228.05 | 238.75 | 251.00 | 339.85
45 | 105.05 | 185.65 | 204.15 | 225.55 | 232.95 | 243.85 | 256.50 | 347.30
46 | 107.10 | 189.40 | 208.70 | 230.40 | 237.80 | 248.80 | 261.85 | 354.55
47 | 109.35 | 193.25 | 212.90 | 235.00 | 242.70 | 253.85 | 267.25 | 361.85
48 | 111.25 | 197.20 | 217.10 | 239.45 | 247.60 | 258.90 | 272.65 | 369.15
49 | 113.20 | 200.90 | 221.45 | 244.15 | 252.65 | 264.10 | 278.10 | 376.55
50 | 115.65 | 204.85 | 225.80 | 248.90 | 257.40 | 268.90 | 283.45 | 383.75
51 | 117.65 | 208.75 | 230.05 | 253.45 | 262.20 | 273.90 | 288.10 | 390.05
52 | 119.70 | 212.40 | 234.25 | 258.00 | 267.30 | 279.05 | 294.30 | 398.50
53 | 121.60 | 216.35 | 238.65 | 262.65 | 272.20 | 284.10 | 299.70 | 405.75
54 | 123.80 | 220.25 | 242.85 | 267.15 | 277.05 | 289.15 | 305.05 | 413.05
55 | 126.25 | 225.30 | 247.30 | 271.90 | 281.90 | 294.05 | 310.40 | 420.30
56 | 128.90 | 229.20 | 251.50 | 276.40 | 286.75 | 299.05 | 315.85 | 427.65
57 | 131.10 | 233.05 | 255.80 | 281.00 | 291.60 | 304.05 | 321.20 | 434.85
58 | 133.35 | 236.75 | 260.05 | 285.50 | 296.60 | 309.10 | 326.60 | 442.15
59 | 135.20 | 240.60 | 264.30 | 290.10 | 301.60 | 314.15 | 331.95 | 449.45
60 | 137.00 | 244.45 | 268.65 | 294.65 | 306.45 | 319.10 | 337.35 | 456.75
61 | 138.95 | 248.40 | 273.15 | 299.45 | 311.35 | 324.10 | 342.75 | 464.05
62 | 141.10 | 252.10 | 277.30 | 303.85 | 316.15 | 328.95 | 348.25 | 471.50
63 | 143.45 | 255.95 | 281.60 | 308.45 | 321.10 | 334.10 | 353.70 | 478.85
64 | 145.35 | 259.75 | 285.80 | 312.90 | 326.05 | 339.10 | 359.10 | 486.15
65 | 147.85 | 263.60 | 290.10 | 317.45 | 330.90 | 343.95 | 364.40 | 493.35
66 | 150.60 | 267.55 | 294.50 | 322.15 | 335.80 | 349.00 | 369.75 | 500.55
67 | 152.35 | 271.30 | 298.85 | 326.75 | 340.55 | 353.80 | 375.20 | 507.95
68 | 154.35 | 275.15 | 303.10 | 331.15 | 345.65 | 359.00 | 380.70 | 515.45
69 | 156.80 | 279.05 | 307.35 | 335.70 | 350.40 | 363.85 | 385.85 | 522.45
70 | 159.65 | 282.90 | 311.70 | 340.25 | 355.35 | 368.80 | 391.30 | 529.80

Commercial Plus Flat Rate Envelope
| ($)
Commercial Plus Regular Flat Rate Envelope, per piece | 22.75
Commercial Plus Legal Flat Rate Envelope, per piece | 22.95
Commercial Plus Padded Flat Rate Envelope, per piece | 23.25

BILLING CODE 7710-12-P

BILLING CODE 7710-12-C

2110.6 Prices

Retail Priority Mail Zone/Weight
Maximum weight (pounds) | Local, Zones 1 & 2 | Zone 3 | Zone 4 | Zone 5 | Zone 6 | Zone 7 | Zone 8 | Zone 9
| ($) | ($) | ($) | ($) | ($) | ($) | ($) | ($)
1 | 7.50 | 7.85 | 8.00 | 8.25 | 8.45 | 8.85 | 9.60 | 14.05
2 | 8.25 | 8.70 | 9.90 | 10.90 | 11.75 | 13.65 | 14.90 | 22.30
3 | 8.70 | 9.70 | 10.90 | 12.55 | 13.25 | 16.90 | 20.00 | 29.85
4 | 9.20 | 10.55 | 11.55 | 13.95 | 17.25 | 20.80 | 23.15 | 34.55
5 | 10.20 | 11.30 | 12.25 | 14.40 | 19.65 | 23.85 | 26.70 | 40.00
6 | 10.95 | 11.55 | 12.80 | 15.70 | 21.85 | 25.90 | 29.20 | 45.15
7 | 11.95 | 13.10 | 15.40 | 18.95 | 24.20 | 28.95 | 32.85 | 50.75
8 | 12.30 | 14.50 | 17.10 | 22.55 | 27.45 | 32.15 | 36.75 | 56.80
9 | 12.80 | 15.65 | 18.95 | 25.75 | 29.85 | 34.70 | 40.90 | 63.20
10 | 13.60 | 16.80 | 20.40 | 27.90 | 32.30 | 38.15 | 44.55 | 68.90
11 | 14.95 | 18.50 | 22.50 | 29.95 | 36.30 | 44.15 | 51.25 | 76.25
12 | 16.25 | 19.85 | 24.20 | 33.20 | 39.50 | 47.75 | 54.50 | 81.80
13 | 17.25 | 20.95 | 25.55 | 35.10 | 42.40 | 49.65 | 57.00 | 84.75
14 | 18.30 | 22.35 | 27.20 | 37.35 | 44.75 | 52.45 | 59.95 | 89.00
15 | 18.95 | 23.60 | 28.75 | 39.50 | 46.70 | 53.65 | 61.50 | 91.55
16 | 19.60 | 24.90 | 30.30 | 41.70 | 49.30 | 56.60 | 64.90 | 96.55
17 | 20.50 | 26.20 | 31.90 | 43.85 | 51.80 | 59.60 | 68.30 | 101.65
18 | 20.85 | 27.10 | 33.20 | 46.00 | 54.55 | 62.50 | 71.85 | 106.85
19 | 21.45 | 27.75 | 33.95 | 47.30 | 55.60 | 63.85 | 73.30 | 111.90
20 | 22.35 | 28.10 | 34.50 | 47.95 | 56.95 | 66.10 | 76.75 | 117.05
21 | 23.10 | 28.45 | 35.00 | 48.80 | 57.90 | 67.20 | 78.50 | 120.70
22 | 23.65 | 29.10 | 35.85 | 49.95 | 59.20 | 68.85 | 80.35 | 123.70
23 | 24.20 | 29.70 | 36.45 | 50.75 | 60.30 | 70.20 | 81.80 | 125.80
24 | 24.75 | 30.30 | 37.30 | 51.90 | 61.55 | 71.95 | 83.80 | 128.95
25 | 25.00 | 30.80 | 38.80 | 54.25 | 62.30 | 73.75 | 85.20 | 131.05
26 | 26.00 | 31.40 | 40.25 | 55.35 | 63.85 | 75.55 | 87.90 | 135.25
27 | 26.80 | 31.85 | 41.45 | 56.45 | 64.80 | 77.35 | 91.20 | 140.30
28 | 27.60 | 32.25 | 42.70 | 57.85 | 65.60 | 79.10 | 94.60 | 145.60
29 | 28.45 | 32.65 | 43.75 | 58.70 | 66.75 | 80.90 | 97.20 | 149.50
30 | 29.30 | 33.05 | 44.80 | 59.50 | 68.60 | 82.80 | 99.30 | 152.80
31 | 30.15 | 33.40 | 45.55 | 60.30 | 69.65 | 84.55 | 101.25 | 157.10
32 | 30.50 | 34.15 | 46.30 | 60.95 | 70.50 | 86.35 | 103.35 | 160.30
33 | 31.05 | 35.05 | 47.45 | 61.75 | 71.90 | 88.15 | 105.25 | 163.35
34 | 31.30 | 36.00 | 48.65 | 63.10 | 73.55 | 90.00 | 107.25 | 166.35
35 | 31.60 | 36.85 | 49.25 | 64.45 | 75.50 | 91.75 | 109.00 | 169.15
36 | 31.95 | 37.90 | 49.95 | 65.80 | 77.50 | 93.00 | 110.95 | 172.05
37 | 32.25 | 38.55 | 50.65 | 67.00 | 79.50 | 94.20 | 112.75 | 174.90
38 | 32.65 | 39.55 | 51.30 | 68.30 | 81.70 | 95.35 | 114.55 | 177.75
39 | 32.95 | 40.45 | 51.95 | 69.75 | 83.65 | 97.80 | 116.25 | 180.40
40 | 33.35 | 41.30 | 52.65 | 71.25 | 85.00 | 100.00 | 117.90 | 182.90
41 | 33.65 | 42.10 | 53.25 | 71.90 | 86.35 | 102.15 | 119.65 | 187.00
42 | 33.90 | 42.85 | 53.80 | 73.45 | 87.90 | 103.45 | 121.20 | 189.60
43 | 34.35 | 43.55 | 54.30 | 75.10 | 90.05 | 104.80 | 122.75 | 191.95
44 | 34.55 | 44.25 | 55.00 | 76.60 | 91.45 | 106.00 | 124.20 | 194.30
45 | 34.80 | 44.75 | 55.35 | 78.40 | 92.45 | 107.20 | 125.80 | 196.70
46 | 35.05 | 45.05 | 55.95 | 79.80 | 93.45 | 108.35 | 127.25 | 199.10
47 | 35.35 | 45.50 | 56.50 | 81.60 | 94.50 | 109.55 | 128.70 | 201.20
48 | 35.70 | 45.85 | 57.05 | 83.20 | 95.75 | 110.60 | 130.10 | 203.40
49 | 35.90 | 46.15 | 57.45 | 84.75 | 97.00 | 111.75 | 131.40 | 205.45
50 | 36.05 | 46.45 | 57.90 | 86.40 | 98.30 | 113.20 | 132.70 | 207.60
51 | 36.20 | 46.90 | 58.40 | 87.85 | 99.65 | 114.85 | 133.95 | 211.15
52 | 36.65 | 47.20 | 58.80 | 88.55 | 100.70 | 116.55 | 135.50 | 213.75
53 | 37.30 | 47.50 | 59.15 | 89.25 | 101.55 | 118.40 | 137.30 | 216.50
54 | 37.75 | 47.70 | 59.60 | 90.00 | 102.30 | 120.20 | 139.25 | 219.50
55 | 38.40 | 48.05 | 59.90 | 90.65 | 103.05 | 122.05 | 141.10 | 222.45
56 | 38.95 | 48.35 | 60.25 | 91.25 | 103.80 | 123.80 | 142.40 | 224.50
57 | 39.50 | 48.50 | 60.60 | 91.75 | 104.55 | 125.70 | 143.45 | 226.15
58 | 40.15 | 48.75 | 61.00 | 92.40 | 105.15 | 127.40 | 144.55 | 227.80
59 | 40.75 | 48.95 | 61.30 | 92.95 | 105.75 | 128.15 | 145.70 | 229.65
60 | 41.30 | 49.15 | 61.90 | 93.40 | 106.30 | 128.90 | 146.60 | 231.15
61 | 41.90 | 49.40 | 63.00 | 93.90 | 106.90 | 129.65 | 148.60 | 234.35
62 | 42.35 | 49.50 | 63.75 | 94.40 | 107.45 | 130.25 | 151.05 | 238.05
63 | 43.15 | 49.75 | 64.85 | 94.80 | 108.00 | 130.85 | 153.45 | 241.90
64 | 43.60 | 51.30 | 65.80 | 95.25 | 108.45 | 131.50 | 155.70 | 245.55
65 | 44.20 | 51.45 | 66.65 | 95.60 | 108.85 | 132.10 | 158.25 | 249.45
66 | 44.75 | 51.65 | 67.75 | 96.05 | 109.35 | 132.55 | 160.45 | 253.00
67 | 45.50 | 51.75 | 68.90 | 96.35 | 109.65 | 133.10 | 162.60 | 256.30
68 | 46.00 | 51.85 | 69.75 | 96.60 | 111.05 | 133.60 | 164.35 | 259.10
69 | 46.60 | 51.90 | 70.60 | 96.85 | 112.40 | 133.95 | 166.10 | 261.80
70 | 47.15 | 52.05 | 71.75 | 97.20 | 113.80 | 134.40 | 167.90 | 264.60

Retail Flat Rate Envelopes ¹
| ($)
Retail Regular Flat Rate Envelope, per piece | 7.75
Retail Legal Flat Rate Envelope, per piece | 8.05
Retail Padded Flat Rate Envelope, per piece | 8.40
Notes
¹ The price for Regular, Legal, or Padded Flat Rate Envelopes also applies to sales of Regular, Legal, or Padded Flat Rate Envelopes, respectively, marked with Forever postage, at the time the envelopes are purchased.

Retail Flat Rate Boxes ¹
Size | Delivery to domestic address ($) | Delivery to APO/FPO/DPO address ($)
Small Flat Rate Box | 8.30 | 8.30
Medium Flat Rate Boxes | 15.05 | 15.05
Large Flat Rate Boxes | 21.10 | 19.60
Notes
¹ The price for Small, Medium, or Large Flat Rate Boxes also applies to sales of Small, Medium, or Large Flat Rate Boxes, respectively, marked with Forever postage, at the time the boxes are purchased.

Regional Rate Boxes
Size | Local, Zones 1 & 2 | Zone 3 ($) | Zone 4 ($) | Zone 5 ($) | Zone 6 ($) | Zone 7 ($) | Zone 8 ($) | Zone 9 ($)
A | 9.98 | 10.22 | 10.51 | 11.22 | 12.72 | 13.43 | 14.40 | 20.99
B | 10.37 | 10.81 | 11.72 | 13.83 | 19.02 | 21.51 | 24.19 | 36.68

Retail Dimensional Weight

In Zones 1-9 (including local), parcels exceeding one cubic foot are priced at the actual weight or the dimensional weight, whichever is greater.

For box-shaped parcels, the dimensional weight (pounds) is calculated by multiplying the length (inches) times the width (inches) times the height (inches) of the parcel, and dividing by 166.

For irregular-shaped parcels (parcels not appearing box-shaped), the dimensional weight (pounds) is calculated by multiplying the length (inches) times the width (inches) times the height (inches) at the associated maximum cross-sections of the parcel, dividing by 166, and multiplying by an adjustment factor of 0.785.

Commercial Base Priority Mail Zone/Weight
Maximum weight (pounds) | Local, Zones 1 & 2 ($) | Zone 3 ($) | Zone 4 ($) | Zone 5 ($) | Zone 6 ($) | Zone 7 ($) | Zone 8 ($) | Zone 9 ($)
1 | 7.02 | 7.35 | 7.56 | 7.80 | 7.98 | 8.15 | 8.42 | 11.40
2 | 7.64 | 7.84 | 8.12 | 8.76 | 9.99 | 10.54 | 11.19 | 17.45
3 | 7.84 | 8.23 | 8.59 | 9.54 | 12.15 | 13.49 | 15.74 | 23.67
4 | 7.94 | 8.45 | 9.07 | 10.33 | 14.16 | 16.06 | 18.14 | 28.50
5 | 8.04 | 8.50 | 9.39 | 10.64 | 16.14 | 18.46 | 21.01 | 33.17
6 | 8.15 | 8.54 | 9.50 | 14.18 | 18.47 | 21.45 | 24.52 | 38.01
7 | 8.39 | 9.69 | 9.74 | 15.89 | 20.46 | 24.18 | 27.55 | 42.68
8 | 8.45 | 10.17 | 11.49 | 17.35 | 22.47 | 26.63 | 30.94 | 47.91
9 | 9.28 | 10.56 | 11.97 | 18.60 | 24.45 | 28.84 | 34.40 | 53.28
10 | 9.76 | 11.10 | 12.16 | 20.30 | 26.67 | 32.03 | 37.78 | 57.94
11 | 11.30 | 13.53 | 14.50 | 22.57 | 29.15 | 35.50 | 41.67 | 63.30
12 | 12.00 | 14.39 | 16.89 | 24.18 | 31.81 | 38.40 | 44.73 | 67.86
13 | 12.62 | 15.22 | 17.68 | 25.47 | 34.14 | 39.95 | 46.31 | 70.29
14 | 13.27 | 16.06 | 18.62 | 26.96 | 36.06 | 42.18 | 48.61 | 73.77
15 | 13.79 | 16.90 | 19.53 | 28.34 | 37.45 | 42.99 | 49.88 | 75.72
16 | 14.39 | 17.97 | 20.78 | 30.03 | 39.95 | 45.84 | 53.13 | 79.88
17 | 14.85 | 18.80 | 21.77 | 31.50 | 41.98 | 48.22 | 55.95 | 84.09
18 | 15.14 | 19.38 | 22.75 | 32.91 | 44.20 | 50.60 | 58.75 | 88.33
19 | 15.49 | 19.83 | 23.27 | 33.78 | 46.18 | 52.95 | 61.54 | 92.52
20 | 16.10 | 20.14 | 23.74 | 34.40 | 47.38 | 54.93 | 64.39 | 96.78
21 | 16.81 | 20.62 | 24.29 | 35.01 | 47.75 | 55.45 | 65.22 | 98.85
22 | 17.34 | 21.18 | 25.10 | 35.71 | 48.08 | 55.88 | 65.97 | 100.00
23 | 17.86 | 21.68 | 25.70 | 36.36 | 48.34 | 56.26 | 66.36 | 100.59
24 | 18.59 | 22.60 | 27.16 | 37.79 | 49.36 | 57.73 | 67.98 | 103.05
25 | 19.30 | 23.40 | 28.88 | 39.06 | 50.09 | 59.17 | 69.16 | 104.82
26 | 20.47 | 25.09 | 31.90 | 41.14 | 51.31 | 60.63 | 71.33 | 108.10
27 | 21.69 | 26.22 | 33.84 | 44.84 | 52.00 | 62.04 | 74.00 | 112.19
28 | 22.35 | 26.57 | 34.80 | 46.01 | 52.71 | 63.48 | 76.78 | 116.40
29 | 23.04 | 26.84 | 35.74 | 46.62 | 53.59 | 64.94 | 78.85 | 119.51
30 | 23.72 | 27.23 | 36.58 | 47.26 | 55.09 | 66.36 | 80.54 | 122.10
31 | 24.39 | 27.50 | 37.15 | 47.86 | 55.89 | 67.83 | 82.19 | 125.60
32 | 24.67 | 28.08 | 37.77 | 48.42 | 56.62 | 69.29 | 83.87 | 128.16
33 | 25.05 | 28.86 | 38.71 | 49.06 | 57.72 | 70.72 | 85.41 | 130.53
34 | 25.28 | 29.61 | 39.69 | 50.12 | 59.09 | 72.17 | 87.01 | 133.00
35 | 25.56 | 30.31 | 40.26 | 51.18 | 60.67 | 73.62 | 88.51 | 135.26
36 | 25.88 | 31.19 | 40.79 | 52.29 | 62.20 | 74.62 | 90.01 | 137.57
37 | 26.15 | 31.77 | 41.38 | 53.22 | 63.83 | 75.57 | 91.49 | 139.84
38 | 26.41 | 32.54 | 41.90 | 54.28 | 65.60 | 76.44 | 92.94 | 142.07
39 | 26.66 | 33.30 | 42.38 | 55.40 | 67.15 | 78.45 | 94.38 | 144.27
40 | 26.94 | 34.00 | 42.93 | 56.56 | 68.23 | 80.21 | 95.67 | 146.22
41 | 27.23 | 34.57 | 43.39 | 57.06 | 69.38 | 81.92 | 97.05 | 149.51
42 | 27.43 | 34.83 | 43.77 | 58.02 | 70.60 | 83.04 | 98.38 | 151.55
43 | 27.75 | 35.09 | 44.16 | 58.98 | 72.29 | 84.07 | 99.64 | 153.49
44 | 27.94 | 35.34 | 44.54 | 59.93 | 73.44 | 85.07 | 100.76 | 155.26
45 | 28.12 | 35.59 | 44.94 | 60.89 | 74.25 | 85.99 | 102.04 | 157.22
46 | 28.37 | 35.85 | 45.33 | 61.85 | 75.08 | 86.92 | 103.27 | 159.09
47 | 28.58 | 36.10 | 45.71 | 62.81 | 75.86 | 87.91 | 104.41 | 160.87
48 | 28.82 | 36.36 | 46.10 | 63.76 | 76.84 | 88.75 | 105.52 | 162.62
49 | 29.04 | 36.60 | 46.49 | 64.72 | 77.89 | 89.68 | 106.59 | 164.21
50 | 29.16 | 36.86 | 46.88 | 65.68 | 78.98 | 90.82 | 107.71 | 165.97
51 | 29.59 | 37.12 | 47.25 | 66.80 | 80.06 | 92.12 | 108.71 | 168.85
52 | 30.03 | 37.38 | 47.64 | 67.27 | 80.84 | 93.51 | 110.00 | 170.82
53 | 30.59 | 37.62 | 48.03 | 67.82 | 81.52 | 95.04 | 111.40 | 173.01
54 | 31.03 | 37.89 | 48.41 | 68.41 | 82.10 | 96.40 | 112.96 | 175.43
55 | 31.52 | 38.13 | 48.80 | 68.84 | 82.78 | 97.93 | 114.48 | 177.79
56 | 31.95 | 38.39 | 49.19 | 69.36 | 83.33 | 99.31 | 115.65 | 179.63
57 | 32.46 | 38.64 | 49.58 | 69.77 | 83.96 | 100.82 | 116.67 | 181.24
58 | 32.95 | 38.89 | 49.96 | 70.21 | 84.46 | 102.15 | 117.64 | 182.70
59 | 33.42 | 39.15 | 50.34 | 70.64 | 84.94 | 102.85 | 118.50 | 184.07
60 | 33.84 | 39.40 | 50.73 | 71.03 | 85.36 | 103.45 | 119.35 | 185.36
61 | 34.39 | 39.65 | 51.12 | 71.39 | 85.84 | 104.05 | 120.95 | 187.88
62 | 34.81 | 39.91 | 51.50 | 71.70 | 86.24 | 104.51 | 122.88 | 190.84
63 | 35.44 | 40.17 | 51.90 | 72.08 | 86.73 | 105.01 | 124.85 | 193.90
64 | 35.75 | 40.41 | 52.28 | 72.40 | 87.12 | 105.49 | 126.76 | 196.89
65 | 36.27 | 40.67 | 52.68 | 72.62 | 87.37 | 106.02 | 128.74 | 199.97
66 | 36.74 | 40.93 | 53.05 | 72.95 | 87.81 | 106.34 | 130.61 | 202.87
67 | 37.29 | 41.18 | 53.95 | 73.21 | 88.09 | 106.76 | 132.35 | 205.54
68 | 37.73 | 41.43 | 54.63 | 73.41 | 89.20 | 107.32 | 133.75 | 207.72
69 | 38.24 | 41.69 | 55.33 | 73.63 | 90.27 | 107.82 | 135.16 | 209.94
70 | 38.64 | 41.94 | 56.20 | 73.86 | 91.36 | 108.21 | 136.62 | 212.19

Commercial Base Flat Rate Envelope
| ($)
Commercial Base Regular Flat Rate Envelope, per piece | 7.15
Commercial Base Legal Flat Rate Envelope, per piece | 7.45
Commercial Base Padded Flat Rate Envelope, per piece | 7.75

Commercial Base Flat Rate Box
Size | Delivery to domestic address ($) | Delivery to APO/FPO/DPO address ($)
Small Flat Rate Box | 7.65 | 7.65
Regular Flat Rate Boxes | 13.20 | 13.20
Large Flat Rate Boxes | 18.30 | 16.80

Commercial Base Regional Rate Boxes
Size | Local, Zones 1 & 2 ($) | Zone 3 ($) | Zone 4 ($) | Zone 5 ($) | Zone 6 ($) | Zone 7 ($) | Zone 8 ($) | Zone 9 ($)
A | 7.68 | 7.92 | 8.21 | 8.92 | 10.42 | 11.13 | 12.10 | 18.69
B | 8.07 | 8.51 | 9.42 | 11.53 | 16.72 | 19.21 | 21.89 | 34.38

Commercial Base Dimensional Weight

In Zones 1-9 (including local), parcels exceeding one cubic foot are priced at the actual weight or the dimensional weight, whichever is greater.

For box-shaped parcels, the dimensional weight (pounds) is calculated by multiplying the length (inches) times the width (inches) times the height (inches) of the parcel, and dividing by 166.

For irregular-shaped parcels (parcels not appearing box-shaped), the dimensional weight (pounds) is calculated by multiplying the length (inches) times the width (inches) times the height (inches) at the associated maximum cross-sections of the parcel, dividing by 166, and multiplying by an adjustment factor of 0.785.

Commercial Plus Priority Mail Zone/Weight
Maximum weight (pounds) | Local, Zones 1 & 2 ($) | Zone 3 ($) | Zone 4 ($) | Zone 5 ($) | Zone 6 ($) | Zone 7 ($) | Zone 8 ($) | Zone 9 ($)
0.5 | 7.02 | 7.35 | 7.56 | 7.80 | 7.98 | 8.15 | 8.42 | 11.40
1 | 7.02 | 7.35 | 7.56 | 7.80 | 7.98 | 8.15 | 8.42 | 11.40
2 | 7.64 | 7.84 | 8.12 | 8.76 | 9.99 | 10.54 | 11.19 | 17.45
3 | 7.84 | 8.23 | 8.59 | 9.54 | 12.15 | 13.49 | 15.74 | 23.67
4 | 7.94 | 8.45 | 9.07 | 10.33 | 14.16 | 16.06 | 18.14 | 28.50
5 | 8.04 | 8.50 | 9.39 | 10.64 | 16.14 | 18.46 | 21.01 | 33.17
6 | 8.15 | 8.54 | 9.50 | 14.18 | 18.47 | 21.45 | 24.52 | 38.01
7 | 8.39 | 9.69 | 9.74 | 15.89 | 20.46 | 24.18 | 27.55 | 42.68
8 | 8.45 | 10.17 | 11.49 | 17.35 | 22.47 | 26.63 | 30.94 | 47.91
9 | 9.28 | 10.56 | 11.97 | 18.60 | 24.45 | 28.84 | 34.40 | 53.28
10 | 9.76 | 11.10 | 12.16 | 20.30 | 26.67 | 32.03 | 37.78 | 57.94
11 | 11.30 | 13.53 | 14.50 | 22.57 | 29.15 | 35.50 | 41.67 | 63.30
12 | 12.00 | 14.39 | 16.89 | 24.18 | 31.81 | 38.40 | 44.73 | 67.86
13 | 12.62 | 15.22 | 17.68 | 25.47 | 34.14 | 39.95 | 46.31 | 70.29
14 | 13.27 | 16.06 | 18.62 | 26.96 | 36.06 | 42.18 | 48.61 | 73.77
15 | 13.79 | 16.90 | 19.53 | 28.34 | 37.45 | 42.99 | 49.88 | 75.72
16 | 14.39 | 17.97 | 20.78 | 30.03 | 39.95 | 45.84 | 53.13 | 79.88
17 | 14.85 | 18.80 | 21.77 | 31.50 | 41.98 | 48.22 | 55.95 | 84.09
18 | 15.14 | 19.38 | 22.75 | 32.91 | 44.20 | 50.60 | 58.75 | 88.33
19 | 15.49 | 19.83 | 23.27 | 33.78 | 46.18 | 52.95 | 61.54 | 92.52
20 | 16.10 | 20.14 | 23.74 | 34.40 | 47.38 | 54.93 | 64.39 | 96.78
21 | 16.81 | 20.62 | 24.29 | 35.01 | 47.75 | 55.45 | 65.22 | 98.85
22 | 17.34 | 21.18 | 25.10 | 35.71 | 48.08 | 55.88 | 65.97 | 100.00
23 | 17.86 | 21.68 | 25.70 | 36.36 | 48.34 | 56.26 | 66.36 | 100.59
24 | 18.59 | 22.60 | 27.16 | 37.79 | 49.36 | 57.73 | 67.98 | 103.05
25 | 19.30 | 23.40 | 28.88 | 39.06 | 50.09 | 59.17 | 69.16 | 104.82
26 | 20.47 | 25.09 | 31.90 | 41.14 | 51.31 | 60.63 | 71.33 | 108.10
27 | 21.69 | 26.22 | 33.84 | 44.84 | 52.00 | 62.04 | 74.00 | 112.19
28 | 22.35 | 26.57 | 34.80 | 46.01 | 52.71 | 63.48 | 76.78 | 116.40
29 | 23.04 | 26.84 | 35.74 | 46.62 | 53.59 | 64.94 | 78.85 | 119.51
30 | 23.72 | 27.23 | 36.58 | 47.26 | 55.09 | 66.36 | 80.54 | 122.10
31 | 24.39 | 27.50 | 37.15 | 47.86 | 55.89 | 67.83 | 82.19 | 125.60
32 | 24.67 | 28.08 | 37.77 | 48.42 | 56.62 | 69.29 | 83.87 | 128.16
33 | 25.05 | 28.86 | 38.71 | 49.06 | 57.72 | 70.72 | 85.41 | 130.53
34 | 25.28 | 29.61 | 39.69 | 50.12 | 59.09 | 72.17 | 87.01 | 133.00
35 | 25.56 | 30.31 | 40.26 | 51.18 | 60.67 | 73.62 | 88.51 | 135.26
36 | 25.88 | 31.19 | 40.79 | 52.29 | 62.20 | 74.62 | 90.01 | 137.57
37 | 26.15 | 31.77 | 41.38 | 53.22 | 63.83 | 75.57 | 91.49 | 139.84
38 | 26.41 | 32.54 | 41.90 | 54.28 | 65.60 | 76.44 | 92.94 | 142.07
39 | 26.66 | 33.30 | 42.38 | 55.40 | 67.15 | 78.45 | 94.38 | 144.27
40 | 26.94 | 34.00 | 42.93 | 56.56 | 68.23 | 80.21 | 95.67 | 146.22
41 | 27.23 | 34.57 | 43.39 | 57.06 | 69.38 | 81.92 | 97.05 | 149.51
42 | 27.43 | 34.83 | 43.77 | 58.02 | 70.60 | 83.04 | 98.38 | 151.55
43 | 27.75 | 35.09 | 44.16 | 58.98 | 72.29 | 84.07 | 99.64 | 153.49
44 | 27.94 | 35.34 | 44.54 | 59.93 | 73.44 | 85.07 | 100.76 | 155.26
45 | 28.12 | 35.59 | 44.94 | 60.89 | 74.25 | 85.99 | 102.04 | 157.22
46 | 28.37 | 35.85 | 45.33 | 61.85 | 75.08 | 86.92 | 103.27 | 159.09
47 | 28.58 | 36.10 | 45.71 | 62.81 | 75.86 | 87.91 | 104.41 | 160.87
48 | 28.82 | 36.36 | 46.10 | 63.76 | 76.84 | 88.75 | 105.52 | 162.62
49 | 29.04 | 36.60 | 46.49 | 64.72 | 77.89 | 89.68 | 106.59 | 164.21
50 | 29.16 | 36.86 | 46.88 | 65.68 | 78.98 | 90.82 | 107.71 | 165.97
51 | 29.59 | 37.12 | 47.25 | 66.80 | 80.06 | 92.12 | 108.71 | 168.85
52 | 30.03 | 37.38 | 47.64 | 67.27 | 80.84 | 93.51 | 110.00 | 170.82
53 | 30.59 | 37.62 | 48.03 | 67.82 | 81.52 | 95.04 | 111.40 | 173.01
54 | 31.03 | 37.89 | 48.41 | 68.41 | 82.10 | 96.40 | 112.96 | 175.43
55 | 31.52 | 38.13 | 48.80 | 68.84 | 82.78 | 97.93 | 114.48 | 177.79
56 | 31.95 | 38.39 | 49.19 | 69.36 | 83.33 | 99.31 | 115.65 | 179.63
57 | 32.46 | 38.64 | 49.58 | 69.77 | 83.96 | 100.82 | 116.67 | 181.24
58 | 32.95 | 38.89 | 49.96 | 70.21 | 84.46 | 102.15 | 117.64 | 182.70
59 | 33.42 | 39.15 | 50.34 | 70.64 | 84.94 | 102.85 | 118.50 | 184.07
60 | 33.84 | 39.40 | 50.73 | 71.03 | 85.36 | 103.45 | 119.35 | 185.36
61 | 34.39 | 39.65 | 51.12 | 71.39 | 85.84 | 104.05 | 120.95 | 187.88
62 | 34.81 | 39.91 | 51.50 | 71.70 | 86.24 | 104.51 | 122.88 | 190.84
63 | 35.44 | 40.17 | 51.90 | 72.08 | 86.73 | 105.01 | 124.85 | 193.90
64 | 35.75 | 40.41 | 52.28 | 72.40 | 87.12 | 105.49 | 126.76 | 196.89
65 | 36.27 | 40.67 | 52.68 | 72.62 | 87.37 | 106.02 | 128.74 | 199.97
66 | 36.74 | 40.93 | 53.05 | 72.95 | 87.81 | 106.34 | 130.61 | 202.87
67 | 37.29 | 41.18 | 53.95 | 73.21 | 88.09 | 106.76 | 132.35 | 205.54
68 | 37.73 | 41.43 | 54.63 | 73.41 | 89.20 | 107.32 | 133.75 | 207.72
69 | 38.24 | 41.69 | 55.33 | 73.63 | 90.27 | 107.82 | 135.16 | 209.94
70 | 38.64 | 41.94 | 56.20 | 73.86 | 91.36 | 108.21 | 136.62 | 212.19

Commercial Plus Flat Rate Envelope
| ($)
Commercial Plus Regular Flat Rate Envelope, per piece | 7.15
Commercial Plus Legal Flat Rate Envelope, per piece | 7.45
Commercial Plus Padded Flat Rate Envelope, per piece | 7.75

Commercial Plus Flat Rate Box
Size | Delivery to domestic address ($) | Delivery to APO/FPO/DPO address ($) |  |
Small Flat Rate Box | 7.65 | 7.65
Medium Flat Rate Boxes | 13.20 | 13.20
Large Flat Rate Boxes | 18.30 | 16.80

Commercial Plus Regional Rate Boxes
Maximum cubic feet | Local, Zones 1 & 2 ($) | Zone 3 ($) | Zone 4 ($) | Zone 5 ($) | Zone 6 ($) | Zone 7 ($) | Zone 8 ($) | Zone 9 ($)
A | 7.68 | 7.92 | 8.21 | 8.92 | 10.42 | 11.13 | 12.10 | 18.69
B | 8.07 | 8.51 | 9.42 | 11.53 | 16.72 | 19.21 | 21.89 | 34.38

Commercial Plus Dimensional Weight

In Zones 1-9 (including local), parcels exceeding one cubic foot are priced at the actual weight or the dimensional weight, whichever is greater.

For box-shaped parcels, the dimensional weight (pounds) is calculated by multiplying the length (inches) times the width (inches) times the height (inches) of the parcel, and dividing by 166.

For irregular-shaped parcels (parcels not appearing box-shaped), the dimensional weight (pounds) is calculated by multiplying the length (inches) times the width (inches) times the height (inches) at the associated maximum cross-sections of the parcel, dividing by 166, and multiplying by an adjustment factor of 0.785.

Commercial Plus Cubic
Maximum cubic feet | Local, Zones 1 & 2 ($) | Zone 3 ($) | Zone 4 ($) | Zone 5 ($) | Zone 6 ($) | Zone 7 ($) | Zone 8 ($) | Zone 9 ($)
0.10 | 7.02 | 7.35 | 7.56 | 7.80 | 7.98 | 8.15 | 8.42 | 11.40
0.20 | 7.46 | 7.80 | 8.02 | 8.71 | 9.00 | 9.22 | 9.56 | 13.15
0.30 | 8.04 | 8.26 | 8.55 | 9.65 | 10.98 | 11.58 | 12.29 | 19.12
0.40 | 8.21 | 8.57 | 8.93 | 10.31 | 12.78 | 14.02 | 16.02 | 24.28
0.50 | 8.34 | 8.84 | 9.42 | 11.15 | 14.98 | 16.89 | 19.24 | 29.88

Open and Distribute (PMOD)

a. DDU

Container | Local, Zones 1 & 2 ($) | Zone 3 ($) | Zone 4 ($) | Zone 5 ($) | Zone 6 ($) | Zone 7 ($) | Zone 8 ($) | Zone 9 ($)
Half Tray | 8.49 | 10.39 | 12.56 | 20.20 | 20.47 | 22.25 | 24.70 | 30.88
Full Tray | 11.54 | 14.43 | 16.80 | 29.41 | 33.79 | 35.91 | 40.07 | 50.08
EMM Tray | 13.23 | 15.76 | 19.47 | 32.53 | 35.71 | 39.21 | 43.60 | 54.50
Flat Tub | 18.90 | 23.69 | 29.29 | 49.54 | 59.80 | 64.65 | 71.96 | 89.95

b. Processing Facilities

Container | Local, Zones 1 & 2 ($) | Zone 3 ($) | Zone 4 ($) | Zone 5 ($) | Zone 6 ($) | Zone 7 ($) | Zone 8 ($) | Zone 9 ($)
Half Tray | 6.73 | 8.52 | 10.46 | 18.24 | 18.64 | 20.39 | 21.89 | 27.37
Full Tray | 8.70 | 11.22 | 13.97 | 25.48 | 30.12 | 32.24 | 36.03 | 45.04
EMM Tray | 10.38 | 12.03 | 16.39 | 28.13 | 31.95 | 35.18 | 40.65 | 50.82
Flat Tub | 14.85 | 19.63 | 24.87 | 45.42 | 55.48 | 60.39 | 66.42 | 83.04

2115 Parcel Select

* * *

2115.5 Optional Features

The following additional postal services may be available in conjunction with the product specified in this section:

• Forwarding and Return Service

• Pickup On Demand Service

• Ancillary Services (1505)

○ Address Correction Service (1505.1)

○ Certificate of Mailing (1505.6)

○ Collect On Delivery (1505.7)

○ USPS Tracking (1505.8)

○ Insurance (1505.9)

○ Return Receipt (1505.13)

○ Return Receipt for Merchandise (1505.14)

○ Signature Confirmation (1505.17)

○ Special Handling (1505.18)

• Competitive Ancillary Services (2545)

○ Adult Signature (2545.1)

○ Package Intercept Service (2545.2)

○ Premium Data Retention and Retrieval Service (2545.3)

2115.6 Prices

a. DDU

Destination Entered—DDU
Maximum weight (pounds) | DDU ($)
1 | 3.19
2 | 3.29
3 | 3.40
4 | 3.50
5 | 3.58
6 | 3.67
7 | 3.77
8 | 3.86
9 | 3.95
10 | 4.03
11 | 4.11
12 | 4.19
13 | 4.27
14 | 4.35
15 | 4.44
16 | 4.52
17 | 4.60
18 | 4.73
19 | 4.81
20 | 4.94
21 | 6.21
22 | 6.24
23 | 6.27
24 | 6.30
25 | 6.33
26 | 6.36
27 | 6.39
28 | 6.42
29 | 6.45
30 | 6.48
31 | 6.51
32 | 6.54
33 | 6.57
34 | 6.60
35 | 6.63
36 | 6.66
37 | 6.69
38 | 6.72
39 | 6.75
40 | 6.78
41 | 6.81
42 | 6.84
43 | 6.87
44 | 6.90
45 | 6.93
46 | 7.10
47 | 7.17
48 | 7.25
49 | 7.32
50 | 7.40
51 | 7.47
52 | 7.54
53 | 7.62
54 | 7.69
55 | 7.76
56 | 7.84
57 | 7.91
58 | 7.99
59 | 8.06
60 | 8.14
61 | 8.23
62 | 8.31
63 | 8.40
64 | 8.48
65 | 8.57
66 | 8.65
67 | 8.74
68 | 8.82
69 | 8.90
70 | 8.99
Oversized | 12.77

b. Dimensional Weight

Parcels exceeding one cubic foot are priced at the actual weight or the dimensional weight, whichever is greater.

For box-shaped parcels, the dimensional weight (pounds) is calculated by multiplying the length (inches) times the width (inches) times the height (inches) of the parcel, and dividing by 166.

For irregular-shaped parcels (parcels not appearing box-shaped), the dimensional weight (pounds) is calculated by multiplying the length (inches) times the width (inches) times the height (inches) at the associated maximum cross-sections of the parcel, dividing by 166, and multiplying by an adjustment factor of 0.785.

c. Oversized Pieces

Regardless of weight, any piece that measures more than 108 inches (but not more than 130 inches) in length plus girth must pay the oversized price. As stated in the Domestic Mail Manual, any piece that is found to be over the 70 pound maximum weight limitation is nonmailable, will not be delivered, and may be subject to the $100.00 overweight item charge.

d. Forwarding and Returns

Parcel Select pieces that are forwarded on request of the addressee or forwarded or returned on request of the mailer will be subject to the applicable Parcel Select Ground price, plus $3.00, when forwarded or returned. For customers using Address Correction Service with Shipper Paid Forwarding/Return, and also using an IMpb, the additional fee will be $2.50.

a. DSCF—5-Digit Machinable

Destination Entered—DSCF
Maximum weight (pounds) | DSCF 5-digit ($)
1 | 4.37
2 | 4.55
3 | 4.72
4 | 4.90
5 | 5.04
6 | 5.27
7 | 5.39
8 | 5.56
9 | 5.73
10 | 5.91
11 | 6.08
12 | 6.25
13 | 6.42
14 | 6.60
15 | 6.77
16 | 6.94
17 | 7.12
18 | 7.29
19 | 7.46
20 | 7.63
21 | 7.81
22 | 7.98
23 | 8.15
24 | 8.32
25 | 8.50
26 | 8.67
27 | 8.84
28 | 9.01
29 | 9.19
30 | 9.37
31 | 9.55
32 | 9.73
33 | 9.92
34 | 10.10
35 | 10.28

b. DSCF—3-Digit, 5-Digit Non-Machinable

Maximum weight (pounds) | DSCF 3-digit ($) | DSCF 5-digit ($)
1 | 6.37 | 4.37
2 | 6.55 | 4.55
3 | 6.72 | 4.72
4 | 6.90 | 4.90
5 | 7.04 | 5.04
6 | 7.27 | 5.27
7 | 7.39 | 5.39
8 | 7.56 | 5.56
9 | 7.73 | 5.73
10 | 7.91 | 5.91
11 | 8.08 | 6.08
12 | 8.25 | 6.25
13 | 8.42 | 6.42
14 | 8.60 | 6.60
15 | 8.77 | 6.77
16 | 8.94 | 6.94
17 | 9.12 | 7.12
18 | 9.29 | 7.29
19 | 9.46 | 7.46
20 | 9.63 | 7.63
21 | 9.81 | 7.81
22 | 9.98 | 7.98
23 | 10.15 | 8.15
24 | 10.32 | 8.32
25 | 10.50 | 8.50
26 | 10.67 | 8.67
27 | 10.84 | 8.84
28 | 11.01 | 9.01
29 | 11.19 | 9.19
30 | 11.37 | 9.37
31 | 11.55 | 9.55
32 | 11.73 | 9.73
33 | 11.92 | 9.92
34 | 12.10 | 10.10
35 | 12.28 | 10.28
36 | 12.88 | 10.88
37 | 13.07 | 11.07
38 | 13.26 | 11.26
39 | 13.45 | 11.45
40 | 13.64 | 11.64
41 | 13.83 | 11.83
42 | 14.02 | 12.02
43 | 14.21 | 12.21
44 | 14.40 | 12.40
45 | 14.59 | 12.59
46 | 14.78 | 12.78
47 | 14.97 | 12.97
48 | 15.16 | 13.16
49 | 15.35 | 13.35
50 | 15.54 | 13.54
51 | 15.73 | 13.73
52 | 15.92 | 13.92
53 | 16.11 | 14.11
54 | 16.30 | 14.30
55 | 16.49 | 14.49
56 | 16.68 | 14.68
57 | 16.86 | 14.86
58 | 17.05 | 15.05
59 | 17.24 | 15.24
60 | 17.43 | 15.43
61 | 17.62 | 15.62
62 | 17.81 | 15.81
63 | 18.00 | 16.00
64 | 18.19 | 16.19
65 | 18.38 | 16.38
66 | 18.57 | 16.57
67 | 18.76 | 16.76
68 | 18.95 | 16.95
69 | 19.14 | 17.14
70 | 19.33 | 17.33
Oversized | 25.40 | 25.40

c. Dimensional Weight

Parcels exceeding one cubic foot are priced at the actual weight or the dimensional weight, whichever is greater.

For box-shaped parcels, the dimensional weight (pounds) is calculated by multiplying the length (inches) times the width (inches) times the height (inches) of the parcel, and dividing by 166.

For irregular-shaped parcels (parcels not appearing box-shaped), the dimensional weight (pounds) is calculated by multiplying the length (inches) times the width (inches) times the height (inches) at the associated maximum cross-sections of the parcel, dividing by 166, and multiplying by an adjustment factor of 0.785.

d. Oversized Pieces

Regardless of weight, any piece that measures more than 108 inches (but not more than 130 inches) in length plus girth must pay the oversized price. As stated in the Domestic Mail Manual, any piece that is found to be over the 70 pound maximum weight limitation is nonmailable, will not be delivered, and may be subject to the $100.00 overweight item charge.

e. Forwarding and Returns

Parcel Select pieces that are forwarded on request of the addressee or forwarded or returned on request of the mailer will be subject to the applicable Parcel Select Ground price, plus $3.00, when forwarded or returned. For customers using Address Correction Service with Shipper Paid Forwarding/Return, and also using an IMpb, the additional fee will be $2.50.

a. DNDC—Machinable

Destination Entered—DNDC
Maximum weight (pounds) | DNDC Zones 1 & 2 ($) | DNDC Zone 3 ($) | DNDC Zone 4 ($) | DNDC Zones 5 ($)
1 | 5.98 | 6.82 | 7.78 | 9.14
2 | 6.26 | 7.30 | 8.42 | 9.83
3 | 6.54 | 7.79 | 9.05 | 10.53
4 | 6.82 | 8.27 | 9.69 | 11.23
5 | 6.99 | 8.63 | 10.18 | 11.92
6 | 7.28 | 9.12 | 10.81 | 12.65
7 | 7.64 | 9.62 | 11.44 | 13.38
8 | 7.92 | 10.12 | 12.07 | 14.11
9 | 8.21 | 10.62 | 12.70 | 14.83
10 | 8.50 | 11.11 | 13.46 | 15.56
11 | 8.78 | 11.73 | 14.05 | 16.25
12 | 9.07 | 12.23 | 14.65 | 16.93
13 | 9.36 | 12.61 | 15.24 | 17.62
14 | 9.65 | 13.23 | 15.84 | 18.30
15 | 9.93 | 13.60 | 16.43 | 18.94
16 | 10.22 | 14.23 | 16.89 | 19.52
17 | 10.51 | 14.58 | 17.35 | 20.10
18 | 10.79 | 15.06 | 17.81 | 20.68
19 | 11.08 | 15.55 | 18.28 | 21.26
20 | 11.37 | 16.02 | 18.74 | 21.79
21 | 11.65 | 16.46 | 19.16 | 22.31
22 | 11.94 | 16.91 | 19.39 | 22.84
23 | 12.23 | 17.53 | 19.80 | 23.37
24 | 12.52 | 17.98 | 20.42 | 23.90
25 | 12.80 | 18.19 | 20.84 | 24.37
26 | 13.09 | 18.57 | 21.03 | 24.79
27 | 13.38 | 19.15 | 21.64 | 25.21
28 | 13.66 | 19.35 | 22.04 | 25.64
29 | 13.95 | 19.73 | 22.44 | 26.06
30 | 14.24 | 20.07 | 22.84 | 26.48
31 | 14.38 | 20.40 | 22.98 | 26.90
32 | 14.81 | 20.74 | 23.58 | 27.32
33 | 15.10 | 21.07 | 23.71 | 27.75
34 | 15.39 | 21.41 | 24.31 | 28.17
35 | 15.67 | 21.96 | 24.68 | 28.59

b. DNDC — Non-Machinable

Maximum weight (pounds) | DNDC Zones 1 & 2 ($) | DNDC Zone 3 ($) | DNDC Zone 4 ($) | DNDC Zones 5 ($)
1 | 8.98 | 9.82 | 10.78 | 12.14
2 | 9.26 | 10.30 | 11.42 | 12.83
3 | 9.54 | 10.79 | 12.05 | 13.53
4 | 9.82 | 11.27 | 12.69 | 14.23
5 | 9.99 | 11.63 | 13.18 | 14.92
6 | 10.28 | 12.12 | 13.81 | 15.65
7 | 10.64 | 12.62 | 14.44 | 16.38
8 | 10.92 | 13.12 | 15.07 | 17.11
9 | 11.21 | 13.62 | 15.70 | 17.83
10 | 11.50 | 14.11 | 16.46 | 18.56
11 | 11.78 | 14.73 | 17.05 | 19.25
12 | 12.07 | 15.23 | 17.65 | 19.93
13 | 12.36 | 15.61 | 18.24 | 20.62
14 | 12.65 | 16.23 | 18.84 | 21.30
15 | 12.93 | 16.60 | 19.43 | 21.94
16 | 13.22 | 17.23 | 19.89 | 22.52
17 | 13.51 | 17.58 | 20.35 | 23.10
18 | 13.79 | 18.06 | 20.81 | 23.68
19 | 14.08 | 18.55 | 21.28 | 24.26
20 | 14.37 | 19.02 | 21.74 | 24.79
21 | 14.65 | 19.46 | 22.16 | 25.31
22 | 14.94 | 19.91 | 22.39 | 25.84
23 | 15.23 | 20.53 | 22.80 | 26.37
24 | 15.52 | 20.98 | 23.42 | 26.90
25 | 15.80 | 21.19 | 23.84 | 27.37
26 | 16.09 | 21.57 | 24.03 | 27.79
27 | 16.38 | 22.15 | 24.64 | 28.21
28 | 16.66 | 22.35 | 25.04 | 28.64
29 | 16.95 | 22.73 | 25.44 | 29.06
30 | 17.24 | 23.07 | 25.84 | 29.48
31 | 17.38 | 23.40 | 25.98 | 29.90
32 | 17.81 | 23.74 | 26.58 | 30.32
33 | 18.10 | 24.07 | 26.71 | 30.75
34 | 18.39 | 24.41 | 27.31 | 31.17
35 | 18.67 | 24.96 | 27.68 | 31.59
36 | 19.59 | 26.11 | 28.94 | 32.18
37 | 19.89 | 26.46 | 29.31 | 32.60
38 | 20.18 | 26.81 | 29.68 | 33.02
39 | 20.48 | 27.16 | 30.05 | 33.44
40 | 20.77 | 27.50 | 30.42 | 33.84
41 | 21.07 | 27.85 | 30.77 | 34.25
42 | 21.36 | 28.20 | 31.13 | 34.65
43 | 21.66 | 28.55 | 31.49 | 35.05
44 | 21.95 | 28.90 | 31.85 | 35.45
45 | 22.25 | 29.24 | 32.21 | 35.85
46 | 22.55 | 29.59 | 32.57 | 36.25
47 | 22.84 | 29.94 | 32.93 | 36.65
48 | 23.14 | 30.29 | 33.29 | 37.05
49 | 23.43 | 30.64 | 33.64 | 37.45
50 | 23.72 | 30.97 | 34.00 | 37.83
51 | 24.00 | 31.31 | 34.34 | 38.21
52 | 24.29 | 31.65 | 34.68 | 38.59
53 | 24.57 | 31.99 | 35.02 | 38.97
54 | 24.86 | 32.33 | 35.35 | 39.35
55 | 25.14 | 32.65 | 35.69 | 39.73
56 | 25.43 | 32.97 | 36.03 | 40.11
57 | 25.71 | 33.29 | 36.37 | 40.49
58 | 26.00 | 33.60 | 36.70 | 40.87
59 | 26.28 | 33.92 | 37.04 | 41.25
60 | 26.56 | 34.23 | 37.38 | 41.61
61 | 26.85 | 34.55 | 37.70 | 41.97
62 | 27.13 | 34.87 | 38.01 | 42.33
63 | 27.42 | 35.18 | 38.33 | 42.69
64 | 27.70 | 35.50 | 38.64 | 43.04
65 | 27.99 | 35.82 | 38.96 | 43.40
66 | 28.27 | 36.12 | 39.28 | 43.74
67 | 28.56 | 36.43 | 39.59 | 44.08
68 | 28.84 | 36.74 | 39.91 | 44.42
69 | 29.13 | 37.04 | 40.23 | 44.75
70 | 29.41 | 37.35 | 40.54 | 45.09
Oversized | 39.71 | 53.14 | 63.35 | 73.14

c. Dimensional Weight

Parcels exceeding one cubic foot are priced at the actual weight or the dimensional weight, whichever is greater.

For box-shaped parcels, the dimensional weight (pounds) is calculated by multiplying the length (inches) times the width (inches) times the height (inches) of the parcel, and dividing by 166.

For irregular-shaped parcels (parcels not appearing box-shaped), the dimensional weight (pounds) is calculated by multiplying the length (inches) times the width (inches) times the height (inches) at the associated maximum cross-sections of the parcel, dividing by 166, and multiplying by an adjustment factor of 0.785.

d. Oversized Pieces

Regardless of weight, any piece that measures more than 108 inches (but not more than 130 inches) in length plus girth must pay the oversized price. As stated in the Domestic Mail Manual, any piece that is found to be over the 70 pound maximum weight limitation is nonmailable, will not be delivered, and may be subject to the $100.00 overweight item charge.

e. Forwarding and Returns

Parcel Select pieces that are forwarded on request of the addressee or forwarded or returned on request of the mailer will be subject to the applicable Parcel Select Ground price, plus $3.00, when forwarded or returned. For customers using Address Correction Service with Shipper Paid Forwarding/Return, and also using an IMpb, the additional fee will be $2.50.

a. Parcel Select Ground

Non-Destination Entered—Parcel Select Ground
Maximum weight (pounds) | Zones 1 & 2 ($) | Zone 3 ($) | Zone 4 ($) | Zone 5 ($) | Zone 6 ($) | Zone 7 ($) | Zone 8 ($)
1 | 6.92 | 7.25 | 7.46 | 7.65 | 7.78 | 7.90 | 8.12
2 | 7.54 | 7.74 | 8.02 | 8.61 | 9.79 | 10.29 | 10.89
3 | 7.74 | 8.13 | 8.49 | 9.34 | 11.90 | 13.19 | 15.39
4 | 7.84 | 8.35 | 8.97 | 10.13 | 13.91 | 15.76 | 17.79
5 | 7.94 | 8.40 | 9.29 | 10.44 | 15.89 | 18.16 | 20.66
6 | 8.05 | 8.44 | 9.40 | 13.98 | 18.22 | 21.15 | 24.17
7 | 8.29 | 9.59 | 9.64 | 15.69 | 20.21 | 23.88 | 27.20
8 | 8.35 | 10.07 | 11.39 | 17.15 | 22.22 | 26.33 | 30.59
9 | 9.18 | 10.46 | 11.87 | 18.40 | 24.20 | 28.54 | 34.05
10 | 9.66 | 11.00 | 12.06 | 20.10 | 26.42 | 31.73 | 37.43
11 | 11.20 | 13.43 | 14.40 | 22.37 | 28.90 | 35.20 | 41.32
12 | 11.90 | 14.29 | 16.79 | 23.98 | 31.56 | 38.10 | 44.38
13 | 12.52 | 15.12 | 17.58 | 25.27 | 33.89 | 39.65 | 45.96
14 | 13.17 | 15.96 | 18.52 | 26.76 | 35.81 | 41.88 | 48.26
15 | 13.69 | 16.80 | 19.43 | 28.14 | 37.20 | 42.69 | 49.53
16 | 14.29 | 17.87 | 20.68 | 29.83 | 39.70 | 45.54 | 52.78
17 | 14.75 | 18.70 | 21.67 | 31.30 | 41.73 | 47.92 | 55.60
18 | 15.04 | 19.28 | 22.65 | 32.71 | 43.95 | 50.30 | 58.40
19 | 15.39 | 19.73 | 23.17 | 33.58 | 45.93 | 52.65 | 61.10
20 | 16.00 | 20.04 | 23.64 | 34.20 | 47.13 | 54.63 | 64.04
21 | 16.71 | 20.52 | 24.19 | 34.81 | 47.50 | 55.15 | 64.87
22 | 17.24 | 21.08 | 25.00 | 35.51 | 47.83 | 55.58 | 65.62
23 | 17.76 | 21.58 | 25.60 | 36.16 | 48.09 | 55.96 | 66.01
24 | 18.49 | 22.50 | 27.06 | 37.59 | 49.11 | 57.43 | 67.63
25 | 19.20 | 23.30 | 28.78 | 38.86 | 49.84 | 58.87 | 68.81
26 | 20.37 | 24.99 | 31.80 | 40.94 | 51.06 | 60.33 | 70.98
27 | 21.59 | 26.12 | 33.74 | 44.64 | 51.75 | 61.74 | 73.65
28 | 22.25 | 26.47 | 34.70 | 45.81 | 52.46 | 63.18 | 76.43
29 | 22.94 | 26.74 | 35.64 | 46.42 | 53.34 | 64.64 | 78.50
30 | 23.62 | 27.13 | 36.48 | 47.06 | 54.84 | 66.06 | 80.19
31 | 24.29 | 27.40 | 37.05 | 47.66 | 55.64 | 67.53 | 81.84
32 | 24.57 | 27.98 | 37.67 | 48.22 | 56.37 | 68.99 | 83.52
33 | 24.95 | 28.76 | 38.61 | 48.86 | 57.47 | 70.42 | 85.06
34 | 25.18 | 29.51 | 39.59 | 49.92 | 58.84 | 71.87 | 86.66
35 | 25.46 | 30.21 | 40.16 | 50.98 | 60.42 | 73.32 | 88.16
36 | 25.78 | 31.09 | 40.69 | 52.09 | 61.95 | 74.32 | 89.66
37 | 26.05 | 31.67 | 41.28 | 53.02 | 63.58 | 75.27 | 91.14
38 | 26.31 | 32.44 | 41.80 | 54.08 | 65.35 | 76.14 | 92.59
39 | 26.56 | 33.20 | 42.28 | 55.20 | 66.90 | 78.15 | 94.03
40 | 26.84 | 33.90 | 42.83 | 56.36 | 67.98 | 79.91 | 95.32
41 | 27.13 | 34.47 | 43.29 | 56.86 | 69.13 | 81.62 | 96.70
42 | 27.33 | 34.73 | 43.67 | 57.82 | 70.35 | 82.74 | 98.03
43 | 27.65 | 34.99 | 44.06 | 58.78 | 72.04 | 83.77 | 99.29
44 | 27.84 | 35.24 | 44.44 | 59.73 | 73.19 | 84.77 | 100.41
45 | 28.02 | 35.49 | 44.84 | 60.69 | 74.00 | 85.69 | 101.69
46 | 28.27 | 35.75 | 45.23 | 61.65 | 74.83 | 86.62 | 102.92
47 | 28.48 | 36.00 | 45.61 | 62.61 | 75.61 | 87.61 | 104.06
48 | 28.72 | 36.26 | 46.00 | 63.56 | 76.59 | 88.45 | 105.17
49 | 28.94 | 36.50 | 46.39 | 64.52 | 77.64 | 89.38 | 106.24
50 | 29.06 | 36.76 | 46.78 | 65.48 | 78.73 | 90.52 | 107.36
51 | 29.49 | 37.02 | 47.15 | 66.60 | 79.81 | 91.82 | 108.36
52 | 29.93 | 37.28 | 47.54 | 67.07 | 80.59 | 93.21 | 109.65
53 | 30.49 | 37.52 | 47.93 | 67.62 | 81.27 | 94.74 | 111.05
54 | 30.93 | 37.79 | 48.31 | 68.21 | 81.85 | 96.10 | 112.61
55 | 31.42 | 38.03 | 48.70 | 68.64 | 82.53 | 97.63 | 114.13
56 | 31.85 | 38.29 | 49.09 | 69.16 | 83.08 | 99.01 | 115.30
57 | 32.36 | 38.54 | 49.48 | 69.57 | 83.71 | 100.52 | 116.32
58 | 32.85 | 38.79 | 49.86 | 70.01 | 84.21 | 101.85 | 117.29
59 | 33.32 | 39.05 | 50.24 | 70.44 | 84.69 | 102.55 | 118.15
60 | 33.74 | 39.30 | 50.63 | 70.83 | 85.11 | 103.15 | 119.00
61 | 34.29 | 39.55 | 51.02 | 71.19 | 85.59 | 103.75 | 120.60
62 | 34.71 | 39.81 | 51.40 | 71.50 | 85.99 | 104.21 | 122.53
63 | 35.34 | 40.07 | 51.80 | 71.88 | 86.48 | 104.71 | 124.50
64 | 35.65 | 40.31 | 52.18 | 72.20 | 86.87 | 105.19 | 126.41
65 | 36.17 | 40.57 | 52.58 | 72.42 | 87.12 | 105.72 | 128.39
66 | 36.64 | 40.83 | 52.95 | 72.75 | 87.56 | 106.04 | 130.26
67 | 37.19 | 41.08 | 53.85 | 73.01 | 87.84 | 106.46 | 132.00
68 | 37.63 | 41.33 | 54.53 | 73.21 | 88.95 | 107.02 | 133.40
69 | 38.14 | 41.59 | 55.23 | 73.43 | 90.02 | 107.52 | 134.81
70 | 38.54 | 41.84 | 56.10 | 73.66 | 91.11 | 107.91 | 136.27
Oversized | 76.95 | 97.85 | 118.75 | 139.65 | 160.55 | 181.45 | 202.35

b. Dimensional Weight

Parcels exceeding one cubic foot are priced at the actual weight or the dimensional weight, whichever is greater.

For box-shaped parcels, the dimensional weight (pounds) is calculated by multiplying the length (inches) times the width (inches) times the height (inches) of the parcel, and dividing by 166.

For irregular-shaped parcels (parcels not appearing box-shaped), the dimensional weight (pounds) is calculated by multiplying the length (inches) times the width (inches) times the height (inches) at the associated maximum cross-sections of the parcel, dividing by 166, and multiplying by an adjustment factor of 0.785.

c. Oversized Pieces

Regardless of weight, any piece that measures more than 108 inches (but not more than 130 inches) in length plus girth must pay the oversized price. As stated in the Domestic Mail Manual, any piece that is found to be over the 70 pound maximum weight limitation is nonmailable, will not be delivered, and may be subject to the $100.00 overweight item charge.

d. Forwarding and Returns

Parcel Select pieces that are forwarded on request of the addressee or forwarded or returned on request of the mailer will be subject to the applicable Parcel Select Ground price, plus $3.00, when forwarded or returned. For customers using Address Correction Service with Shipper Paid Forwarding/Return, and also using an IMpb, the additional fee will be $2.50.

Parcel Select Lightweight
Maximum weight (ounces) | Entry point/sortation level: DDU/ 5-Digit ($) | Entry point/sortation level: DSCF/ 5-Digit ($) | Entry point/sortation level: DNDC/ 5-Digit ($) | Entry point/sortation level: DSCF/ SCF ($) | Entry point/sortation level: DNDC/ SCF ($) | Entry point/sortation level: DNDC/ NDC ($) | Entry point/sortation level: None/ NDC ($) | Entry point/sortation level: None/mixed NDC/single-piece ($)
1 | 1.81 | 2.11 | 2.33 | 2.34 | 2.72 | 2.97 | 3.34 | 3.73
2 | 1.81 | 2.11 | 2.33 | 2.34 | 2.72 | 2.97 | 3.34 | 3.73
3 | 1.81 | 2.11 | 2.33 | 2.34 | 2.72 | 2.97 | 3.34 | 3.73
4 | 1.81 | 2.11 | 2.33 | 2.34 | 2.72 | 2.97 | 3.34 | 3.73
5 | 1.82 | 2.14 | 2.38 | 2.40 | 2.83 | 3.09 | 3.48 | 3.88
6 | 1.82 | 2.14 | 2.38 | 2.40 | 2.83 | 3.09 | 3.48 | 3.88
7 | 1.82 | 2.14 | 2.38 | 2.40 | 2.83 | 3.09 | 3.48 | 3.88
8 | 1.82 | 2.14 | 2.38 | 2.40 | 2.83 | 3.09 | 3.48 | 3.88
9 | 1.94 | 2.37 | 2.88 | 2.92 | 3.42 | 3.74 | 4.17 | 4.60
10 | 1.94 | 2.37 | 2.88 | 2.92 | 3.42 | 3.74 | 4.17 | 4.60
11 | 1.94 | 2.37 | 2.88 | 2.92 | 3.42 | 3.74 | 4.17 | 4.60
12 | 1.94 | 2.37 | 2.88 | 2.92 | 3.42 | 3.74 | 4.17 | 4.60
13 | 2.12 | 2.65 | 3.32 | 3.38 | 3.92 | 4.25 | 4.69 | 5.15
14 | 2.12 | 2.65 | 3.32 | 3.38 | 3.92 | 4.25 | 4.69 | 5.15
15 | 2.12 | 2.65 | 3.32 | 3.38 | 3.92 | 4.25 | 4.69 | 5.15
15.999 | 2.12 | 2.65 | 3.32 | 3.38 | 3.92 | 4.25 | 4.69 | 5.15

BILLING CODE 7710-12-P

BILLING CODE 7710-12-C

2120 Parcel Return Service

* * *

2120.6 Prices

a. Machinable RSCF

RSCF Entered
Maximum weight (pounds) | RSCF ($)
1 | 3.83
2 | 4.33
3 | 4.65
4 | 5.00
5 | 5.38
6 | 5.91
7 | 6.32
8 | 6.84
9 | 7.31
10 | 7.82
11 | 8.28
12 | 8.86
13 | 9.26
14 | 9.58
15 | 9.93
16 | 10.26
17 | 10.63
18 | 10.93
19 | 11.22
20 | 11.60
21 | 11.90
22 | 12.26
23 | 12.50
24 | 12.89
25 | 13.16
26 | 13.45
27 | 13.76
28 | 14.03
29 | 14.35
30 | 14.60
31 | 14.91
32 | 15.22
33 | 15.47
34 | 15.88
35 | 16.15

b. Nonmachinable RSCF

Maximum weight (pounds) | RSCF ($)
1 | 6.83
2 | 7.33
3 | 7.65
4 | 8.00
5 | 8.38
6 | 8.91
7 | 9.32
8 | 9.84
9 | 10.31
10 | 10.82
11 | 11.28
12 | 11.86
13 | 12.26
14 | 12.58
15 | 12.93
16 | 13.26
17 | 13.63
18 | 13.93
19 | 14.22
20 | 14.60
21 | 14.90
22 | 15.26
23 | 15.50
24 | 15.89
25 | 16.16
26 | 16.45
27 | 16.76
28 | 17.03
29 | 17.35
30 | 17.60
31 | 17.91
32 | 18.22
33 | 18.47
34 | 18.88
35 | 19.15
36 | 19.44
37 | 19.70
38 | 19.95
39 | 20.21
40 | 20.46
41 | 20.72
42 | 20.97
43 | 21.23
44 | 21.48
45 | 21.74
46 | 21.99
47 | 22.25
48 | 22.50
49 | 22.76
50 | 23.01
51 | 23.27
52 | 23.52
53 | 23.78
54 | 24.03
55 | 24.29
56 | 24.54
57 | 24.80
58 | 25.05
59 | 25.31
60 | 25.56
61 | 25.82
62 | 26.07
63 | 26.33
64 | 26.58
65 | 26.84
66 | 27.09
67 | 27.35
68 | 27.60
69 | 27.86
70 | 27.95
Oversized | 39.62

c. Balloon Price

RSCF entered pieces exceeding 84 inches in length and girth combined, but not more than 108 inches, and weighing less than 20 pounds are subject to a price equal to that for a 20-pound parcel for the zone to which the parcel is addressed.

d. Oversized Pieces

Regardless of weight, any piece that measures more than 108 inches (but not more than 130 inches) in length plus girth must pay the oversized price. As stated in the Domestic Mail Manual, any piece that is found to be over the 70 pound maximum weight limitation is nonmailable, will not be delivered, and may be subject to the $100.00 overweight item charge.

a. Machinable RDU

RDU Entered
Maximum weight (pounds) | RDU ($)
1 | 3.05
2 | 3.14
3 | 3.22
4 | 3.32
5 | 3.40
6 | 3.50
7 | 3.58
8 | 3.66
9 | 3.76
10 | 3.84
11 | 3.94
12 | 4.02
13 | 4.12
14 | 4.20
15 | 4.28
16 | 4.38
17 | 4.46
18 | 4.56
19 | 4.64
20 | 4.74
21 | 4.82
22 | 4.90
23 | 5.00
24 | 5.08
25 | 5.18
26 | 5.24
27 | 5.33
28 | 5.42
29 | 5.51
30 | 5.60
31 | 5.69
32 | 5.77
33 | 5.86
34 | 5.95
35 | 6.04

b. Nonmachinable RDU

Maximum weight (pounds) | RDU ($)
1 | 3.05
2 | 3.14
3 | 3.22
4 | 3.32
5 | 3.40
6 | 3.50
7 | 3.58
8 | 3.66
9 | 3.76
10 | 3.84
11 | 3.94
12 | 4.02
13 | 4.12
14 | 4.20
15 | 4.28
16 | 4.38
17 | 4.46
18 | 4.56
19 | 4.64
20 | 4.74
21 | 4.82
22 | 4.90
23 | 5.00
24 | 5.08
25 | 5.18
26 | 5.24
27 | 5.33
28 | 5.42
29 | 5.51
30 | 5.60
31 | 5.69
32 | 5.77
33 | 5.86
34 | 5.95
35 | 6.04
36 | 6.13
37 | 6.22
38 | 6.30
39 | 6.39
40 | 6.48
41 | 6.57
42 | 6.66
43 | 6.75
44 | 6.83
45 | 6.92
46 | 7.01
47 | 7.10
48 | 7.19
49 | 7.28
50 | 7.36
51 | 7.45
52 | 7.54
53 | 7.63
54 | 7.72
55 | 7.81
56 | 7.89
57 | 7.98
58 | 8.07
59 | 8.16
60 | 8.25
61 | 8.34
62 | 8.42
63 | 8.51
64 | 8.60
65 | 8.69
66 | 8.78
67 | 8.86
68 | 8.95
69 | 9.04
70 | 9.13
Oversized | 12.06

c. Oversized Pieces

Regardless of weight, any piece that measures more than 108 inches (but not more than 130 inches) in length plus girth must pay the oversized price. As stated in the Domestic Mail Manual, any piece that is found to be over the 70 pound maximum weight limitation is nonmailable, will not be delivered, and may be subject to the $100.00 overweight item charge.

IMpb Noncompliance Fee

Add $0.20 for each IMpb-noncompliant parcel paying commercial prices.

BILLING CODE 7710-12-P

BILLING CODE 7710-12-C

2125.6 Prices

Commercial
Maximum weight (ounces) | Local, Zones 1 & 2 ($) | Zone 3 ($) | Zone 4 ($) | Zone 5 ($) | Zone 6 ($) | Zone 7 ($) | Zone 8 ($)
1 | 2.74 | 2.76 | 2.78 | 2.84 | 2.93 | 3.05 | 3.18
2 | 2.74 | 2.76 | 2.78 | 2.84 | 2.93 | 3.05 | 3.18
3 | 2.74 | 2.76 | 2.78 | 2.84 | 2.93 | 3.05 | 3.18
4 | 2.74 | 2.76 | 2.78 | 2.84 | 2.93 | 3.05 | 3.18
5 | 3.21 | 3.23 | 3.25 | 3.31 | 3.39 | 3.52 | 3.67
6 | 3.21 | 3.23 | 3.25 | 3.31 | 3.39 | 3.52 | 3.67
7 | 3.21 | 3.23 | 3.25 | 3.31 | 3.39 | 3.52 | 3.67
8 | 3.21 | 3.23 | 3.25 | 3.31 | 3.39 | 3.52 | 3.67
9 | 3.93 | 3.97 | 4.00 | 4.08 | 4.18 | 4.32 | 4.46
10 | 3.93 | 3.97 | 4.00 | 4.08 | 4.18 | 4.32 | 4.46
11 | 3.93 | 3.97 | 4.00 | 4.08 | 4.18 | 4.32 | 4.46
12 | 3.93 | 3.97 | 4.00 | 4.08 | 4.18 | 4.32 | 4.46
13 | 5.04 | 5.08 | 5.12 | 5.27 | 5.40 | 5.54 | 5.70
14 | 5.04 | 5.08 | 5.12 | 5.27 | 5.40 | 5.54 | 5.70
15 | 5.04 | 5.08 | 5.12 | 5.27 | 5.40 | 5.54 | 5.70
15.999 | 5.04 | 5.08 | 5.12 | 5.27 | 5.40 | 5.54 | 5.70

Retail¹
Maximum weight (ounces) | Local, Zones 1 & 2 ($) | Zone 3 ($) | Zone 4 ($) | Zone 5 ($) | Zone 6 ($) | Zone 7 ($) | Zone 8 ($)
1 | 3.80 | 3.85 | 3.90 | 3.95 | 4.00 | 4.05 | 4.20
2 | 3.80 | 3.85 | 3.90 | 3.95 | 4.00 | 4.05 | 4.20
3 | 3.80 | 3.85 | 3.90 | 3.95 | 4.00 | 4.05 | 4.20
4 | 3.80 | 3.85 | 3.90 | 3.95 | 4.00 | 4.05 | 4.20
5 | 4.60 | 4.65 | 4.70 | 4.75 | 4.80 | 4.90 | 5.00
6 | 4.60 | 4.65 | 4.70 | 4.75 | 4.80 | 4.90 | 5.00
7 | 4.60 | 4.65 | 4.70 | 4.75 | 4.80 | 4.90 | 5.00
8 | 4.60 | 4.65 | 4.70 | 4.75 | 4.80 | 4.90 | 5.00
9 | 5.30 | 5.35 | 5.40 | 5.45 | 5.50 | 5.65 | 5.75
10 | 5.30 | 5.35 | 5.40 | 5.45 | 5.50 | 5.65 | 5.75
11 | 5.30 | 5.35 | 5.40 | 5.45 | 5.50 | 5.65 | 5.75
12 | 5.30 | 5.35 | 5.40 | 5.45 | 5.50 | 5.65 | 5.75
13 | 5.90 | 5.95 | 6.05 | 6.15 | 6.20 | 6.40 | 6.50

Notes:

1. A handling charge of $0.01 per piece applies to foreign-origin, inbound direct entry mail tendered by foreign postal operators, subject to the terms of an authorization arrangement.

Irregular Parcel Surcharge

Add $0.20 for each irregularly shaped parcel (such as rolls, tubes, and triangles).

IMpb Noncompliance Fee

Add $0.20 for each IMpb-noncompliant parcel paying commercial prices, unless the eVS Unmanifested Fee was already assessed on that parcel.

eVS Unmanifested Fee

Add $0.20 for each unmanifested parcel paying commercial prices, unless the IMpb Noncompliance Fee was already assessed on that parcel.

2135 USPS Retail Ground

2135.1 Description

a. USPS Retail Ground provides reliable and economical ground package delivery service for less-than-urgent deliveries and oversized packages up to 130 inches in combined length and girth.

b. Any mailable matter may be mailed as USPS Retail Ground, except matter required to be mailed: (1) By First-Class Mail service; (2) as Customized MarketMail pieces; or (3) copies of a publication that are required to be entered as Periodicals mail.

c. USPS Retail Ground pieces are not sealed against postal inspection. Mailing of matter as USPS Retail Ground mail constitutes consent by the mailer to postal inspection of the contents, regardless of the physical closure.

d. USPS Retail Ground mail may receive deferred service.

e. USPS Retail Ground pieces that are undeliverable-as-addressed will be forwarded on request of the addressee, or forwarded and returned on request of the mailer, subject to the applicable single-piece Retail Ground when forwarded or returned from one post office to another. Pieces which combine domestic USPS Retail Ground mail with First-Class Mail or USPS Marketing Mail pieces will be forwarded if undeliverable-as-addressed, and returned if undeliverable.

f. Pieces presented as USPS Retail Ground that contain non-hazardous materials and are permitted to travel by air transportation will be converted to Priority Mail service for Zones 1-4 only. Priority Mail prices, including dimensional weighting, will apply to these pieces.

g. Return parcels may be sent without prepayment of postage if authorized by the returns customer, who agrees to pay the postage.

Attachments and Enclosures

a. First-Class Mail or USPS Marketing Mail pieces may be attached to or enclosed in USPS Retail Ground mail. Additional postage may be required.

b. USPS Retail Ground mail may have limited written additions placed on the wrapper, on a tag or label attached to the outside of the package, or inside the package, either loose or attached to the article.

* * *

BILLING CODE 7710-12-P

BILLING CODE 7710-12-C

2135.6 Prices

USPS Retail Ground ¹
Maximum weight (pounds) | Zones 1 & 2 ($) | Zone 3 ($) | Zone 4 ($) | Zone 5 ($) | Zone 6 ($) | Zone 7 ($) | Zone 8 ($)
1 | 7.50 | 7.85 | 8.00 | 8.20 | 8.40 | 8.75 | 9.35
2 | 8.25 | 8.70 | 9.90 | 10.75 | 11.60 | 12.60 | 13.60
3 | 8.70 | 9.70 | 10.90 | 12.35 | 13.05 | 15.30 | 17.35
4 | 9.20 | 10.55 | 11.55 | 12.90 | 15.55 | 18.20 | 20.85
5 | 10.20 | 11.30 | 12.25 | 13.65 | 17.05 | 20.50 | 23.90
6 | 10.95 | 11.55 | 12.80 | 15.50 | 19.40 | 23.30 | 27.15
7 | 11.95 | 13.10 | 15.40 | 17.40 | 21.70 | 26.00 | 30.30
8 | 12.30 | 14.50 | 17.10 | 20.15 | 24.75 | 29.30 | 33.90
9 | 12.80 | 15.65 | 18.95 | 22.95 | 27.90 | 32.85 | 37.80
10 | 13.60 | 16.80 | 20.40 | 24.50 | 29.70 | 34.90 | 40.05
11 | 14.95 | 18.50 | 22.50 | 26.20 | 31.95 | 37.75 | 43.55
12 | 16.25 | 19.85 | 24.20 | 28.10 | 34.30 | 40.55 | 46.75
13 | 17.25 | 20.95 | 25.55 | 29.75 | 35.70 | 41.65 | 47.55
14 | 18.30 | 22.35 | 27.20 | 31.55 | 37.70 | 43.85 | 49.95
15 | 18.95 | 23.60 | 28.75 | 33.45 | 39.40 | 45.40 | 51.35
16 | 19.60 | 24.90 | 30.30 | 35.25 | 41.55 | 47.85 | 54.20
17 | 20.50 | 26.20 | 31.90 | 37.10 | 43.75 | 50.35 | 57.00
18 | 20.85 | 27.10 | 33.20 | 38.95 | 45.95 | 52.95 | 59.95
19 | 21.45 | 27.75 | 33.95 | 39.95 | 47.00 | 54.05 | 61.10
20 | 22.35 | 28.10 | 34.50 | 40.75 | 48.50 | 56.30 | 64.10
21 | 23.10 | 28.45 | 35.00 | 41.30 | 49.35 | 57.40 | 65.50
22 | 23.65 | 29.10 | 35.85 | 42.25 | 50.50 | 58.80 | 67.05
23 | 24.20 | 29.70 | 36.45 | 43.00 | 51.45 | 59.85 | 68.30
24 | 24.75 | 30.30 | 37.30 | 43.90 | 52.60 | 61.30 | 70.00
25 | 25.00 | 30.80 | 38.80 | 45.15 | 53.80 | 62.50 | 71.20
26 | 26.00 | 31.40 | 40.25 | 46.05 | 55.15 | 64.25 | 73.40
27 | 26.80 | 31.85 | 41.45 | 48.40 | 57.60 | 66.80 | 76.05
28 | 27.60 | 32.25 | 42.70 | 49.65 | 59.45 | 69.20 | 79.00
29 | 28.45 | 32.65 | 43.75 | 50.40 | 60.65 | 70.90 | 81.15
30 | 29.30 | 33.05 | 44.80 | 51.05 | 61.65 | 72.25 | 82.80
31 | 30.15 | 33.40 | 45.55 | 51.80 | 62.75 | 73.70 | 84.65
32 | 30.50 | 34.15 | 46.30 | 52.35 | 63.65 | 74.95 | 86.20
33 | 31.05 | 35.05 | 47.45 | 53.05 | 64.70 | 76.30 | 87.90
34 | 31.30 | 36.00 | 48.65 | 54.15 | 65.95 | 77.80 | 89.60
35 | 31.60 | 36.85 | 49.25 | 55.30 | 67.20 | 79.15 | 91.05
36 | 31.95 | 37.90 | 49.95 | 56.60 | 68.60 | 80.60 | 92.60
37 | 32.25 | 38.55 | 50.65 | 57.55 | 69.75 | 81.90 | 94.10
38 | 32.65 | 39.55 | 51.30 | 58.65 | 71.00 | 83.30 | 95.65
39 | 32.95 | 40.45 | 51.95 | 59.90 | 72.25 | 84.65 | 97.05
40 | 33.35 | 41.30 | 52.65 | 61.20 | 73.60 | 86.00 | 98.40
41 | 33.65 | 42.10 | 53.25 | 61.75 | 74.50 | 87.20 | 99.95
42 | 33.90 | 42.85 | 53.80 | 63.05 | 75.75 | 88.45 | 101.20
43 | 34.35 | 43.55 | 54.30 | 64.40 | 77.05 | 89.70 | 102.35
44 | 34.55 | 44.25 | 55.00 | 65.75 | 78.40 | 91.05 | 103.70
45 | 34.80 | 44.75 | 55.35 | 67.30 | 79.85 | 92.40 | 104.95
46 | 35.05 | 45.05 | 55.95 | 68.45 | 81.00 | 93.60 | 106.15
47 | 35.35 | 45.50 | 56.50 | 70.10 | 82.55 | 95.00 | 107.40
48 | 35.70 | 45.85 | 57.05 | 71.45 | 83.80 | 96.15 | 108.55
49 | 35.90 | 46.15 | 57.45 | 72.70 | 85.00 | 97.30 | 109.55
50 | 36.05 | 46.45 | 57.90 | 74.20 | 86.35 | 98.55 | 110.75
51 | 36.20 | 46.90 | 58.40 | 75.40 | 87.55 | 99.65 | 111.75
52 | 36.65 | 47.20 | 58.80 | 76.00 | 88.35 | 100.70 | 113.05
53 | 37.30 | 47.50 | 59.15 | 76.60 | 89.20 | 101.85 | 114.50
54 | 37.75 | 47.70 | 59.60 | 77.20 | 90.20 | 103.15 | 116.15
55 | 38.40 | 48.05 | 59.90 | 77.75 | 91.05 | 104.30 | 117.60
56 | 38.95 | 48.35 | 60.25 | 78.30 | 91.80 | 105.30 | 118.80
57 | 39.50 | 48.50 | 60.60 | 78.70 | 92.35 | 106.00 | 119.65
58 | 40.15 | 48.75 | 61.00 | 79.30 | 93.10 | 106.85 | 120.60
59 | 40.75 | 48.95 | 61.30 | 79.75 | 93.65 | 107.55 | 121.50
60 | 41.30 | 49.15 | 61.90 | 80.15 | 94.20 | 108.25 | 122.30
61 | 41.90 | 49.40 | 63.00 | 80.55 | 95.05 | 109.55 | 124.00
62 | 42.35 | 49.50 | 63.75 | 81.00 | 96.00 | 111.00 | 125.95
63 | 43.15 | 49.75 | 64.85 | 81.40 | 96.90 | 112.45 | 127.95
64 | 43.60 | 51.30 | 65.80 | 81.85 | 97.90 | 113.95 | 130.05
65 | 44.20 | 51.45 | 66.65 | 82.00 | 98.65 | 115.30 | 131.95
66 | 44.75 | 51.65 | 67.75 | 82.45 | 99.65 | 116.80 | 134.00
67 | 45.50 | 51.75 | 68.90 | 82.75 | 100.40 | 118.05 | 135.70
68 | 46.00 | 51.85 | 69.75 | 82.95 | 101.05 | 119.10 | 137.20
69 | 46.60 | 51.90 | 70.60 | 83.15 | 101.65 | 120.10 | 138.60
70 | 47.15 | 52.05 | 71.75 | 83.40 | 102.30 | 121.20 | 140.15
Oversized | 76.95 | 97.85 | 118.75 | 139.65 | 160.55 | 181.45 | 202.35

Notes:

1. Except for oversized pieces, the Zone 1-4 prices are applicable only to parcels containing hazardous or other material not permitted to travel by air transportation. All other parcels for shipment in Zones 1-4 will be converted to Priority Mail service.

Limited Overland Routes

Pieces delivered to or from designated intra-Alaska ZIP Codes not connected by overland routes are eligible for the following prices.

Maximum weight (pounds) | Zones 1 & 2 ($) | Zone 3 ($) | Zone 4 ($) | Zone 5 ($)
1 | 7.10 | 7.40 | 7.75 | 8.05
2 | 7.75 | 8.30 | 8.90 | 9.45
3 | 8.00 | 9.20 | 10.15 | 12.30
4 | 8.50 | 9.75 | 10.80 | 12.80
5 | 9.00 | 10.05 | 11.35 | 13.35
6 | 9.15 | 10.40 | 11.75 | 14.10
7 | 9.50 | 10.85 | 12.45 | 15.05
8 | 9.80 | 11.35 | 13.15 | 16.10
9 | 10.20 | 12.05 | 13.85 | 17.15
10 | 10.50 | 12.35 | 14.50 | 18.05
11 | 10.75 | 12.70 | 15.05 | 18.85
12 | 11.10 | 13.25 | 15.75 | 19.80
13 | 11.45 | 13.70 | 16.45 | 20.70
14 | 11.80 | 14.25 | 17.10 | 21.65
15 | 12.15 | 14.75 | 17.80 | 22.60
16 | 12.50 | 15.20 | 18.45 | 23.50
17 | 12.85 | 15.75 | 19.15 | 24.45
18 | 13.15 | 16.25 | 19.80 | 25.40
19 | 13.50 | 16.70 | 20.40 | 26.20
20 | 13.85 | 17.15 | 21.00 | 27.00
21 | 14.20 | 17.60 | 21.55 | 27.75
22 | 14.55 | 18.05 | 22.15 | 28.55
23 | 14.85 | 18.55 | 22.75 | 29.40
24 | 15.20 | 18.95 | 23.35 | 30.15
25 | 15.55 | 19.45 | 24.05 | 31.00
26 | 15.85 | 19.90 | 24.75 | 31.80
27 | 16.20 | 20.35 | 25.35 | 32.80
28 | 16.55 | 20.80 | 26.05 | 33.60
29 | 16.95 | 21.25 | 26.65 | 34.40
30 | 17.40 | 21.70 | 27.25 | 35.15
31 | 17.95 | 22.10 | 27.90 | 35.90
32 | 18.25 | 22.60 | 28.45 | 36.65
33 | 18.65 | 23.05 | 29.10 | 37.45
34 | 19.10 | 23.55 | 29.70 | 38.25
35 | 19.65 | 24.00 | 30.35 | 39.10
36 | 19.90 | 24.50 | 30.90 | 39.90
37 | 20.35 | 24.95 | 31.45 | 40.70
38 | 20.80 | 25.40 | 32.10 | 41.55
39 | 21.25 | 25.90 | 32.65 | 42.40
40 | 21.70 | 26.35 | 33.40 | 43.25
41 | 22.15 | 26.85 | 33.95 | 43.95
42 | 22.50 | 27.30 | 34.55 | 44.85
43 | 22.90 | 27.80 | 35.10 | 45.70
44 | 23.20 | 28.25 | 35.70 | 46.50
45 | 23.55 | 28.65 | 36.25 | 47.40
46 | 23.90 | 29.10 | 36.85 | 48.25
47 | 24.25 | 29.55 | 37.45 | 49.15
48 | 24.55 | 30.00 | 38.00 | 50.00
49 | 24.95 | 30.45 | 38.55 | 50.85
50 | 25.30 | 30.85 | 39.10 | 51.75
51 | 25.65 | 31.30 | 39.70 | 52.55
52 | 26.00 | 31.80 | 40.25 | 53.30
53 | 26.35 | 32.20 | 40.80 | 54.05
54 | 26.65 | 32.65 | 41.35 | 54.80
55 | 27.05 | 33.05 | 41.90 | 55.50
56 | 27.40 | 33.50 | 42.50 | 56.30
57 | 27.75 | 33.90 | 43.05 | 57.05
58 | 28.10 | 34.35 | 43.60 | 57.75
59 | 28.45 | 34.80 | 44.15 | 58.50
60 | 28.80 | 35.25 | 44.75 | 59.25
61 | 29.15 | 35.65 | 45.35 | 59.90
62 | 29.50 | 36.10 | 46.00 | 60.70
63 | 29.85 | 36.55 | 46.60 | 61.40
64 | 30.20 | 36.95 | 47.25 | 62.15
65 | 30.55 | 37.40 | 47.80 | 62.80
66 | 30.90 | 37.80 | 48.45 | 63.55
67 | 31.30 | 38.25 | 49.05 | 64.20
68 | 31.65 | 38.65 | 49.70 | 64.95
69 | 31.95 | 39.10 | 50.30 | 65.60
70 | 32.35 | 40.15 | 51.30 | 66.35
Oversized | 47.25 | 64.75 | 71.35 | 86.60

2300 International Products

* * *

2305 Outbound International Expedited Services

* * *

2305.6 Prices

* * *

Priority Mail Express International Flat Rate Retail Prices
| Country price group: 1 ($) | Country price group: 2 ($) | Country price group: 3 ($) | Country price group: 4 ($) | Country price group: 5 ($) | Country price group: 6 ($) | Country price group: 7 ($) | Country price group: 8 ($)
Flat Rate Envelope | 45.95 | 61.65 | 66.50 | 64.95 | 64.95 | 69.35 | 64.85 | 68.95

Priority Mail Express International Flat Rate Commercial Base Prices
| Country price group: 1 ($) | Country price group: 2 ($) | Country price group: 3 ($) | Country price group: 4 ($) | Country price group: 5 ($) | Country price group: 6 ($) | Country price group: 7 ($) | Country price group: 8 ($)
Flat Rate Envelope | 42.85 | 56.75 | 62.45 | 60.95 | 60.95 | 65.95 | 59.80 | 61.75

Priority Mail Express International Flat Rate Commercial Plus Prices
| Country price group: 1 ($) | Country price group: 2 ($) | Country price group: 3 ($) | Country price group: 4 ($) | Country price group: 5 ($) | Country price group: 6 ($) | Country price group: 7 ($) | Country price group: 8 ($)
Flat Rate Envelope | 42.85 | 56.75 | 62.45 | 60.95 | 60.95 | 65.95 | 59.80 | 61.75

Priority Mail Express International Retail Prices
| Country price group: 1 ($) | Country price group: 2 ($) | Country price group: 3 ($) | Country price group: 4 ($) | Country price group: 5 ($) | Country price group: 6 ($) | Country price group: 7 ($) | Country price group: 8 ($) | Country price group: 9 ($)
0.5 | 45.95 | 57.50 | 60.50 | 69.90 | 64.95 | 64.15 | 64.85 | 61.95 | 59.90
1 | 50.30 | 59.90 | 65.00 | 71.35 | 66.95 | 68.20 | 70.90 | 67.35 | 65.05
2 | 55.65 | 64.20 | 70.90 | 77.00 | 71.30 | 73.25 | 77.80 | 72.85 | 70.15
3 | 61.05 | 68.55 | 76.80 | 82.70 | 75.65 | 78.30 | 84.75 | 78.40 | 75.25
4 | 66.40 | 72.85 | 82.70 | 88.35 | 80.00 | 83.30 | 91.70 | 83.90 | 80.35
5 | 71.75 | 77.15 | 88.55 | 94.00 | 84.35 | 88.35 | 98.60 | 89.40 | 85.40
6 | 77.10 | 80.20 | 92.95 | 99.90 | 88.70 | 93.50 | 105.55 | 94.85 | 90.25
7 | 82.45 | 83.25 | 97.25 | 105.55 | 93.05 | 98.65 | 112.45 | 100.25 | 95.05
8 | 87.85 | 86.25 | 101.55 | 111.25 | 97.40 | 103.75 | 119.40 | 105.65 | 99.80
9 | 93.20 | 89.30 | 105.85 | 116.95 | 101.75 | 108.90 | 126.35 | 111.10 | 104.55
10 | 98.55 | 92.35 | 110.20 | 122.60 | 106.10 | 114.05 | 133.25 | 116.50 | 109.35
11 | 103.80 | 95.45 | 114.00 | 128.35 | 110.45 | 119.40 | 140.05 | 121.80 | 114.20
12 | 108.95 | 98.50 | 117.85 | 134.00 | 114.80 | 124.55 | 147.00 | 127.20 | 119.10
13 | 114.10 | 101.55 | 121.65 | 139.65 | 119.15 | 129.70 | 153.90 | 132.65 | 124.00
14 | 119.25 | 104.55 | 125.50 | 145.25 | 123.50 | 134.85 | 160.80 | 138.05 | 128.85
15 | 124.40 | 107.60 | 129.30 | 150.90 | 127.85 | 140.00 | 167.75 | 143.45 | 133.75
16 | 129.55 | 110.55 | 133.15 | 156.55 | 132.20 | 145.20 | 174.65 | 148.85 | 138.60
17 | 134.70 | 113.50 | 136.95 | 162.15 | 136.55 | 150.35 | 181.60 | 154.25 | 143.50
18 | 139.85 | 116.40 | 140.80 | 167.80 | 140.90 | 155.50 | 188.50 | 159.70 | 148.35
19 | 145.00 | 119.35 | 144.60 | 173.45 | 145.25 | 160.65 | 195.45 | 165.10 | 153.25
20 | 150.15 | 122.25 | 148.45 | 179.05 | 149.60 | 165.80 | 202.35 | 170.50 | 158.10
21 | 155.30 | 125.20 | 152.40 | 184.70 | 153.95 | 170.95 | 209.10 | 175.10 | 163.00
22 | 160.45 | 128.15 | 156.25 | 190.35 | 158.30 | 176.10 | 216.00 | 180.45 | 167.90
23 | 165.60 | 131.05 | 160.10 | 195.95 | 162.65 | 181.25 | 222.90 | 185.85 | 172.75
24 | 170.75 | 134.00 | 163.90 | 201.60 | 167.00 | 186.40 | 229.85 | 191.25 | 177.65
25 | 175.90 | 136.95 | 167.75 | 207.25 | 171.35 | 191.55 | 236.75 | 196.65 | 182.50

Maximum weight (pounds) | Country price group: 10 ($) | Country price group: 11 ($) | Country price group: 12 ($) | Country price group: 13 ($) | Country price group: 14 ($) | Country price group: 15 ($) | Country price group: 16 ($) | Country price group: 17 ($)
0.5 | 69.35 | 66.95 | 64.95 | 66.80 | 65.95 | 67.50 | 66.95 | 66.95
1 | 72.45 | 69.05 | 72.45 | 68.90 | 67.75 | 71.25 | 68.95 | 68.95
2 | 79.10 | 73.70 | 78.05 | 72.35 | 74.30 | 75.90 | 72.20 | 71.95
3 | 85.70 | 78.35 | 83.70 | 75.80 | 80.80 | 80.50 | 75.45 | 75.00
4 | 92.35 | 82.95 | 89.30 | 79.25 | 87.35 | 85.15 | 78.70 | 78.00
5 | 98.95 | 87.60 | 94.90 | 82.70 | 93.90 | 89.75 | 81.95 | 81.05
6 | 106.00 | 91.15 | 100.20 | 86.40 | 100.90 | 94.70 | 85.10 | 84.15
7 | 112.85 | 94.75 | 105.55 | 90.00 | 107.55 | 99.40 | 88.25 | 87.20
8 | 119.70 | 98.30 | 110.85 | 93.55 | 114.20 | 104.15 | 91.40 | 90.25
9 | 126.55 | 101.85 | 116.15 | 97.10 | 120.90 | 108.90 | 94.55 | 93.25
10 | 133.40 | 105.45 | 121.45 | 100.65 | 127.55 | 113.65 | 97.70 | 96.30
11 | 140.35 | 109.00 | 126.00 | 104.25 | 133.90 | 118.35 | 101.70 | 100.05
12 | 147.30 | 112.55 | 130.50 | 107.80 | 140.95 | 123.10 | 105.50 | 103.75
13 | 154.25 | 116.15 | 134.95 | 111.35 | 148.00 | 127.85 | 109.30 | 107.40
14 | 161.20 | 119.70 | 139.40 | 114.90 | 155.05 | 132.60 | 113.10 | 111.10
15 | 168.15 | 123.25 | 143.90 | 118.45 | 162.05 | 137.35 | 116.90 | 114.75
16 | 175.10 | 126.85 | 148.35 | 122.05 | 169.10 | 142.05 | 120.70 | 118.45
17 | 182.10 | 130.40 | 152.80 | 125.60 | 176.15 | 146.80 | 124.50 | 122.10
18 | 189.05 | 134.00 | 157.30 | 129.15 | 183.20 | 151.55 | 128.30 | 125.80
19 | 196.00 | 137.55 | 161.75 | 132.70 | 190.25 | 156.30 | 132.10 | 129.45
20 | 202.95 | 141.10 | 166.20 | 136.30 | 197.30 | 161.05 | 135.90 | 133.15
21 | 210.10 | 144.80 | 170.85 | 139.85 | 203.65 | 165.75 | 139.70 | 136.80
22 | 217.05 | 148.40 | 175.30 | 143.40 | 209.95 | 170.50 | 143.50 | 140.45
23 | 224.05 | 151.95 | 179.80 | 146.95 | 216.25 | 175.25 | 147.30 | 144.15
24 | 231.00 | 155.55 | 184.25 | 150.50 | 222.55 | 180.00 | 151.10 | 147.80
25 | 237.95 | 159.10 | 188.75 | 154.10 | 228.85 | 184.70 | 154.90 | 151.50

Maximum weight (pounds) | Country price group: 1 ($) | Country price group: 2 ($) | Country price group: 3 ($) | Country price group: 4 ($) | Country price group: 5 ($) | Country price group: 6 ($) | Country price group: 7 ($) | Country price group: 8 ($) | Country price group: 9 ($)
26 | 181.05 | 139.85 | 171.55 | 212.85 | 175.70 | 196.70 | 243.65 | 202.00 | 187.40
27 | 186.20 | 142.80 | 175.40 | 218.50 | 180.05 | 201.85 | 250.60 | 207.40 | 192.25
28 | 191.35 | 145.70 | 179.25 | 224.15 | 184.40 | 207.00 | 257.50 | 212.80 | 197.15
29 | 196.50 | 148.65 | 183.05 | 229.75 | 188.75 | 212.15 | 264.40 | 218.15 | 202.00
30 | 201.60 | 151.60 | 186.90 | 235.40 | 193.10 | 217.30 | 271.35 | 223.55 | 206.90
31 | 205.70 | 154.50 | 190.70 | 240.35 | 197.45 | 222.45 | 278.00 | 228.95 | 211.75
32 | 210.00 | 157.45 | 194.55 | 245.95 | 201.80 | 227.60 | 284.90 | 234.35 | 216.65
33 | 214.25 | 160.40 | 198.40 | 251.60 | 206.15 | 232.75 | 291.80 | 239.70 | 221.55
34 | 218.55 | 163.30 | 202.20 | 257.20 | 210.50 | 237.90 | 298.70 | 245.10 | 226.40
35 | 222.85 | 166.25 | 206.05 | 262.85 | 214.85 | 243.05 | 305.65 | 250.50 | 231.30
36 | 227.10 | 169.15 | 209.85 | 268.45 | 219.20 | 248.20 | 312.55 | 255.85 | 236.15
37 | 231.40 | 172.10 | 213.70 | 274.05 | 223.55 | 253.35 | 319.45 | 261.25 | 241.05
38 | 235.65 | 175.05 | 217.55 | 279.70 | 227.90 | 258.50 | 326.35 | 266.65 | 245.90
39 | 239.95 | 177.95 | 221.35 | 285.30 | 232.25 | 263.65 | 333.25 | 272.05 | 250.80
40 | 244.20 | 180.90 | 225.20 | 290.90 | 236.60 | 268.80 | 340.20 | 277.40 | 255.65
41 | 248.25 | 183.85 | 229.25 | 296.55 | 241.20 | 274.20 | 347.10 | 282.80 | 260.80
42 | 252.55 | 186.75 | 233.10 | 302.15 | 245.55 | 279.35 | 354.00 | 288.20 | 265.65
43 | 256.80 | 189.70 | 236.90 | 307.75 | 249.90 | 284.50 | 360.90 | 293.55 | 270.55
44 | 261.10 | 192.65 | 240.75 | 313.40 | 254.25 | 289.65 | 367.85 | 298.95 | 275.45
45 | 265.35 | 195.55 | 244.60 | 319.00 | 258.60 | 294.80 | 374.75 | 304.35 | 280.30
46 | 269.65 | 198.50 | 248.40 | 324.65 | 262.95 | 300.00 | 381.65 | 309.70 | 285.20
47 | 273.90 | 201.40 | 252.25 | 330.25 | 267.30 | 305.15 | 388.55 | 315.10 | 290.10
48 | 278.20 | 204.35 | 256.10 | 335.85 | 271.65 | 310.30 | 395.45 | 320.50 | 294.95
49 | 282.45 | 207.30 | 259.90 | 341.50 | 276.00 | 315.45 | 402.40 | 325.90 | 299.85
50 | 286.75 | 210.20 | 263.75 | 347.10 | 280.35 | 320.60 | 409.30 | 331.25 | 304.75

Maximum weight (pounds) | Country price group: 10 ($) | Country price group: 11 ($) | Country price group: 12 ($) | Country price group: 13 ($) | Country price group: 14 ($) | Country price group: 15 ($) | Country price group: 16 ($) | Country price group: 17 ($)
26 | 244.90 | 162.65 | 193.20 | 157.65 | 235.15 | 189.45 | 158.70 | 155.15
27 | 251.90 | 166.25 | 197.65 | 161.20 | 241.45 | 194.20 | 162.50 | 158.85
28 | 258.85 | 169.80 | 202.15 | 164.75 | 247.80 | 198.95 | 166.30 | 162.50
29 | 265.80 | 173.40 | 206.60 | 168.35 | 254.10 | 203.70 | 170.10 | 166.20
30 | 272.75 | 176.95 | 211.10 | 171.90 | 260.40 | 208.40 | 173.90 | 169.85
31 | 280.00 | 180.55 | 215.55 | 175.45 | 266.70 | 213.15 | 177.85 | 173.55
32 | 286.95 | 184.10 | 220.05 | 179.00 | 273.00 | 217.90 | 181.65 | 177.20
33 | 293.95 | 187.65 | 224.50 | 182.55 | 279.30 | 222.65 | 185.45 | 180.90
34 | 300.90 | 191.25 | 228.95 | 186.15 | 285.60 | 227.40 | 189.25 | 184.55
35 | 307.85 | 194.80 | 233.45 | 189.70 | 291.90 | 232.10 | 193.05 | 188.25
36 | 314.85 | 198.40 | 237.90 | 193.25 | 298.25 | 236.85 | 196.85 | 191.90
37 | 321.80 | 201.95 | 242.40 | 196.80 | 304.55 | 241.60 | 200.65 | 195.60
38 | 328.80 | 205.50 | 246.85 | 200.40 | 310.85 | 246.35 | 204.45 | 199.25
39 | 335.75 | 209.10 | 251.30 | 203.95 | 317.15 | 251.05 | 208.25 | 202.95
40 | 342.70 | 212.65 | 255.80 | 207.50 | 323.45 | 255.80 | 212.05 | 206.60
41 | 350.00 | 216.45 | 260.25 | 211.05 | 330.10 | 260.55 | 215.85 | 210.50
42 | 357.00 | 220.00 | 264.75 | 214.60 | 336.40 | 265.30 | 219.65 | 214.15
43 | 363.95 | 223.60 | 269.20 | 218.20 | 342.70 | 270.05 | 223.45 | 217.85
44 | 370.95 | 227.15 | 273.70 | 221.75 | 349.00 | 274.75 | 227.25 | 221.50
45 | 377.90 | 230.75 | 278.15 | 225.30 | 355.35 | 279.50 | 231.05 | 225.20
46 | 384.90 | 234.30 | 282.60 | 228.85 | 361.65 | 284.25 | 234.85 | 228.85
47 | 391.85 | 237.90 | 287.10 | 232.40 | 367.95 | 289.00 | 238.65 | 232.55
48 | 398.85 | 241.45 | 291.55 | 236.00 | 374.25 | 293.75 | 242.45 | 236.25
49 | 405.80 | 245.05 | 296.05 | 239.55 | 380.60 | 298.45 | 246.30 | 239.90
50 | 412.80 | 248.60 | 300.50 | 243.10 | 386.90 | 303.20 | 250.10 | 243.60

Maximum weight (pounds) | Country price group: 1 ($) | Country price group: 2 ($) | Country price group: 3 ($) | Country price group: 4 ($) | Country price group: 5 ($) | Country price group: 6 ($) | Country price group: 7 ($) | Country price group: 8 ($) | Country price group: 9 ($)
51 | 291.00 | 213.35 | 267.60 | 352.70 | 284.70 | 325.75 | 416.20 | 336.65 | 309.90
52 | 295.30 | 216.30 | 271.40 | 358.35 | 289.05 | 330.90 | 423.10 | 342.05 | 314.80
53 | 299.55 | 219.20 | 275.25 | 363.95 | 293.40 | 336.05 | 430.00 | 347.40 | 319.70
54 | 303.85 | 222.15 | 279.10 | 369.55 | 297.75 | 341.20 | 436.95 | 352.80 | 324.55
55 | 308.10 | 225.10 | 282.90 | 375.20 | 302.15 | 346.40 | 443.85 | 358.20 | 329.45
56 | 312.35 | 228.00 | 286.75 | 380.80 | 306.50 | 351.55 | 450.75 | 363.60 | 334.35
57 | 316.65 | 230.95 | 290.60 | 386.40 | 310.85 | 356.70 | 457.65 | 368.95 | 339.20
58 | 320.90 | 233.90 | 294.40 | 392.05 | 315.20 | 361.85 | 464.55 | 374.35 | 344.10
59 | 325.20 | 236.80 | 298.25 | 397.65 | 319.55 | 367.00 | 471.50 | 379.75 | 349.00
60 | 329.45 | 239.75 | 302.10 | 403.30 | 323.90 | 372.15 | 478.40 | 385.10 | 353.90
61 | 333.75 | 242.70 | 305.90 | 408.90 | 328.25 | 377.30 | 485.30 | 390.50 | 358.75
62 | 338.00 | 245.60 | 309.75 | 414.50 | 332.60 | 382.45 | 492.20 | 395.90 | 363.65
63 | 342.30 | 248.55 | 313.60 | 420.15 | 336.95 | 387.60 | 499.10 | 401.30 | 368.55
64 | 346.55 | 251.50 | 317.40 | 425.75 | 341.30 | 392.80 | 506.05 | 406.65 | 373.45
65 | 350.85 | 254.45 | 321.25 | 431.35 | 345.65 | 397.95 | 512.95 | 412.05 | 378.30
66 | 355.10 | 257.35 | 325.10 | 437.00 | 350.00 | 403.10 | 519.85 | 417.45 | 383.20
67 |  | 260.30 | 328.95 | 442.60 | 354.35 | 408.25 | 526.75 | 422.80 | 388.10
68 |  | 263.25 | 332.75 | 448.20 | 358.75 | 413.40 | 533.65 | 428.20 | 393.00
69 |  | 266.15 | 336.60 | 453.85 | 363.10 | 418.55 | 540.60 | 433.60 | 397.85
70 |  | 269.10 | 340.45 | 459.45 | 367.45 | 423.70 | 547.50 | 439.00 | 402.75

Maximum weight (pounds) | Country price group: 10 ($) | Country price group: 11 ($) | Country price group: 12 ($) | Country price group: 13 ($) | Country price group: 14 ($) | Country price group: 15 ($) | Country price group: 16 ($) | Country price group: 17 ($)
51 | 419.75 | 252.20 | 304.95 | 246.90 | 393.20 | 307.95 | 254.10 | 247.25
52 | 426.75 | 255.75 | 309.45 | 250.45 | 399.50 | 312.70 | 257.90 | 250.95
53 | 433.70 | 259.35 | 313.90 | 254.05 | 405.85 | 317.40 | 261.75 | 254.60
54 | 440.70 | 262.90 | 318.40 | 257.60 | 412.15 | 322.15 | 265.55 | 258.30
55 | 447.65 | 266.50 | 322.85 | 261.15 | 418.45 | 326.90 | 269.35 | 261.95
56 | 454.65 | 270.05 | 327.35 | 264.70 | 424.75 | 331.65 | 273.15 | 265.65
57 | 461.60 | 273.65 | 331.80 | 268.30 | 431.10 | 336.40 | 276.95 | 269.30
58 | 468.60 | 277.20 | 336.25 | 271.85 | 437.40 | 341.10 | 280.75 | 273.00
59 | 475.60 | 280.80 | 340.75 | 275.40 | 443.70 | 345.85 | 284.55 | 276.70
60 | 482.55 | 284.35 | 345.20 | 279.00 | 450.00 | 350.60 | 288.35 | 280.35
61 | 489.55 | 287.95 | 349.70 | 282.55 | 456.35 | 355.35 | 292.15 | 284.05
62 | 496.50 | 291.50 | 354.15 | 286.10 | 462.65 | 360.10 | 296.00 | 287.70
63 | 503.50 | 295.10 | 358.65 | 289.65 | 468.95 | 364.80 | 299.80 | 291.40
64 | 510.45 | 298.65 | 363.10 | 293.25 | 475.25 | 369.55 | 303.60 | 295.05
65 | 517.45 | 302.25 | 367.55 | 296.80 | 481.60 | 374.30 | 307.40 | 298.75
66 | 524.40 | 305.80 | 372.05 | 300.35 | 487.90 | 379.05 | 311.20 | 302.40
67 |  |  |  |  |  |  |  |
68 |  |  |  |  |  |  |  |
69 |  |  |  |  |  |  |  |
70 |  |  |  |  |  |  |  |

* * *

Priority Mail Express International Commercial Base Prices
Maximum weight (pounds) | Country price group: 1 ($) | Country price group: 2 ($) | Country price group: 3 ($) | Country price group: 4 ($) | Country price group: 5 ($) | Country price group: 6 ($) | Country price group: 7 ($) | Country price group: 8 ($) | Country price group: 9 ($)
0.5 | 42.85 | 54.48 | 57.40 | 66.41 | 60.99 | 60.99 | 61.86 | 58.74 | 56.60
1 | 46.82 | 56.70 | 61.69 | 67.78 | 62.84 | 64.86 | 67.66 | 64.21 | 61.40
2 | 51.81 | 60.78 | 67.28 | 73.16 | 66.93 | 69.65 | 74.27 | 69.47 | 66.21
3 | 56.80 | 64.86 | 72.88 | 78.55 | 71.01 | 74.44 | 80.89 | 74.74 | 71.01
4 | 61.79 | 68.94 | 78.47 | 83.93 | 75.10 | 79.22 | 87.51 | 80.00 | 75.81
5 | 66.78 | 73.03 | 84.06 | 89.33 | 79.17 | 84.01 | 94.12 | 85.27 | 80.61
6 | 71.77 | 75.90 | 88.15 | 94.71 | 83.26 | 88.90 | 100.73 | 90.44 | 85.11
7 | 76.75 | 78.77 | 92.23 | 100.10 | 87.34 | 93.79 | 107.35 | 95.60 | 89.61
8 | 81.75 | 81.64 | 96.31 | 105.48 | 91.43 | 98.68 | 113.96 | 100.77 | 94.11
9 | 86.74 | 84.52 | 100.39 | 110.88 | 95.50 | 103.56 | 120.58 | 105.93 | 98.60
10 | 91.72 | 87.39 | 104.48 | 116.26 | 99.59 | 108.46 | 127.19 | 111.10 | 103.10
11 | 96.05 | 90.26 | 108.11 | 121.59 | 103.67 | 113.45 | 133.94 | 115.71 | 107.60
12 | 100.83 | 93.13 | 111.73 | 126.94 | 107.76 | 118.35 | 140.55 | 120.86 | 112.20
13 | 105.59 | 96.01 | 115.36 | 132.27 | 111.83 | 123.23 | 147.17 | 125.99 | 116.79
14 | 110.35 | 98.89 | 118.99 | 137.61 | 115.91 | 128.13 | 153.79 | 131.14 | 121.38
15 | 115.11 | 101.75 | 122.62 | 142.94 | 120.00 | 133.03 | 160.42 | 136.27 | 125.98
16 | 119.89 | 104.53 | 126.25 | 148.28 | 124.08 | 137.92 | 167.04 | 141.42 | 130.58
17 | 124.65 | 107.30 | 129.88 | 153.62 | 128.16 | 142.81 | 173.66 | 146.56 | 135.17
18 | 129.41 | 110.07 | 133.51 | 158.96 | 132.24 | 147.70 | 180.27 | 151.70 | 139.76
19 | 134.18 | 112.84 | 137.13 | 164.29 | 136.33 | 152.60 | 186.90 | 156.84 | 144.36
20 | 138.95 | 115.62 | 140.76 | 169.63 | 140.41 | 157.49 | 193.52 | 161.98 | 148.96
21 | 143.71 | 118.39 | 144.53 | 174.96 | 144.49 | 162.38 | 200.14 | 167.12 | 153.55
22 | 148.47 | 121.16 | 148.16 | 180.31 | 148.57 | 167.28 | 206.76 | 172.26 | 158.14
23 | 153.24 | 123.92 | 151.79 | 185.64 | 152.66 | 172.17 | 213.39 | 177.40 | 162.73
24 | 158.01 | 126.70 | 155.42 | 190.98 | 156.74 | 177.07 | 220.00 | 182.55 | 167.34
25 | 162.77 | 129.47 | 159.06 | 196.31 | 160.82 | 181.95 | 226.62 | 187.68 | 171.93

Maximum weight (pounds) | Country price group: 10 ($) | Country price group: 11 ($) | Country price group: 12 ($) | Country price group: 13 ($) | Country price group: 14 ($) | Country price group: 15 ($) | Country price group: 16 ($) | Country price group: 17 ($)
0.5 | 65.96 | 63.44 | 62.38 | 63.44 | 62.45 | 64.19 | 62.84 | 63.50
1 | 68.83 | 65.31 | 69.48 | 65.40 | 64.31 | 67.84 | 65.00 | 65.37
2 | 75.12 | 69.68 | 74.87 | 68.68 | 70.50 | 72.24 | 68.07 | 68.24
3 | 81.42 | 74.06 | 80.26 | 71.95 | 76.71 | 76.64 | 71.15 | 71.11
4 | 87.72 | 78.45 | 85.65 | 75.23 | 82.91 | 81.05 | 74.22 | 73.98
5 | 94.00 | 82.83 | 91.03 | 78.49 | 89.10 | 85.44 | 77.28 | 76.86
6 | 100.50 | 86.20 | 96.12 | 81.87 | 94.96 | 89.95 | 80.26 | 79.66
7 | 107.00 | 89.57 | 101.21 | 85.25 | 101.23 | 94.44 | 83.23 | 82.52
8 | 113.49 | 92.95 | 106.29 | 88.62 | 107.49 | 98.95 | 86.20 | 85.39
9 | 119.98 | 96.32 | 111.37 | 91.99 | 113.76 | 103.45 | 89.17 | 88.27
10 | 126.48 | 99.69 | 116.46 | 95.37 | 120.04 | 107.96 | 92.15 | 91.14
11 | 133.07 | 103.06 | 120.74 | 98.74 | 126.71 | 112.45 | 95.81 | 94.61
12 | 139.68 | 106.45 | 125.02 | 102.11 | 133.37 | 116.96 | 99.38 | 98.08
13 | 146.27 | 109.82 | 129.30 | 105.48 | 140.05 | 121.46 | 102.96 | 101.56
14 | 152.86 | 113.19 | 133.58 | 108.86 | 146.72 | 125.97 | 106.55 | 105.04
15 | 159.46 | 116.56 | 137.86 | 112.23 | 153.39 | 130.46 | 110.12 | 108.50
16 | 166.06 | 119.94 | 142.14 | 115.60 | 160.06 | 134.97 | 113.70 | 111.98
17 | 172.65 | 123.31 | 146.42 | 118.97 | 166.73 | 139.47 | 117.27 | 115.46
18 | 179.25 | 126.68 | 150.70 | 122.36 | 173.41 | 143.98 | 120.86 | 118.93
19 | 185.84 | 130.05 | 154.98 | 125.73 | 180.08 | 148.47 | 124.43 | 122.40
20 | 192.44 | 133.43 | 159.25 | 129.10 | 186.74 | 152.98 | 128.01 | 125.88
21 | 199.22 | 136.67 | 163.54 | 132.47 | 192.72 | 157.48 | 131.59 | 129.35
22 | 205.82 | 140.04 | 167.82 | 135.85 | 198.69 | 161.99 | 135.17 | 132.83
23 | 212.42 | 143.41 | 172.10 | 139.22 | 204.65 | 166.48 | 138.75 | 136.29
24 | 219.03 | 146.79 | 176.37 | 142.59 | 210.62 | 170.99 | 142.32 | 139.77
25 | 225.63 | 150.16 | 180.66 | 145.96 | 216.60 | 175.49 | 145.90 | 143.25

Maximum weight (pounds) | Country price group: 1 ($) | Country price group: 2 ($) | Country price group: 3 ($) | Country price group: 4 ($) | Country price group: 5 ($) | Country price group: 6 ($) | Country price group: 7 ($) | Country price group: 8 ($) | Country price group: 9 ($)
26 | 167.53 | 132.24 | 162.69 | 201.65 | 164.90 | 186.85 | 233.24 | 192.83 | 176.52
27 | 172.30 | 135.01 | 166.32 | 206.99 | 168.99 | 191.74 | 239.87 | 197.96 | 181.11
28 | 177.07 | 137.79 | 169.95 | 212.33 | 173.07 | 196.64 | 246.49 | 203.11 | 185.72
29 | 181.83 | 140.56 | 173.58 | 217.66 | 177.14 | 201.53 | 253.10 | 208.24 | 190.31
30 | 186.60 | 143.33 | 177.22 | 223.00 | 181.23 | 206.42 | 259.72 | 213.39 | 194.90
31 | 190.56 | 145.69 | 181.02 | 228.33 | 185.31 | 211.32 | 266.35 | 218.52 | 199.49
32 | 194.53 | 148.46 | 184.65 | 233.68 | 189.40 | 216.21 | 272.97 | 223.67 | 204.10
33 | 198.49 | 151.22 | 188.29 | 239.01 | 193.47 | 221.10 | 279.59 | 228.80 | 208.69
34 | 202.45 | 153.98 | 191.92 | 244.35 | 197.56 | 225.99 | 286.21 | 233.95 | 213.28
35 | 206.41 | 156.74 | 195.56 | 249.68 | 201.64 | 230.89 | 292.83 | 239.09 | 217.87
36 | 210.38 | 159.51 | 199.20 | 255.03 | 205.73 | 235.79 | 299.45 | 244.23 | 222.48
37 | 214.34 | 162.28 | 202.83 | 260.36 | 209.80 | 240.67 | 306.07 | 249.37 | 227.07
38 | 218.30 | 165.04 | 206.47 | 265.70 | 213.89 | 245.57 | 312.69 | 254.51 | 231.66
39 | 222.26 | 167.80 | 210.10 | 271.03 | 217.97 | 250.46 | 319.32 | 259.65 | 236.25
40 | 226.23 | 170.57 | 213.74 | 276.37 | 222.06 | 255.36 | 325.94 | 264.79 | 240.85
41 | 230.19 | 173.50 | 217.37 | 281.71 | 226.13 | 260.00 | 332.87 | 269.67 | 245.22
42 | 234.15 | 176.26 | 221.01 | 287.05 | 230.22 | 264.89 | 339.49 | 274.82 | 249.80
43 | 238.11 | 179.02 | 224.64 | 292.38 | 234.30 | 269.78 | 346.13 | 279.95 | 254.39
44 | 242.08 | 181.80 | 228.28 | 297.72 | 238.39 | 274.67 | 352.75 | 285.09 | 258.99
45 | 246.04 | 184.56 | 231.91 | 303.05 | 242.46 | 279.55 | 359.37 | 290.22 | 263.58
46 | 250.00 | 187.33 | 235.55 | 308.40 | 246.54 | 284.44 | 366.00 | 295.36 | 268.17
47 | 253.96 | 190.09 | 239.19 | 313.73 | 250.63 | 289.33 | 372.63 | 300.49 | 272.75
48 | 257.93 | 192.87 | 242.82 | 319.07 | 254.71 | 294.23 | 379.26 | 305.63 | 277.35
49 | 261.89 | 195.63 | 246.46 | 324.40 | 258.79 | 299.11 | 385.88 | 310.76 | 281.94
50 | 265.85 | 198.39 | 250.09 | 329.74 | 262.87 | 304.00 | 392.51 | 315.90 | 286.53

Maximum weight (pounds) | Country price group: 10 ($) | Country price group: 11 ($) | Country price group: 12 ($) | Country price group: 13 ($) | Country price group: 14 ($) | Country price group: 15 ($) | Country price group: 16 ($) | Country price group: 17 ($)
26 | 232.23 | 153.52 | 184.94 | 149.34 | 222.56 | 180.00 | 149.48 | 146.73
27 | 238.83 | 156.89 | 189.22 | 152.71 | 228.53 | 184.49 | 153.06 | 150.19
28 | 245.44 | 160.27 | 193.49 | 156.09 | 234.50 | 188.99 | 156.64 | 153.67
29 | 252.04 | 163.64 | 197.77 | 159.46 | 240.47 | 193.50 | 160.21 | 157.15
30 | 258.64 | 167.00 | 202.06 | 162.84 | 246.44 | 198.00 | 163.80 | 160.62
31 | 265.24 | 170.37 | 206.34 | 166.21 | 252.41 | 202.50 | 167.37 | 164.09
32 | 271.85 | 173.75 | 210.61 | 169.58 | 258.37 | 207.00 | 170.95 | 167.56
33 | 278.45 | 177.12 | 214.89 | 172.95 | 264.35 | 211.51 | 174.52 | 171.04
34 | 285.05 | 180.49 | 219.18 | 176.33 | 270.31 | 216.01 | 178.11 | 174.52
35 | 291.65 | 183.85 | 223.46 | 179.70 | 276.28 | 220.51 | 181.69 | 177.98
36 | 298.26 | 187.23 | 227.73 | 183.07 | 282.25 | 225.01 | 185.26 | 181.46
37 | 304.86 | 190.60 | 232.01 | 186.44 | 288.22 | 229.52 | 188.84 | 184.94
38 | 311.46 | 193.97 | 236.30 | 189.82 | 294.19 | 234.02 | 192.42 | 188.42
39 | 318.06 | 197.33 | 240.58 | 193.20 | 300.16 | 238.52 | 196.00 | 191.88
40 | 324.67 | 200.71 | 244.85 | 196.57 | 306.12 | 243.02 | 199.57 | 195.36
41 | 331.58 | 204.08 | 249.13 | 199.94 | 312.10 | 246.83 | 202.96 | 198.65
42 | 338.18 | 207.45 | 253.41 | 203.32 | 318.07 | 251.32 | 206.54 | 202.12
43 | 344.79 | 210.82 | 257.70 | 206.69 | 324.03 | 255.80 | 210.11 | 205.58
44 | 351.41 | 214.19 | 261.97 | 210.06 | 330.00 | 260.30 | 213.69 | 209.06
45 | 358.01 | 217.56 | 266.25 | 213.43 | 335.98 | 264.79 | 217.26 | 212.53
46 | 364.62 | 220.93 | 270.53 | 216.81 | 341.94 | 269.28 | 220.84 | 216.00
47 | 371.22 | 224.30 | 274.82 | 220.18 | 347.91 | 273.76 | 224.41 | 219.47
48 | 377.84 | 227.67 | 279.09 | 223.55 | 353.88 | 278.25 | 227.98 | 222.94
49 | 384.44 | 231.04 | 283.37 | 226.92 | 359.85 | 282.75 | 231.56 | 226.41
50 | 391.05 | 234.41 | 287.65 | 230.31 | 365.82 | 287.24 | 235.14 | 229.89

Maximum weight (pounds) | Country price group: 1 ($) | Country price group: 2 ($) | Country price group: 3 ($) | Country price group: 4 ($) | Country price group: 5 ($) | Country price group: 6 ($) | Country price group: 7 ($) | Country price group: 8 ($) | Country price group: 9 ($)
51 | 269.81 | 200.78 | 253.73 | 333.50 | 266.96 | 308.60 | 399.14 | 321.03 | 291.12
52 | 273.78 | 203.55 | 257.36 | 338.81 | 271.04 | 313.48 | 405.77 | 326.17 | 295.71
53 | 277.74 | 206.31 | 261.00 | 344.12 | 275.12 | 318.36 | 412.39 | 331.30 | 300.30
54 | 281.70 | 209.06 | 264.63 | 349.44 | 279.20 | 323.25 | 419.01 | 336.44 | 304.89
55 | 285.66 | 211.82 | 268.27 | 354.74 | 283.29 | 328.13 | 425.65 | 341.57 | 309.48
56 | 289.63 | 214.59 | 271.90 | 360.06 | 287.37 | 333.02 | 432.27 | 346.72 | 314.08
57 | 293.59 | 217.35 | 275.54 | 365.37 | 291.45 | 337.90 | 438.90 | 351.85 | 318.66
58 | 297.55 | 220.11 | 279.18 | 370.68 | 295.53 | 342.78 | 445.52 | 356.99 | 323.25
59 | 301.51 | 222.87 | 282.81 | 375.99 | 299.62 | 347.67 | 452.16 | 362.12 | 327.84
60 | 305.48 | 225.64 | 286.45 | 381.31 | 303.70 | 352.56 | 458.78 | 367.26 | 332.44
61 | 309.44 | 227.96 | 290.08 | 386.62 | 307.77 | 357.43 | 465.41 | 372.39 | 337.03
62 | 313.40 | 230.72 | 293.72 | 391.93 | 311.86 | 362.32 | 472.03 | 377.53 | 341.61
63 | 317.36 | 233.47 | 297.35 | 397.24 | 315.94 | 367.21 | 478.66 | 382.66 | 346.20
64 | 321.33 | 236.24 | 300.99 | 402.56 | 320.03 | 372.09 | 485.29 | 387.80 | 350.80
65 | 325.29 | 238.99 | 304.62 | 407.86 | 324.10 | 376.97 | 491.91 | 392.93 | 355.39
66 | 329.25 | 241.74 | 308.26 | 413.18 | 328.19 | 381.85 | 498.54 | 398.07 | 359.98
67 |  | 244.50 | 311.89 | 418.49 | 332.27 | 386.74 | 505.17 | 403.20 | 364.56
68 |  | 247.26 | 315.53 | 423.80 | 336.36 | 391.63 | 511.80 | 408.34 | 369.16
69 |  | 250.01 | 319.17 | 429.11 | 340.43 | 396.50 | 518.42 | 413.47 | 373.75
70 |  | 252.77 | 322.80 | 434.43 | 344.52 | 401.39 | 525.05 | 418.62 | 378.34

Maximum weight (pounds) | Country price group: 10 ($) | Country price group: 11 ($) | Country price group: 12 ($) | Country price group: 13 ($) | Country price group: 14 ($) | Country price group: 15 ($) | Country price group: 16 ($) | Country price group: 17 ($)
51 | 397.66 | 236.88 | 291.66 | 233.46 | 371.79 | 291.72 | 238.04 | 233.35
52 | 404.27 | 240.24 | 295.93 | 236.82 | 377.75 | 296.21 | 241.60 | 236.82
53 | 410.88 | 243.60 | 300.21 | 240.19 | 383.73 | 300.71 | 245.16 | 240.30
54 | 417.48 | 246.95 | 304.48 | 243.57 | 389.70 | 305.20 | 248.73 | 243.77
55 | 424.09 | 250.31 | 308.76 | 246.94 | 395.66 | 309.68 | 252.30 | 247.23
56 | 430.70 | 253.67 | 313.03 | 250.31 | 401.63 | 314.17 | 255.86 | 250.71
57 | 437.31 | 257.03 | 317.31 | 253.67 | 407.61 | 318.66 | 259.42 | 254.18
58 | 443.92 | 260.38 | 321.59 | 257.05 | 413.57 | 323.16 | 262.99 | 257.65
59 | 450.52 | 263.74 | 325.86 | 260.42 | 419.54 | 327.64 | 266.55 | 261.12
60 | 457.14 | 267.10 | 330.13 | 263.79 | 425.50 | 332.13 | 270.12 | 264.59
61 | 463.74 | 270.46 | 334.41 | 267.15 | 431.48 | 336.62 | 273.68 | 267.81
62 | 470.35 | 273.81 | 338.69 | 270.53 | 437.45 | 341.11 | 277.25 | 271.28
63 | 476.95 | 277.17 | 342.97 | 273.90 | 443.41 | 345.60 | 280.81 | 274.74
64 | 483.57 | 280.54 | 347.24 | 277.27 | 449.38 | 350.09 | 284.38 | 278.21
65 | 490.18 | 283.89 | 351.51 | 280.64 | 455.36 | 354.58 | 287.94 | 281.68
66 | 496.78 | 287.24 | 355.79 | 284.01 | 461.32 | 359.07 | 291.51 | 285.15
67 |  |  |  |  |  |  |  |
68 |  |  |  |  |  |  |  |
69 |  |  |  |  |  |  |  |
70 |  |  |  |  |  |  |  |

Priority Mail Express International Commercial Plus Prices
Maximum weight (pounds) | Country price group: 1 ($) | Country price group: 2 ($) | Country price group: 3 ($) | Country price group: 4 ($) | Country price group: 5 ($) | Country price group: 6 ($) | Country price group: 7 ($) | Country price group: 8 ($) | Country price group: 9 ($)
0.5 | 42.85 | 54.48 | 57.40 | 66.41 | 60.99 | 60.99 | 61.86 | 58.74 | 56.60
1 | 46.82 | 56.70 | 61.69 | 67.78 | 62.84 | 64.86 | 67.66 | 64.21 | 61.40
2 | 51.81 | 60.78 | 67.28 | 73.16 | 66.93 | 69.65 | 74.27 | 69.47 | 66.21
3 | 56.80 | 64.86 | 72.88 | 78.55 | 71.01 | 74.44 | 80.89 | 74.74 | 71.01
4 | 61.79 | 68.94 | 78.47 | 83.93 | 75.10 | 79.22 | 87.51 | 80.00 | 75.81
5 | 66.78 | 73.03 | 84.06 | 89.33 | 79.17 | 84.01 | 94.12 | 85.27 | 80.61
6 | 71.77 | 75.90 | 88.15 | 94.71 | 83.26 | 88.90 | 100.73 | 90.44 | 85.11
7 | 76.75 | 78.77 | 92.23 | 100.10 | 87.34 | 93.79 | 107.35 | 95.60 | 89.61
8 | 81.75 | 81.64 | 96.31 | 105.48 | 91.43 | 98.68 | 113.96 | 100.77 | 94.11
9 | 86.74 | 84.52 | 100.39 | 110.88 | 95.50 | 103.56 | 120.58 | 105.93 | 98.60
10 | 91.72 | 87.39 | 104.48 | 116.26 | 99.59 | 108.46 | 127.19 | 111.10 | 103.10
11 | 96.05 | 90.26 | 108.11 | 121.59 | 103.67 | 113.45 | 133.94 | 115.71 | 107.60
12 | 100.83 | 93.13 | 111.73 | 126.94 | 107.76 | 118.35 | 140.55 | 120.86 | 112.20
13 | 105.59 | 96.01 | 115.36 | 132.27 | 111.83 | 123.23 | 147.17 | 125.99 | 116.79
14 | 110.35 | 98.89 | 118.99 | 137.61 | 115.91 | 128.13 | 153.79 | 131.14 | 121.38
15 | 115.11 | 101.75 | 122.62 | 142.94 | 120.00 | 133.03 | 160.42 | 136.27 | 125.98
16 | 119.89 | 104.53 | 126.25 | 148.28 | 124.08 | 137.92 | 167.04 | 141.42 | 130.58
17 | 124.65 | 107.30 | 129.88 | 153.62 | 128.16 | 142.81 | 173.66 | 146.56 | 135.17
18 | 129.41 | 110.07 | 133.51 | 158.96 | 132.24 | 147.70 | 180.27 | 151.70 | 139.76
19 | 134.18 | 112.84 | 137.13 | 164.29 | 136.33 | 152.60 | 186.90 | 156.84 | 144.36
20 | 138.95 | 115.62 | 140.76 | 169.63 | 140.41 | 157.49 | 193.52 | 161.98 | 148.96
21 | 143.71 | 118.39 | 144.53 | 174.96 | 144.49 | 162.38 | 200.14 | 167.12 | 153.55
22 | 148.47 | 121.16 | 148.16 | 180.31 | 148.57 | 167.28 | 206.76 | 172.26 | 158.14
23 | 153.24 | 123.92 | 151.79 | 185.64 | 152.66 | 172.17 | 213.39 | 177.40 | 162.73
24 | 158.01 | 126.70 | 155.42 | 190.98 | 156.74 | 177.07 | 220.00 | 182.55 | 167.34
25 | 162.77 | 129.47 | 159.06 | 196.31 | 160.82 | 181.95 | 226.62 | 187.68 | 171.93

Maximum weight (pounds) | Country price group: 10 ($) | Country price group: 11 ($) | Country price group: 12 ($) | Country price group: 13 ($) | Country price group: 14 ($) | Country price group: 15 ($) | Country price group: 16 ($) | Country price group: 17 ($)
0.5 | 65.96 | 63.44 | 62.38 | 63.44 | 62.45 | 64.19 | 62.84 | 63.50
1 | 68.83 | 65.31 | 69.48 | 65.40 | 64.31 | 67.84 | 65.00 | 65.37
2 | 75.12 | 69.68 | 74.87 | 68.68 | 70.50 | 72.24 | 68.07 | 68.24
3 | 81.42 | 74.06 | 80.26 | 71.95 | 76.71 | 76.64 | 71.15 | 71.11
4 | 87.72 | 78.45 | 85.65 | 75.23 | 82.91 | 81.05 | 74.22 | 73.98
5 | 94.00 | 82.83 | 91.03 | 78.49 | 89.10 | 85.44 | 77.28 | 76.86
6 | 100.50 | 86.20 | 96.12 | 81.87 | 94.96 | 89.95 | 80.26 | 79.66
7 | 107.00 | 89.57 | 101.21 | 85.25 | 101.23 | 94.44 | 83.23 | 82.52
8 | 113.49 | 92.95 | 106.29 | 88.62 | 107.49 | 98.95 | 86.20 | 85.39
9 | 119.98 | 96.32 | 111.37 | 91.99 | 113.76 | 103.45 | 89.17 | 88.27
10 | 126.48 | 99.69 | 116.46 | 95.37 | 120.04 | 107.96 | 92.15 | 91.14
11 | 133.07 | 103.06 | 120.74 | 98.74 | 126.71 | 112.45 | 95.81 | 94.61
12 | 139.68 | 106.45 | 125.02 | 102.11 | 133.37 | 116.96 | 99.38 | 98.08
13 | 146.27 | 109.82 | 129.30 | 105.48 | 140.05 | 121.46 | 102.96 | 101.56
14 | 152.86 | 113.19 | 133.58 | 108.86 | 146.72 | 125.97 | 106.55 | 105.04
15 | 159.46 | 116.56 | 137.86 | 112.23 | 153.39 | 130.46 | 110.12 | 108.50
16 | 166.06 | 119.94 | 142.14 | 115.60 | 160.06 | 134.97 | 113.70 | 111.98
17 | 172.65 | 123.31 | 146.42 | 118.97 | 166.73 | 139.47 | 117.27 | 115.46
18 | 179.25 | 126.68 | 150.70 | 122.36 | 173.41 | 143.98 | 120.86 | 118.93
19 | 185.84 | 130.05 | 154.98 | 125.73 | 180.08 | 148.47 | 124.43 | 122.40
20 | 192.44 | 133.43 | 159.25 | 129.10 | 186.74 | 152.98 | 128.01 | 125.88
21 | 199.22 | 136.67 | 163.54 | 132.47 | 192.72 | 157.48 | 131.59 | 129.35
22 | 205.82 | 140.04 | 167.82 | 135.85 | 198.69 | 161.99 | 135.17 | 132.83
23 | 212.42 | 143.41 | 172.10 | 139.22 | 204.65 | 166.48 | 138.75 | 136.29
24 | 219.03 | 146.79 | 176.37 | 142.59 | 210.62 | 170.99 | 142.32 | 139.77
25 | 225.63 | 150.16 | 180.66 | 145.96 | 216.60 | 175.49 | 145.90 | 143.25

Maximum weight (pounds) | Country price group: 1 ($) | Country price group: 2 ($) | Country price group: 3 ($) | Country price group: 4 ($) | Country price group: 5 ($) | Country price group: 6 ($) | Country price group: 7 ($) | Country price group: 8 ($) | Country price group: 9 ($)
26 | 167.53 | 132.24 | 162.69 | 201.65 | 164.90 | 186.85 | 233.24 | 192.83 | 176.52
27 | 172.30 | 135.01 | 166.32 | 206.99 | 168.99 | 191.74 | 239.87 | 197.96 | 181.11
28 | 177.07 | 137.79 | 169.95 | 212.33 | 173.07 | 196.64 | 246.49 | 203.11 | 185.72
29 | 181.83 | 140.56 | 173.58 | 217.66 | 177.14 | 201.53 | 253.10 | 208.24 | 190.31
30 | 186.60 | 143.33 | 177.22 | 223.00 | 181.23 | 206.42 | 259.72 | 213.39 | 194.90
31 | 190.56 | 145.69 | 181.02 | 228.33 | 185.31 | 211.32 | 266.35 | 218.52 | 199.49
32 | 194.53 | 148.46 | 184.65 | 233.68 | 189.40 | 216.21 | 272.97 | 223.67 | 204.10
33 | 198.49 | 151.22 | 188.29 | 239.01 | 193.47 | 221.10 | 279.59 | 228.80 | 208.69
34 | 202.45 | 153.98 | 191.92 | 244.35 | 197.56 | 225.99 | 286.21 | 233.95 | 213.28
35 | 206.41 | 156.74 | 195.56 | 249.68 | 201.64 | 230.89 | 292.83 | 239.09 | 217.87
36 | 210.38 | 159.51 | 199.20 | 255.03 | 205.73 | 235.79 | 299.45 | 244.23 | 222.48
37 | 214.34 | 162.28 | 202.83 | 260.36 | 209.80 | 240.67 | 306.07 | 249.37 | 227.07
38 | 218.30 | 165.04 | 206.47 | 265.70 | 213.89 | 245.57 | 312.69 | 254.51 | 231.66
39 | 222.26 | 167.80 | 210.10 | 271.03 | 217.97 | 250.46 | 319.32 | 259.65 | 236.25
40 | 226.23 | 170.57 | 213.74 | 276.37 | 222.06 | 255.36 | 325.94 | 264.79 | 240.85
41 | 230.19 | 173.50 | 217.37 | 281.71 | 226.13 | 260.00 | 332.87 | 269.67 | 245.22
42 | 234.15 | 176.26 | 221.01 | 287.05 | 230.22 | 264.89 | 339.49 | 274.82 | 249.80
43 | 238.11 | 179.02 | 224.64 | 292.38 | 234.30 | 269.78 | 346.13 | 279.95 | 254.39
44 | 242.08 | 181.80 | 228.28 | 297.72 | 238.39 | 274.67 | 352.75 | 285.09 | 258.99
45 | 246.04 | 184.56 | 231.91 | 303.05 | 242.46 | 279.55 | 359.37 | 290.22 | 263.58
46 | 250.00 | 187.33 | 235.55 | 308.40 | 246.54 | 284.44 | 366.00 | 295.36 | 268.17
47 | 253.96 | 190.09 | 239.19 | 313.73 | 250.63 | 289.33 | 372.63 | 300.49 | 272.75
48 | 257.93 | 192.87 | 242.82 | 319.07 | 254.71 | 294.23 | 379.26 | 305.63 | 277.35
49 | 261.89 | 195.63 | 246.46 | 324.40 | 258.79 | 299.11 | 385.88 | 310.76 | 281.94
50 | 265.85 | 198.39 | 250.09 | 329.74 | 262.87 | 304.00 | 392.51 | 315.90 | 286.53

Maximum weight (pounds) | Country price group: 10 ($) | Country price group: 11 ($) | Country price group: 12 ($) | Country price group: 13 ($) | Country price group: 14 ($) | Country price group: 15 ($) | Country price group: 16 ($) | Country price group: 17 ($)
26 | 232.23 | 153.52 | 184.94 | 149.34 | 222.56 | 180.00 | 149.48 | 146.73
27 | 238.83 | 156.89 | 189.22 | 152.71 | 228.53 | 184.49 | 153.06 | 150.19
28 | 245.44 | 160.27 | 193.49 | 156.09 | 234.50 | 188.99 | 156.64 | 153.67
29 | 252.04 | 163.64 | 197.77 | 159.46 | 240.47 | 193.50 | 160.21 | 157.15
30 | 258.64 | 167.00 | 202.06 | 162.84 | 246.44 | 198.00 | 163.80 | 160.62
31 | 265.24 | 170.37 | 206.34 | 166.21 | 252.41 | 202.50 | 167.37 | 164.09
32 | 271.85 | 173.75 | 210.61 | 169.58 | 258.37 | 207.00 | 170.95 | 167.56
33 | 278.45 | 177.12 | 214.89 | 172.95 | 264.35 | 211.51 | 174.52 | 171.04
34 | 285.05 | 180.49 | 219.18 | 176.33 | 270.31 | 216.01 | 178.11 | 174.52
35 | 291.65 | 183.85 | 223.46 | 179.70 | 276.28 | 220.51 | 181.69 | 177.98
36 | 298.26 | 187.23 | 227.73 | 183.07 | 282.25 | 225.01 | 185.26 | 181.46
37 | 304.86 | 190.60 | 232.01 | 186.44 | 288.22 | 229.52 | 188.84 | 184.94
38 | 311.46 | 193.97 | 236.30 | 189.82 | 294.19 | 234.02 | 192.42 | 188.42
39 | 318.06 | 197.33 | 240.58 | 193.20 | 300.16 | 238.52 | 196.00 | 191.88
40 | 324.67 | 200.71 | 244.85 | 196.57 | 306.12 | 243.02 | 199.57 | 195.36
41 | 331.58 | 204.08 | 249.13 | 199.94 | 312.10 | 246.83 | 202.96 | 198.65
42 | 338.18 | 207.45 | 253.41 | 203.32 | 318.07 | 251.32 | 206.54 | 202.12
43 | 344.79 | 210.82 | 257.70 | 206.69 | 324.03 | 255.80 | 210.11 | 205.58
44 | 351.41 | 214.19 | 261.97 | 210.06 | 330.00 | 260.30 | 213.69 | 209.06
45 | 358.01 | 217.56 | 266.25 | 213.43 | 335.98 | 264.79 | 217.26 | 212.53
46 | 364.62 | 220.93 | 270.53 | 216.81 | 341.94 | 269.28 | 220.84 | 216.00
47 | 371.22 | 224.30 | 274.82 | 220.18 | 347.91 | 273.76 | 224.41 | 219.47
48 | 377.84 | 227.67 | 279.09 | 223.55 | 353.88 | 278.25 | 227.98 | 222.94
49 | 384.44 | 231.04 | 283.37 | 226.92 | 359.85 | 282.75 | 231.56 | 226.41
50 | 391.05 | 234.41 | 287.65 | 230.31 | 365.82 | 287.24 | 235.14 | 229.89

Maximum weight (pounds) | Country price group: 1 ($) | Country price group: 2 ($) | Country price group: 3 ($) | Country price group: 4 ($) | Country price group: 5 ($) | Country price group: 6 ($) | Country price group: 7 ($) | Country price group: 8 ($) | Country price group: 9 ($)
51 | 269.81 | 200.78 | 253.73 | 333.50 | 266.96 | 308.60 | 399.14 | 321.03 | 291.12
52 | 273.78 | 203.55 | 257.36 | 338.81 | 271.04 | 313.48 | 405.77 | 326.17 | 295.71
53 | 277.74 | 206.31 | 261.00 | 344.12 | 275.12 | 318.36 | 412.39 | 331.30 | 300.30
54 | 281.70 | 209.06 | 264.63 | 349.44 | 279.20 | 323.25 | 419.01 | 336.44 | 304.89
55 | 285.66 | 211.82 | 268.27 | 354.74 | 283.29 | 328.13 | 425.65 | 341.57 | 309.48
56 | 289.63 | 214.59 | 271.90 | 360.06 | 287.37 | 333.02 | 432.27 | 346.72 | 314.08
57 | 293.59 | 217.35 | 275.54 | 365.37 | 291.45 | 337.90 | 438.90 | 351.85 | 318.66
58 | 297.55 | 220.11 | 279.18 | 370.68 | 295.53 | 342.78 | 445.52 | 356.99 | 323.25
59 | 301.51 | 222.87 | 282.81 | 375.99 | 299.62 | 347.67 | 452.16 | 362.12 | 327.84
60 | 305.48 | 225.64 | 286.45 | 381.31 | 303.70 | 352.56 | 458.78 | 367.26 | 332.44
61 | 309.44 | 227.96 | 290.08 | 386.62 | 307.77 | 357.43 | 465.41 | 372.39 | 337.03
62 | 313.40 | 230.72 | 293.72 | 391.93 | 311.86 | 362.32 | 472.03 | 377.53 | 341.61
63 | 317.36 | 233.47 | 297.35 | 397.24 | 315.94 | 367.21 | 478.66 | 382.66 | 346.20
64 | 321.33 | 236.24 | 300.99 | 402.56 | 320.03 | 372.09 | 485.29 | 387.80 | 350.80
65 | 325.29 | 238.99 | 304.62 | 407.86 | 324.10 | 376.97 | 491.91 | 392.93 | 355.39
66 | 329.25 | 241.74 | 308.26 | 413.18 | 328.19 | 381.85 | 498.54 | 398.07 | 359.98
67 |  | 244.50 | 311.89 | 418.49 | 332.27 | 386.74 | 505.17 | 403.20 | 364.56
68 |  | 247.26 | 315.53 | 423.80 | 336.36 | 391.63 | 511.80 | 408.34 | 369.16
69 |  | 250.01 | 319.17 | 429.11 | 340.43 | 396.50 | 518.42 | 413.47 | 373.75
70 |  | 252.77 | 322.80 | 434.43 | 344.52 | 401.39 | 525.05 | 418.62 | 378.34

Maximum weight (pounds) | Country price group: 10 ($) | Country price group: 11 ($) | Country price group: 12 ($) | Country price group: 13 ($) | Country price group: 14 ($) | Country price group: 15 ($) | Country price group: 16 ($) | Country price group: 17 ($)
51 | 397.66 | 236.88 | 291.66 | 233.46 | 371.79 | 291.72 | 238.04 | 233.35
52 | 404.27 | 240.24 | 295.93 | 236.82 | 377.75 | 296.21 | 241.60 | 236.82
53 | 410.88 | 243.60 | 300.21 | 240.19 | 383.73 | 300.71 | 245.16 | 240.30
54 | 417.48 | 246.95 | 304.48 | 243.57 | 389.70 | 305.20 | 248.73 | 243.77
55 | 424.09 | 250.31 | 308.76 | 246.94 | 395.66 | 309.68 | 252.30 | 247.23
56 | 430.70 | 253.67 | 313.03 | 250.31 | 401.63 | 314.17 | 255.86 | 250.71
57 | 437.31 | 257.03 | 317.31 | 253.67 | 407.61 | 318.66 | 259.42 | 254.18
58 | 443.92 | 260.38 | 321.59 | 257.05 | 413.57 | 323.16 | 262.99 | 257.65
59 | 450.52 | 263.74 | 325.86 | 260.42 | 419.54 | 327.64 | 266.55 | 261.12
60 | 457.14 | 267.10 | 330.13 | 263.79 | 425.50 | 332.13 | 270.12 | 264.59
61 | 463.74 | 270.46 | 334.41 | 267.15 | 431.48 | 336.62 | 273.68 | 267.81
62 | 470.35 | 273.81 | 338.69 | 270.53 | 437.45 | 341.11 | 277.25 | 271.28
63 | 476.95 | 277.17 | 342.97 | 273.90 | 443.41 | 345.60 | 280.81 | 274.74
64 | 483.57 | 280.54 | 347.24 | 277.27 | 449.38 | 350.09 | 284.38 | 278.21
65 | 490.18 | 283.89 | 351.51 | 280.64 | 455.36 | 354.58 | 287.94 | 281.68
66 | 496.78 | 287.24 | 355.79 | 284.01 | 461.32 | 359.07 | 291.51 | 285.15
67 |  |  |  |  |  |  |  |
68 |  |  |  |  |  |  |  |
69 |  |  |  |  |  |  |  |
70 |  |  |  |  |  |  |  |

* * *

2315 Outbound Priority Mail International

* * *

2315.6 Prices

Priority Mail International Flat Rate Retail Prices
| Country price group: 1 ($) | Country price group: 2 ($) | Country price group: 3 ($) | Country price group: 4 ($) | Country price group: 5 ($) | Country price group: 6 ($) | Country price group: 7 ($) | Country price group: 8 ($)
Flat Rate Envelopes | 26.90 | 33.75 | 35.35 | 37.45 | 36.45 | 38.60 | 36.45 | 37.45
Small Flat Rate Boxes | 27.90 | 35.35 | 36.45 | 38.60 | 37.45 | 39.60 | 37.45 | 38.60
Medium Flat Rate Boxes | 51.55 | 75.95 | 77.50 | 75.35 | 79.65 | 86.40 | 78.60 | 81.75
Large Flat Rate Boxes | 67.05 | 99.10 | 101.20 | 99.10 | 103.35 | 109.15 | 102.35 | 107.05

Priority Mail International Flat Rate Commercial Base Prices
| Country price group: 1 ($) | Country price group: 2 ($) | Country price group: 3 ($) | Country price group: 4 ($) | Country price group: 5 ($) | Country price group: 6 ($) | Country price group: 7 ($) | Country price group: 8 ($)
Flat Rate Envelopes | 25.55 | 32.05 | 33.60 | 35.60 | 34.65 | 36.65 | 34.65 | 35.60
Small Flat Rate Boxes | 26.50 | 33.60 | 34.65 | 36.65 | 35.60 | 37.60 | 35.60 | 36.65
Medium Flat Rate Boxes | 48.95 | 72.15 | 73.65 | 71.60 | 75.65 | 82.10 | 74.65 | 77.65
Large Flat Rate Boxes | 63.70 | 94.15 | 96.15 | 94.15 | 98.20 | 103.70 | 97.25 | 101.70

Priority Mail International Flat Rate Commercial Plus Prices
| Country price group: 1 ($) | Country price group: 2 ($) | Country price group: 3 ($) | Country price group: 4 ($) | Country price group: 5 ($) | Country price group: 6 ($) | Country price group: 7 ($) | Country price group: 8 ($)
Flat Rate Envelopes | 25.55 | 32.05 | 33.60 | 35.60 | 34.65 | 36.65 | 34.65 | 35.60
Small Flat Rate Boxes | 26.50 | 33.60 | 34.65 | 36.65 | 35.60 | 37.60 | 35.60 | 36.65
Medium Flat Rate Boxes | 48.95 | 72.15 | 73.65 | 71.60 | 75.65 | 82.10 | 74.65 | 77.65
Large Flat Rate Boxes | 63.70 | 94.15 | 96.15 | 94.15 | 98.20 | 103.70 | 97.25 | 101.70

Priority Mail International Parcels Retail Prices
Maximum weight (pounds) | Country price group ¹: Origin Zone 1.1 &1.2 ($) | Country price group ¹: Origin Zone 1.3 ($) | Country price group ¹: Origin Zone 1.4 ($) | Country price group ¹: Origin Zone 1.5 ($) | Country price group ¹: Origin Zone 1.6 ($) | Country price group ¹: Origin Zone 1.7 ($) | Country price group ¹: Origin Zone 1.8 ($)
1 | 36.35 | 37.40 | 40.15 | 41.50 | 42.85 | 43.50 | 44.00
2 | 39.30 | 40.55 | 43.25 | 44.80 | 46.30 | 46.85 | 47.45
3 | 42.20 | 43.70 | 46.35 | 48.10 | 49.80 | 50.15 | 50.85
4 | 45.10 | 46.90 | 49.50 | 51.45 | 53.40 | 53.45 | 54.30
5 | 48.00 | 50.15 | 52.60 | 54.85 | 56.85 | 56.80 | 57.70
6 | 50.90 | 53.20 | 55.80 | 58.15 | 60.00 | 60.30 | 61.55
7 | 53.85 | 56.20 | 59.15 | 61.50 | 63.20 | 63.75 | 65.30
8 | 56.85 | 59.20 | 62.35 | 64.80 | 66.35 | 67.15 | 69.00
9 | 59.75 | 62.20 | 65.55 | 68.15 | 69.50 | 70.55 | 72.75
10 | 62.65 | 65.25 | 68.80 | 71.45 | 72.65 | 74.00 | 76.60
11 | 65.50 | 68.25 | 71.80 | 74.75 | 76.15 | 77.75 | 80.30
12 | 68.30 | 71.25 | 74.80 | 78.10 | 79.60 | 81.45 | 84.05
13 | 71.10 | 74.25 | 77.85 | 81.40 | 83.10 | 85.20 | 87.75
14 | 73.90 | 77.30 | 80.85 | 84.70 | 86.55 | 89.05 | 91.50
15 | 76.70 | 80.30 | 83.85 | 88.05 | 90.05 | 92.75 | 95.20
16 | 79.50 | 83.30 | 86.85 | 91.35 | 93.60 | 96.50 | 98.95
17 | 82.35 | 86.30 | 89.90 | 94.70 | 97.10 | 100.25 | 102.65
18 | 85.15 | 89.00 | 92.90 | 98.00 | 100.55 | 104.10 | 106.40
19 | 87.95 | 91.70 | 95.90 | 101.30 | 104.05 | 107.80 | 110.10
20 | 90.85 | 94.40 | 99.00 | 104.75 | 107.50 | 111.55 | 113.85
21 | 93.65 | 97.10 | 102.05 | 108.05 | 111.00 | 115.30 | 117.55
22 | 96.50 | 99.80 | 105.05 | 111.35 | 114.45 | 119.15 | 121.30
23 | 99.30 | 102.50 | 108.05 | 114.70 | 118.05 | 122.85 | 125.05
24 | 102.75 | 105.20 | 111.05 | 118.00 | 121.20 | 126.60 | 128.75
25 | 104.95 | 107.90 | 114.10 | 121.35 | 124.25 | 130.35 | 132.50

Maximum weight (pounds) | Country price group: 2 ($) | Country price group: 3 ($) | Country price group: 4 ($) | Country price group: 5 ($) | Country price group: 6 ($) | Country price group: 7 ($) | Country price group: 8 ($) | Country price group: 9 ($)
1 | 44.50 | 48.35 | 54.75 | 50.90 | 52.45 | 54.60 | 49.40 | 47.15
2 | 48.45 | 54.15 | 60.55 | 54.65 | 57.25 | 61.05 | 54.25 | 52.25
3 | 52.40 | 59.85 | 66.45 | 58.30 | 61.90 | 67.45 | 59.10 | 57.30
4 | 56.35 | 65.55 | 72.25 | 61.95 | 66.55 | 73.85 | 64.00 | 62.50
5 | 60.30 | 71.25 | 78.05 | 65.60 | 71.25 | 80.40 | 68.95 | 67.60
6 | 63.20 | 74.90 | 83.45 | 68.55 | 75.20 | 86.80 | 73.10 | 71.55
7 | 66.25 | 78.55 | 88.85 | 71.45 | 79.15 | 93.25 | 77.25 | 75.50
8 | 69.15 | 82.15 | 94.20 | 74.35 | 83.05 | 99.65 | 81.40 | 79.45
9 | 72.10 | 85.80 | 99.70 | 77.30 | 87.00 | 106.20 | 85.60 | 83.50
10 | 75.00 | 89.45 | 105.10 | 80.20 | 90.95 | 112.60 | 89.75 | 87.50
11 | 77.65 | 93.10 | 110.50 | 83.25 | 95.50 | 119.10 | 94.20 | 91.10
12 | 80.25 | 96.85 | 115.90 | 86.25 | 100.10 | 125.60 | 98.65 | 94.75
13 | 82.90 | 100.50 | 121.30 | 89.30 | 104.65 | 132.10 | 103.15 | 98.40
14 | 85.50 | 104.15 | 126.65 | 92.30 | 109.25 | 138.65 | 107.70 | 102.05
15 | 88.10 | 107.75 | 132.15 | 95.35 | 113.90 | 145.15 | 112.20 | 105.70
16 | 90.75 | 111.40 | 137.55 | 98.35 | 118.50 | 151.65 | 116.65 | 109.25
17 | 93.35 | 115.05 | 142.95 | 101.40 | 123.05 | 158.15 | 121.10 | 112.75
18 | 95.95 | 118.70 | 148.35 | 104.40 | 127.60 | 164.70 | 125.60 | 116.30
19 | 98.70 | 122.35 | 153.70 | 107.55 | 132.20 | 171.20 | 130.15 | 119.85
20 | 101.30 | 126.00 | 159.10 | 110.60 | 136.75 | 177.70 | 134.65 | 123.40
21 | 103.95 | 129.60 | 164.60 | 113.60 | 141.45 | 184.20 | 139.10 | 126.90
22 | 106.55 | 133.25 | 170.00 | 116.65 | 146.00 | 190.75 | 143.55 | 130.45
23 | 109.15 | 136.90 | 175.40 | 119.65 | 150.60 | 197.25 | 148.05 | 134.10
24 | 111.80 | 140.55 | 180.80 | 122.70 | 155.15 | 203.85 | 152.60 | 137.65
25 | 114.40 | 144.20 | 186.15 | 125.70 | 159.75 | 210.35 | 157.10 | 141.20

Maximum weight (pounds) | Country price group: 10 ($) | Country price group: 11 ($) | Country price group: 12 ($) | Country price group: 13 ($) | Country price group: 14 ($) | Country price group: 15 ($) | Country price group: 16 ($) | Country price group: 17 ($)
1 | 54.10 | 56.15 | 55.00 | 46.10 | 53.45 | 49.20 | 46.90 | 45.35
2 | 59.10 | 61.15 | 58.95 | 50.60 | 58.65 | 53.30 | 50.95 | 49.80
3 | 64.05 | 66.10 | 63.05 | 55.20 | 63.80 | 57.40 | 55.15 | 54.30
4 | 69.05 | 71.10 | 67.00 | 59.65 | 69.00 | 61.50 | 59.20 | 58.75
5 | 74.00 | 76.10 | 70.95 | 64.15 | 74.30 | 65.60 | 63.25 | 63.35
6 | 79.70 | 79.50 | 74.25 | 67.90 | 78.35 | 69.85 | 67.10 | 66.35
7 | 85.40 | 82.95 | 77.60 | 71.55 | 82.40 | 73.95 | 70.95 | 69.40
8 | 91.10 | 86.35 | 80.95 | 75.20 | 86.45 | 78.05 | 74.90 | 72.40
9 | 96.80 | 89.80 | 84.30 | 78.85 | 90.55 | 82.15 | 78.80 | 75.45
10 | 102.60 | 93.20 | 87.60 | 82.60 | 94.70 | 86.25 | 82.65 | 78.50
11 | 108.20 | 96.65 | 91.05 | 85.20 | 98.75 | 90.85 | 84.75 | 81.30
12 | 113.80 | 100.10 | 94.40 | 87.90 | 102.80 | 95.40 | 86.85 | 84.10
13 | 119.35 | 103.55 | 97.70 | 90.60 | 106.90 | 100.10 | 88.90 | 86.95
14 | 124.95 | 106.95 | 101.05 | 93.35 | 111.05 | 104.65 | 91.00 | 89.90
15 | 130.55 | 110.40 | 104.40 | 96.05 | 115.10 | 109.20 | 93.10 | 92.70
16 | 136.25 | 113.85 | 107.75 | 98.75 | 118.75 | 113.80 | 95.20 | 95.50
17 | 141.85 | 117.30 | 111.05 | 101.45 | 122.40 | 118.35 | 97.30 | 98.35
18 | 147.45 | 120.70 | 114.40 | 104.20 | 126.05 | 123.05 | 99.40 | 101.15
19 | 153.05 | 124.15 | 117.75 | 106.90 | 129.65 | 127.60 | 101.50 | 104.00
20 | 158.65 | 127.70 | 121.05 | 109.60 | 133.30 | 132.20 | 103.50 | 106.80
21 | 164.25 | 131.15 | 124.40 | 112.20 | 136.95 | 136.75 | 105.60 | 109.65
22 | 169.95 | 134.55 | 127.75 | 114.95 | 140.60 | 141.35 | 107.70 | 112.45
23 | 175.55 | 138.00 | 131.05 | 117.65 | 144.25 | 146.00 | 109.80 | 115.30
24 | 181.10 | 141.45 | 134.40 | 120.35 | 147.90 | 150.60 | 111.90 | 118.10
25 | 186.70 | 144.90 | 137.75 | 123.05 | 151.50 | 155.15 | 114.00 | 120.95

Maximum weight (pounds) | Country price group ¹: Origin Zone 1.1 &1.2 ($) | Country price group ¹: Origin Zone 1.3 ($) | Country price group ¹: Origin Zone 1.4 ($) | Country price group ¹: Origin Zone 1.5 ($) | Country price group ¹: Origin Zone 1.6 ($) | Country price group ¹: Origin Zone 1.7 ($) | Country price group ¹: Origin Zone 1.8 ($)
26 | 107.10 | 110.60 | 117.10 | 124.55 | 127.45 | 133.65 | 136.30
27 | 109.30 | 113.30 | 120.10 | 127.75 | 130.60 | 136.95 | 140.05
28 | 111.50 | 116.00 | 123.15 | 131.00 | 133.75 | 140.25 | 143.75
29 | 113.70 | 118.70 | 126.15 | 134.20 | 136.90 | 143.55 | 147.50
30 | 115.85 | 121.40 | 129.15 | 137.40 | 140.05 | 146.85 | 151.20
31 | 118.05 | 124.10 | 132.15 | 140.65 | 143.25 | 150.05 | 154.95
32 | 120.25 | 126.80 | 135.20 | 143.85 | 146.40 | 153.40 | 158.65
33 | 122.45 | 129.50 | 138.20 | 147.05 | 149.55 | 156.70 | 162.40
34 | 124.65 | 132.20 | 141.30 | 150.30 | 152.70 | 160.00 | 166.10
35 | 126.80 | 134.90 | 144.30 | 153.60 | 155.90 | 163.30 | 169.85
36 | 129.00 | 137.50 | 147.35 | 156.80 | 159.05 | 166.60 | 173.55
37 | 131.20 | 140.20 | 150.35 | 160.05 | 162.20 | 169.95 | 177.30
38 | 133.30 | 142.90 | 153.35 | 163.25 | 165.35 | 173.25 | 181.00
39 | 135.50 | 145.65 | 156.35 | 166.45 | 168.55 | 176.55 | 184.75
40 | 137.65 | 148.35 | 159.40 | 169.70 | 171.70 | 179.85 | 188.45
41 | 139.85 | 151.05 | 162.40 | 172.90 | 174.85 | 183.20 | 192.20
42 | 142.05 | 153.75 | 165.40 | 176.10 | 178.00 | 186.50 | 195.90
43 | 144.25 | 156.45 | 168.40 | 179.35 | 181.20 | 189.70 | 199.75
44 | 146.45 | 159.15 | 171.45 | 182.55 | 184.35 | 193.00 | 203.50
45 | 148.65 | 161.85 | 174.45 | 185.75 | 187.50 | 196.30 | 207.20
46 | 150.80 | 164.55 | 177.45 | 189.00 | 190.65 | 199.65 | 210.95
47 | 153.00 | 167.25 | 180.60 | 192.20 | 193.85 | 202.95 | 214.65
48 | 155.20 | 169.95 | 183.60 | 195.40 | 197.00 | 206.25 | 218.40
49 | 157.40 | 172.65 | 186.60 | 198.75 | 200.15 | 209.55 | 222.10
50 | 159.60 | 175.35 | 189.60 | 201.95 | 203.30 | 212.90 | 225.85

Maximum weight (pounds) | Country price group: 2 ($) | Country price group: 3 ($) | Country price group: 4 ($) | Country price group: 5 ($) | Country price group: 6 ($) | Country price group: 7 ($) | Country price group: 8 ($) | Country price group: 9 ($)
26 | 117.00 | 147.85 | 191.55 | 128.75 | 164.40 | 216.90 | 161.55 | 144.70
27 | 119.65 | 151.45 | 197.05 | 131.80 | 168.95 | 223.40 | 166.00 | 148.25
28 | 122.25 | 155.10 | 202.45 | 134.80 | 173.55 | 229.90 | 170.50 | 151.80
29 | 124.85 | 158.85 | 207.85 | 137.85 | 178.10 | 236.40 | 175.05 | 155.35
30 | 127.50 | 162.50 | 213.20 | 140.85 | 182.70 | 242.95 | 179.55 | 158.90
31 | 130.20 | 166.15 | 218.60 | 143.90 | 187.35 | 249.45 | 184.00 | 162.40
32 | 132.85 | 169.80 | 224.10 | 147.00 | 191.95 | 255.95 | 188.45 | 165.95
33 | 135.45 | 173.40 | 229.50 | 150.05 | 196.50 | 262.45 | 192.95 | 169.50
34 | 138.05 | 177.05 | 234.90 | 153.05 | 201.10 | 269.00 | 197.50 | 173.05
35 | 140.70 | 180.70 | 240.30 | 156.10 | 205.65 | 275.50 | 202.00 | 176.60
36 | 143.30 | 184.35 | 245.65 | 159.15 | 210.35 | 282.00 | 206.45 | 180.10
37 | 145.90 | 188.00 | 251.05 | 162.15 | 214.90 | 288.50 | 210.90 | 183.65
38 | 148.55 | 191.65 | 256.55 | 165.20 | 219.45 | 295.05 | 215.40 | 187.20
39 | 151.15 | 195.30 | 261.95 | 168.20 | 224.05 | 301.65 | 219.95 | 190.85
40 | 153.80 | 198.90 | 267.35 | 171.25 | 228.60 | 308.15 | 224.45 | 194.40
41 | 156.40 | 202.55 | 272.70 | 174.25 | 233.30 | 314.65 | 228.90 | 197.90
42 | 159.10 | 206.20 | 278.10 | 177.30 | 237.85 | 321.20 | 233.35 | 201.45
43 | 161.75 | 209.85 | 283.50 | 180.30 | 242.45 | 327.70 | 237.85 | 205.00
44 | 164.35 | 213.50 | 289.00 | 183.35 | 247.00 | 334.20 | 242.40 | 208.55
45 | 166.95 | 217.15 | 294.40 | 186.40 | 251.60 | 340.70 | 246.90 | 212.10
46 | 169.60 | 220.85 | 299.80 | 189.50 | 256.25 | 347.25 | 251.35 | 215.60
47 | 172.20 | 224.50 | 305.15 | 192.55 | 260.85 | 353.75 | 255.80 | 219.15
48 | 174.85 | 228.15 | 310.55 | 195.55 | 265.40 | 360.25 | 260.30 | 222.70
49 | 177.45 | 231.80 | 315.95 | 198.60 | 269.95 | 366.75 | 264.85 | 226.25
50 | 180.05 | 235.45 | 321.45 | 201.60 | 274.55 | 373.30 | 269.35 | 229.75

Maximum weight (pounds) | Country price group: 10 ($) | Country price group: 11 ($) | Country price group: 12 ($) | Country price group: 13 ($) | Country price group: 14 ($) | Country price group: 15 ($) | Country price group: 16 ($) | Country price group: 17 ($)
26 | 192.30 | 148.30 | 141.20 | 125.80 | 155.15 | 159.70 | 116.10 | 123.85
27 | 197.90 | 151.75 | 144.50 | 128.50 | 158.80 | 164.30 | 118.20 | 126.70
28 | 203.60 | 155.20 | 147.85 | 131.20 | 162.45 | 168.95 | 120.30 | 129.50
29 | 209.20 | 158.65 | 151.20 | 133.90 | 166.20 | 173.55 | 122.40 | 132.30
30 | 214.80 | 162.05 | 154.50 | 136.65 | 169.85 | 178.10 | 124.50 | 135.15
31 | 220.40 | 165.50 | 157.85 | 139.35 | 173.45 | 182.70 | 126.60 | 137.95
32 | 226.00 | 168.95 | 161.20 | 142.05 | 177.10 | 187.25 | 128.70 | 140.80
33 | 231.60 | 172.40 | 164.50 | 144.80 | 180.75 | 191.95 | 130.80 | 143.60
34 | 237.30 | 175.80 | 167.85 | 147.50 | 184.40 | 196.50 | 132.90 | 146.45
35 | 242.85 | 179.35 | 171.20 | 150.20 | 188.05 | 201.05 | 135.00 | 149.25
36 | 248.45 | 182.80 | 174.50 | 152.90 | 191.70 | 205.65 | 137.10 | 152.10
37 | 254.05 | 186.25 | 177.85 | 155.65 | 195.30 | 210.20 | 139.20 | 154.90
38 | 259.65 | 189.65 | 181.20 | 158.35 | 198.95 | 214.90 | 141.30 | 157.85
39 | 265.25 | 193.10 | 184.55 | 161.05 | 202.60 | 219.45 | 143.40 | 160.65
40 | 270.95 | 196.55 | 187.85 | 163.80 | 206.25 | 224.05 | 145.50 | 163.50
41 | 276.55 | 200.20 | 191.30 | 166.50 | 209.90 | 228.60 | 147.60 | 166.30
42 | 282.15 | 203.85 | 194.65 | 169.20 | 213.55 | 233.30 | 149.70 | 169.15
43 | 287.75 | 207.50 | 197.95 | 171.90 | 217.15 | 237.85 | 151.80 | 171.95
44 | 293.35 | 211.25 | 201.30 | 174.65 | 220.80 | 242.45 | 153.90 | 174.75
45 | 298.90 | 214.90 | 204.65 | 177.35 | 224.45 | 247.00 | 156.00 | 177.60
46 | 304.60 | 218.55 | 207.95 | 179.95 | 228.10 | 251.55 | 158.10 | 180.40
47 | 310.20 | 222.20 | 211.30 | 182.70 | 231.85 | 256.25 | 160.20 | 183.25
48 | 315.80 | 225.95 | 214.65 | 185.40 | 235.50 | 260.80 | 162.30 | 186.05
49 | 321.40 | 229.60 | 218.00 | 188.10 | 239.15 | 265.40 | 164.30 | 188.90
50 | 327.00 | 233.25 | 221.30 | 190.80 | 242.75 | 269.95 | 166.40 | 191.70

Maximum weight (pounds) | Country price group ¹: Origin Zone 1.1 &1.2 ($) | Country price group ¹: Origin Zone 1.3 ($) | Country price group ¹: Origin Zone 1.4 ($) | Country price group ¹: Origin Zone 1.5 ($) | Country price group ¹: Origin Zone 1.6 ($) | Country price group ¹: Origin Zone 1.7 ($) | Country price group ¹: Origin Zone 1.8 ($)
51 | 161.80 | 178.05 | 192.65 | 204.95 | 206.45 | 216.20 | 229.55
52 | 163.95 | 180.75 | 195.65 | 207.95 | 209.65 | 219.50 | 233.30
53 | 166.15 | 183.45 | 198.65 | 211.00 | 212.80 | 222.80 | 237.00
54 | 168.35 | 186.15 | 201.65 | 214.00 | 215.95 | 226.15 | 240.75
55 | 170.55 | 188.85 | 204.70 | 217.00 | 219.10 | 229.45 | 244.45
56 | 172.75 | 191.55 | 207.70 | 220.05 | 222.30 | 232.75 | 248.20
57 | 174.95 | 194.25 | 210.70 | 223.05 | 225.45 | 236.05 | 251.90
58 | 177.10 | 196.95 | 213.70 | 226.05 | 228.70 | 239.40 | 255.65
59 | 179.30 | 199.65 | 216.75 | 229.05 | 231.90 | 242.70 | 259.35
60 | 181.50 | 202.35 | 219.85 | 232.10 | 235.05 | 246.00 | 263.10
61 | 183.70 | 205.05 | 222.85 | 235.10 | 238.20 | 249.30 | 266.90
62 | 185.90 | 207.75 | 225.85 | 238.20 | 241.35 | 252.65 | 270.65
63 | 188.10 | 210.45 | 228.90 | 241.20 | 244.55 | 255.85 | 274.35
64 | 190.25 | 213.20 | 231.90 | 244.25 | 247.70 | 259.15 | 278.10
65 | 192.45 | 215.90 | 234.90 | 247.25 | 250.85 | 262.45 | 281.85
66 | 194.65 | 218.60 | 237.95 | 250.25 | 254.00 | 265.80 | 285.55
67 |  |  |  |  |  |  |
68 |  |  |  |  |  |  |
69 |  |  |  |  |  |  |
70 |  |  |  |  |  |  |

Maximum weight (pounds) | Country price group: 2 ($) | Country price group: 3 ($) | Country price group: 4 ($) | Country price group: 5 ($) | Country price group: 6 ($) | Country price group: 7 ($) | Country price group: 8 ($) | Country price group: 9 ($)
51 | 182.70 | 239.10 | 326.85 | 204.65 | 279.20 | 379.80 | 273.80 | 233.30
52 | 185.30 | 242.70 | 332.20 | 207.70 | 283.80 | 386.30 | 278.30 | 236.85
53 | 188.05 | 246.35 | 337.60 | 210.70 | 288.35 | 392.90 | 282.85 | 240.40
54 | 190.65 | 250.00 | 343.00 | 213.75 | 292.95 | 399.45 | 287.30 | 243.95
55 | 193.25 | 253.65 | 348.40 | 216.75 | 297.60 | 405.95 | 291.80 | 247.60
56 | 195.90 | 257.30 | 353.90 | 219.80 | 302.20 | 412.45 | 296.25 | 251.10
57 | 198.50 | 260.95 | 359.30 | 222.80 | 306.75 | 418.95 | 300.75 | 254.65
58 | 201.10 | 264.55 | 364.65 | 225.85 | 311.30 | 425.50 | 305.30 | 258.20
59 | 203.75 | 268.20 | 370.05 | 228.95 | 315.90 | 432.00 | 309.75 | 261.75
60 | 206.35 | 271.85 | 375.45 | 232.00 | 320.55 | 438.50 | 314.25 | 265.25
61 | 208.95 | 275.50 | 380.95 | 235.05 | 325.15 | 445.00 | 318.70 | 268.80
62 | 211.60 | 279.25 | 386.35 | 238.05 | 329.70 | 451.55 | 323.20 | 272.35
63 | 214.20 | 282.90 | 391.70 | 241.10 | 334.30 | 458.05 | 327.75 | 275.90
64 | 216.95 | 286.55 | 397.10 | 244.10 | 338.85 | 464.55 | 332.25 | 279.45
65 | 219.55 | 290.15 | 402.50 | 247.15 | 343.55 | 471.05 | 336.70 | 282.95
66 | 222.15 | 293.80 | 407.90 | 250.15 | 348.10 | 477.60 | 341.15 | 286.50
67 | 224.80 | 297.45 | 413.40 | 253.20 | 352.70 | 484.20 | 345.65 | 290.05
68 | 227.40 | 301.10 | 418.80 | 256.20 | 357.25 | 490.70 | 350.20 | 293.60
69 | 230.00 | 304.75 | 424.15 | 259.25 | 361.80 | 497.25 | 354.70 | 297.15
70 | 232.65 | 308.40 | 429.55 | 262.30 | 366.50 | 503.75 | 359.15 | 300.65

Maximum weight (pounds) | Country price group: 10 ($) | Country price group: 11 ($) | Country price group: 12 ($) | Country price group: 13 ($) | Country price group: 14 ($) | Country price group: 15 ($) | Country price group: 16 ($) | Country price group: 17 ($)
51 | 332.60 | 236.90 | 224.65 | 193.55 | 246.40 | 274.55 | 168.50 | 194.65
52 | 338.20 | 240.55 | 228.00 | 196.25 | 250.05 | 279.20 | 170.60 | 197.45
53 | 343.90 | 244.30 | 231.30 | 198.95 | 253.70 | 283.80 | 172.70 | 200.30
54 | 349.50 | 247.95 | 234.65 | 201.70 | 257.35 | 288.35 | 174.80 | 203.10
55 | 355.10 | 251.60 | 238.00 | 204.40 | 261.00 | 292.95 | 176.90 | 205.95
56 | 360.65 | 255.25 | 241.45 | 207.10 | 264.60 | 297.50 | 179.00 | 208.75
57 | 366.25 | 259.00 | 244.75 | 209.85 | 268.25 | 302.20 | 181.10 | 211.60
58 | 371.85 | 262.65 | 248.10 | 212.55 | 271.90 | 306.75 | 183.20 | 214.40
59 | 377.55 | 266.30 | 251.45 | 215.25 | 275.55 | 311.30 | 185.30 | 217.20
60 | 383.15 | 269.95 | 254.75 | 218.00 | 279.20 | 315.90 | 187.40 | 220.05
61 | 388.75 | 273.60 | 258.10 | 220.70 | 282.85 | 320.45 | 189.50 | 222.85
62 | 394.35 | 277.35 | 261.45 | 223.40 | 286.45 | 325.15 | 191.60 | 225.70
63 | 399.95 | 281.00 | 264.75 | 226.10 | 290.10 | 329.70 | 193.70 | 228.60
64 | 405.55 | 284.65 | 268.10 | 228.85 | 293.85 | 334.30 | 195.80 | 231.45
65 | 411.25 | 288.30 | 271.45 | 231.55 | 297.50 | 338.85 | 197.90 | 234.25
66 | 416.85 | 292.10 | 274.75 | 234.25 | 301.15 | 343.45 | 200.00 | 237.10
67 |  |  |  |  |  |  | 202.10
68 |  |  |  |  |  |  | 204.20
69 |  |  |  |  |  |  | 206.30
70 |  |  |  |  |  |  | 208.40
Notes:
¹ The applicable Origin Zone for pieces destined to Canada is based on the applicable zone from the origin point to the serving International Service Center (ISC). In future releases, distance to and within Canada could be considered for application of the appropriate Origin Zone group.

Priority Mail International Parcels Commercial Base Prices
Maximum weight (pounds) | Country price group ¹: Origin Zone 1.1 & 1.2 ($) | Country price group ¹: Origin Zone 1.3 ($) | Country price group ¹: Origin Zone 1.4 ($) | Country price group ¹: Origin Zone 1.5 ($) | Country price group ¹: Origin Zone 1.6 ($) | Country price group ¹: Origin Zone 1.7 ($) | Country price group ¹: Origin Zone 1.8 ($)
1 | 34.53 | 35.53 | 38.14 | 39.43 | 40.71 | 41.33 | 41.80
2 | 37.34 | 38.52 | 41.09 | 42.56 | 43.99 | 44.51 | 45.08
3 | 40.09 | 41.52 | 44.03 | 45.70 | 47.31 | 47.64 | 48.31
4 | 42.85 | 44.56 | 47.03 | 48.88 | 50.73 | 50.78 | 51.59
5 | 45.60 | 47.64 | 49.97 | 52.11 | 54.01 | 53.96 | 54.82
6 | 48.36 | 50.54 | 53.01 | 55.24 | 57.00 | 57.29 | 58.47
7 | 51.16 | 53.39 | 56.19 | 58.43 | 60.04 | 60.56 | 62.04
8 | 54.01 | 56.24 | 59.23 | 61.56 | 63.03 | 63.79 | 65.55
9 | 56.76 | 59.09 | 62.27 | 64.74 | 66.03 | 67.02 | 69.11
10 | 59.52 | 61.99 | 65.36 | 67.88 | 69.02 | 70.30 | 72.77
11 | 62.23 | 64.84 | 68.21 | 71.01 | 72.34 | 73.86 | 76.29
12 | 64.89 | 67.69 | 71.06 | 74.20 | 75.62 | 77.38 | 79.85
13 | 67.55 | 70.54 | 73.96 | 77.33 | 78.95 | 80.94 | 83.36
14 | 70.21 | 73.44 | 76.81 | 80.47 | 82.22 | 84.60 | 86.93
15 | 72.87 | 76.29 | 79.66 | 83.65 | 85.55 | 88.11 | 90.44
16 | 75.53 | 79.14 | 82.51 | 86.78 | 88.92 | 91.68 | 94.00
17 | 78.23 | 81.99 | 85.41 | 89.97 | 92.25 | 95.24 | 97.52
18 | 80.89 | 84.55 | 88.26 | 93.10 | 95.52 | 98.90 | 101.08
19 | 83.55 | 87.12 | 91.11 | 96.24 | 98.85 | 102.41 | 104.60
20 | 86.31 | 89.68 | 94.05 | 99.51 | 102.13 | 105.97 | 108.16
21 | 88.97 | 92.25 | 96.95 | 102.65 | 105.45 | 109.54 | 111.67
22 | 91.68 | 94.81 | 99.80 | 105.78 | 108.73 | 113.19 | 115.24
23 | 94.34 | 97.38 | 102.65 | 108.97 | 112.15 | 116.71 | 118.80
24 | 97.61 | 99.94 | 105.50 | 112.10 | 115.14 | 120.27 | 122.31
25 | 99.70 | 102.51 | 108.40 | 115.28 | 118.04 | 123.83 | 125.88

Maximum weight (pounds) | Country price group: 2 ($) | Country price group: 3 ($) | Country price group: 4 ($) | Country price group: 5 ($) | Country price group: 6 ($) | Country price group: 7 ($) | Country price group: 8 ($) | Country price group: 9 ($)
1 | 42.28 | 45.93 | 52.01 | 48.36 | 49.83 | 51.87 | 46.93 | 44.79
2 | 46.03 | 51.44 | 57.52 | 51.92 | 54.39 | 58.00 | 51.54 | 49.64
3 | 49.78 | 56.86 | 63.13 | 55.39 | 58.81 | 64.08 | 56.15 | 54.44
4 | 53.53 | 62.27 | 68.64 | 58.85 | 63.22 | 70.16 | 60.80 | 59.38
5 | 57.29 | 67.69 | 74.15 | 62.32 | 67.69 | 76.38 | 65.50 | 64.22
6 | 60.04 | 71.16 | 79.28 | 65.12 | 71.44 | 82.46 | 69.45 | 67.97
7 | 62.94 | 74.62 | 84.41 | 67.88 | 75.19 | 88.59 | 73.39 | 71.73
8 | 65.69 | 78.04 | 89.49 | 70.63 | 78.90 | 94.67 | 77.33 | 75.48
9 | 68.50 | 81.51 | 94.72 | 73.44 | 82.65 | 100.89 | 81.32 | 79.33
10 | 71.25 | 84.98 | 99.85 | 76.19 | 86.40 | 106.97 | 85.26 | 83.13
11 | 73.77 | 88.45 | 104.98 | 79.09 | 90.73 | 113.15 | 89.49 | 86.55
12 | 76.24 | 92.01 | 110.11 | 81.94 | 95.10 | 119.32 | 93.72 | 90.01
13 | 78.76 | 95.48 | 115.24 | 84.84 | 99.42 | 125.50 | 97.99 | 93.48
14 | 81.23 | 98.94 | 120.32 | 87.69 | 103.79 | 131.72 | 102.32 | 96.95
15 | 83.70 | 102.36 | 125.54 | 90.58 | 108.21 | 137.89 | 106.59 | 100.42
16 | 86.21 | 105.83 | 130.67 | 93.43 | 112.58 | 144.07 | 110.82 | 103.79
17 | 88.68 | 109.30 | 135.80 | 96.33 | 116.90 | 150.24 | 115.05 | 107.11
18 | 91.15 | 112.77 | 140.93 | 99.18 | 121.22 | 156.47 | 119.32 | 110.49
19 | 93.77 | 116.23 | 146.02 | 102.17 | 125.59 | 162.64 | 123.64 | 113.86
20 | 96.24 | 119.70 | 151.15 | 105.07 | 129.91 | 168.82 | 127.92 | 117.23
21 | 98.75 | 123.12 | 156.37 | 107.92 | 134.38 | 174.99 | 132.15 | 120.56
22 | 101.22 | 126.59 | 161.50 | 110.82 | 138.70 | 181.21 | 136.37 | 123.93
23 | 103.69 | 130.06 | 166.63 | 113.67 | 143.07 | 187.39 | 140.65 | 127.40
24 | 106.21 | 133.52 | 171.76 | 116.57 | 147.39 | 193.66 | 144.97 | 130.77
25 | 108.68 | 136.99 | 176.84 | 119.42 | 151.76 | 199.83 | 149.25 | 134.14

Maximum weight (pounds) | Country price group: 10 ($) | Country price group: 11 ($) | Country price group: 12 ($) | Country price group: 13 ($) | Country price group: 14 ($) | Country price group: 15 ($) | Country price group: 16 ($) | Country price group: 17 ($)
1 | 51.40 | 53.34 | 52.25 | 43.80 | 50.78 | 46.74 | 44.56 | 43.08
2 | 56.15 | 58.09 | 56.00 | 48.07 | 55.72 | 50.64 | 48.40 | 47.31
3 | 60.85 | 62.80 | 59.90 | 52.44 | 60.61 | 54.53 | 52.39 | 51.59
4 | 65.60 | 67.55 | 63.65 | 56.67 | 65.55 | 58.43 | 56.24 | 55.81
5 | 70.30 | 72.30 | 67.40 | 60.94 | 70.59 | 62.32 | 60.09 | 60.18
6 | 75.72 | 75.53 | 70.54 | 64.51 | 74.43 | 66.36 | 63.75 | 63.03
7 | 81.13 | 78.80 | 73.72 | 67.97 | 78.28 | 70.25 | 67.40 | 65.93
8 | 86.55 | 82.03 | 76.90 | 71.44 | 82.13 | 74.15 | 71.16 | 68.78
9 | 91.96 | 85.31 | 80.09 | 74.91 | 86.02 | 78.04 | 74.86 | 71.68
10 | 97.47 | 88.54 | 83.22 | 78.47 | 89.97 | 81.94 | 78.52 | 74.58
11 | 102.79 | 91.82 | 86.50 | 80.94 | 93.81 | 86.31 | 80.51 | 77.24
12 | 108.11 | 95.10 | 89.68 | 83.51 | 97.66 | 90.63 | 82.51 | 79.90
13 | 113.38 | 98.37 | 92.82 | 86.07 | 101.56 | 95.10 | 84.46 | 82.60
14 | 118.70 | 101.60 | 96.00 | 88.68 | 105.50 | 99.42 | 86.45 | 85.41
15 | 124.02 | 104.88 | 99.18 | 91.25 | 109.35 | 103.74 | 88.45 | 88.07
16 | 129.44 | 108.16 | 102.36 | 93.81 | 112.81 | 108.11 | 90.44 | 90.73
17 | 134.76 | 111.44 | 105.50 | 96.38 | 116.28 | 112.43 | 92.44 | 93.43
18 | 140.08 | 114.67 | 108.68 | 98.99 | 119.75 | 116.90 | 94.43 | 96.09
19 | 145.40 | 117.94 | 111.86 | 101.56 | 123.17 | 121.22 | 96.43 | 98.80
20 | 150.72 | 121.32 | 115.00 | 104.12 | 126.64 | 125.59 | 98.33 | 101.46
21 | 156.04 | 124.59 | 118.18 | 106.59 | 130.10 | 129.91 | 100.32 | 104.17
22 | 161.45 | 127.82 | 121.36 | 109.20 | 133.57 | 134.28 | 102.32 | 106.83
23 | 166.77 | 131.10 | 124.50 | 111.77 | 137.04 | 138.70 | 104.31 | 109.54
24 | 172.05 | 134.38 | 127.68 | 114.33 | 140.51 | 143.07 | 106.31 | 112.20
25 | 177.37 | 137.66 | 130.86 | 116.90 | 143.93 | 147.39 | 108.30 | 114.90

Maximum weight (pounds) | Country price group ¹: Origin Zone 1.1 & 1.2 ($) | Country price group ¹: Origin Zone 1.3 ($) | Country price group ¹: Origin Zone 1.4 ($) | Country price group ¹: Origin Zone 1.5 ($) | Country price group ¹: Origin Zone 1.6 ($) | Country price group ¹: Origin Zone 1.7 ($) | Country price group ¹: Origin Zone 1.8 ($)
26 | 101.75 | 105.07 | 111.25 | 118.32 | 121.08 | 126.97 | 129.49
27 | 103.84 | 107.64 | 114.10 | 121.36 | 124.07 | 130.10 | 133.05
28 | 105.93 | 110.20 | 116.99 | 124.45 | 127.06 | 133.24 | 136.56
29 | 108.02 | 112.77 | 119.84 | 127.49 | 130.06 | 136.37 | 140.13
30 | 110.06 | 115.33 | 122.69 | 130.53 | 133.05 | 139.51 | 143.64
31 | 112.15 | 117.90 | 125.54 | 133.62 | 136.09 | 142.55 | 147.20
32 | 114.24 | 120.46 | 128.44 | 136.66 | 139.08 | 145.73 | 150.72
33 | 116.33 | 123.03 | 131.29 | 139.70 | 142.07 | 148.87 | 154.28
34 | 118.42 | 125.59 | 134.24 | 142.79 | 145.07 | 152.00 | 157.80
35 | 120.46 | 128.16 | 137.09 | 145.92 | 148.11 | 155.14 | 161.36
36 | 122.55 | 130.63 | 139.98 | 148.96 | 151.10 | 158.27 | 164.87
37 | 124.64 | 133.19 | 142.83 | 152.05 | 154.09 | 161.45 | 168.44
38 | 126.64 | 135.76 | 145.68 | 155.09 | 157.08 | 164.59 | 171.95
39 | 128.73 | 138.37 | 148.53 | 158.13 | 160.12 | 167.72 | 175.51
40 | 130.77 | 140.93 | 151.43 | 161.22 | 163.12 | 170.86 | 179.03
41 | 132.86 | 143.50 | 154.28 | 164.26 | 166.11 | 174.04 | 182.59
42 | 134.95 | 146.06 | 157.13 | 167.30 | 169.10 | 177.18 | 186.11
43 | 137.04 | 148.63 | 159.98 | 170.38 | 172.14 | 180.22 | 189.76
44 | 139.13 | 151.19 | 162.88 | 173.42 | 175.13 | 183.35 | 193.33
45 | 141.22 | 153.76 | 165.73 | 176.46 | 178.13 | 186.49 | 196.84
46 | 143.26 | 156.32 | 168.58 | 179.55 | 181.12 | 189.67 | 200.40
47 | 145.35 | 158.89 | 171.57 | 182.59 | 184.16 | 192.80 | 203.92
48 | 147.44 | 161.45 | 174.42 | 185.63 | 187.15 | 195.94 | 207.48
49 | 149.53 | 164.02 | 177.27 | 188.81 | 190.14 | 199.07 | 211.00
50 | 151.62 | 166.58 | 180.12 | 191.85 | 193.14 | 202.26 | 214.56

Maximum weight (pounds) | Country price group: 2 ($) | Country price group: 3 ($) | Country price group: 4 ($) | Country price group: 5 ($) | Country price group: 6 ($) | Country price group: 7 ($) | Country price group: 8 ($) | Country price group: 9 ($)
26 | 111.15 | 140.46 | 181.97 | 122.31 | 156.18 | 206.06 | 153.47 | 137.47
27 | 113.67 | 143.88 | 187.20 | 125.21 | 160.50 | 212.23 | 157.70 | 140.84
28 | 116.14 | 147.35 | 192.33 | 128.06 | 164.87 | 218.41 | 161.98 | 144.21
29 | 118.61 | 150.91 | 197.46 | 130.96 | 169.20 | 224.58 | 166.30 | 147.58
30 | 121.13 | 154.38 | 202.54 | 133.81 | 173.57 | 230.80 | 170.57 | 150.96
31 | 123.69 | 157.84 | 207.67 | 136.71 | 177.98 | 236.98 | 174.80 | 154.28
32 | 126.21 | 161.31 | 212.90 | 139.65 | 182.35 | 243.15 | 179.03 | 157.65
33 | 128.68 | 164.73 | 218.03 | 142.55 | 186.68 | 249.33 | 183.30 | 161.03
34 | 131.15 | 168.20 | 223.16 | 145.40 | 191.05 | 255.55 | 187.63 | 164.40
35 | 133.67 | 171.67 | 228.29 | 148.30 | 195.37 | 261.73 | 191.90 | 167.77
36 | 136.14 | 175.13 | 233.37 | 151.19 | 199.83 | 267.90 | 196.13 | 171.10
37 | 138.61 | 178.60 | 238.50 | 154.04 | 204.16 | 274.08 | 200.36 | 174.47
38 | 141.12 | 182.07 | 243.72 | 156.94 | 208.48 | 280.30 | 204.63 | 177.84
39 | 143.59 | 185.54 | 248.85 | 159.79 | 212.85 | 286.57 | 208.95 | 181.31
40 | 146.11 | 188.96 | 253.98 | 162.69 | 217.17 | 292.74 | 213.23 | 184.68
41 | 148.58 | 192.42 | 259.07 | 165.54 | 221.64 | 298.92 | 217.46 | 188.01
42 | 151.15 | 195.89 | 264.20 | 168.44 | 225.96 | 305.14 | 221.68 | 191.38
43 | 153.66 | 199.36 | 269.33 | 171.29 | 230.33 | 311.32 | 225.96 | 194.75
44 | 156.13 | 202.83 | 274.55 | 174.18 | 234.65 | 317.49 | 230.28 | 198.12
45 | 158.60 | 206.29 | 279.68 | 177.08 | 239.02 | 323.67 | 234.56 | 201.50
46 | 161.12 | 209.81 | 284.81 | 180.03 | 243.44 | 329.89 | 238.78 | 204.82
47 | 163.59 | 213.28 | 289.89 | 182.92 | 247.81 | 336.06 | 243.01 | 208.19
48 | 166.11 | 216.74 | 295.02 | 185.77 | 252.13 | 342.24 | 247.29 | 211.57
49 | 168.58 | 220.21 | 300.15 | 188.67 | 256.45 | 348.41 | 251.61 | 214.94
50 | 171.05 | 223.68 | 305.38 | 191.52 | 260.82 | 354.64 | 255.88 | 218.26

Maximum weight (pounds) | Country price group: 10 ($) | Country price group: 11 ($) | Country price group: 12 ($) | Country price group: 13 ($) | Country price group: 14 ($) | Country price group: 15 ($) | Country price group: 16 ($) | Country price group: 17 ($)
26 | 182.69 | 140.89 | 134.14 | 119.51 | 147.39 | 151.72 | 110.30 | 117.66
27 | 188.01 | 144.16 | 137.28 | 122.08 | 150.86 | 156.09 | 112.29 | 120.37
28 | 193.42 | 147.44 | 140.46 | 124.64 | 154.33 | 160.50 | 114.29 | 123.03
29 | 198.74 | 150.72 | 143.64 | 127.21 | 157.89 | 164.87 | 116.28 | 125.69
30 | 204.06 | 153.95 | 146.78 | 129.82 | 161.36 | 169.20 | 118.28 | 128.39
31 | 209.38 | 157.23 | 149.96 | 132.38 | 164.78 | 173.57 | 120.27 | 131.05
32 | 214.70 | 160.50 | 153.14 | 134.95 | 168.25 | 177.89 | 122.27 | 133.76
33 | 220.02 | 163.78 | 156.28 | 137.56 | 171.71 | 182.35 | 124.26 | 136.42
34 | 225.44 | 167.01 | 159.46 | 140.13 | 175.18 | 186.68 | 126.26 | 139.13
35 | 230.71 | 170.38 | 162.64 | 142.69 | 178.65 | 191.00 | 128.25 | 141.79
36 | 236.03 | 173.66 | 165.78 | 145.26 | 182.12 | 195.37 | 130.25 | 144.50
37 | 241.35 | 176.94 | 168.96 | 147.87 | 185.54 | 199.69 | 132.24 | 147.16
38 | 246.67 | 180.17 | 172.14 | 150.43 | 189.00 | 204.16 | 134.24 | 149.96
39 | 251.99 | 183.45 | 175.32 | 153.00 | 192.47 | 208.48 | 136.23 | 152.62
40 | 257.40 | 186.72 | 178.46 | 155.61 | 195.94 | 212.85 | 138.23 | 155.33
41 | 262.72 | 190.19 | 181.74 | 158.18 | 199.41 | 217.17 | 140.22 | 157.99
42 | 268.04 | 193.66 | 184.92 | 160.74 | 202.87 | 221.64 | 142.22 | 160.69
43 | 273.36 | 197.13 | 188.05 | 163.31 | 206.29 | 225.96 | 144.21 | 163.35
44 | 278.68 | 200.69 | 191.24 | 165.92 | 209.76 | 230.33 | 146.21 | 166.01
45 | 283.96 | 204.16 | 194.42 | 168.48 | 213.23 | 234.65 | 148.20 | 168.72
46 | 289.37 | 207.62 | 197.55 | 170.95 | 216.70 | 238.97 | 150.20 | 171.38
47 | 294.69 | 211.09 | 200.74 | 173.57 | 220.26 | 243.44 | 152.19 | 174.09
48 | 300.01 | 214.65 | 203.92 | 176.13 | 223.73 | 247.76 | 154.19 | 176.75
49 | 305.33 | 218.12 | 207.10 | 178.70 | 227.19 | 252.13 | 156.09 | 179.46
50 | 310.65 | 221.59 | 210.24 | 181.26 | 230.61 | 256.45 | 158.08 | 182.12

Maximum weight (pounds) | Country price group ¹: Origin Zone 1.1 & 1.2 ($) | Country price group ¹: Origin Zone 1.3 ($) | Country price group ¹: Origin Zone 1.4 ($) | Country price group ¹: Origin Zone 1.5 ($) | Country price group ¹: Origin Zone 1.6 ($) | Country price group ¹: Origin Zone 1.7 ($) | Country price group ¹: Origin Zone 1.8 ($)
51 | 153.71 | 169.15 | 183.02 | 194.70 | 196.13 | 205.39 | 218.07
52 | 155.75 | 171.71 | 185.87 | 197.55 | 199.17 | 208.53 | 221.64
53 | 157.84 | 174.28 | 188.72 | 200.45 | 202.16 | 211.66 | 225.15
54 | 159.93 | 176.84 | 191.57 | 203.30 | 205.15 | 214.84 | 228.71
55 | 162.02 | 179.41 | 194.47 | 206.15 | 208.15 | 217.98 | 232.23
56 | 164.11 | 181.97 | 197.32 | 209.05 | 211.19 | 221.11 | 235.79
57 | 166.20 | 184.54 | 200.17 | 211.90 | 214.18 | 224.25 | 239.31
58 | 168.25 | 187.10 | 203.02 | 214.75 | 217.27 | 227.43 | 242.87
59 | 170.34 | 189.67 | 205.91 | 217.60 | 220.31 | 230.57 | 246.38
60 | 172.43 | 192.23 | 208.86 | 220.50 | 223.30 | 233.70 | 249.95
61 | 174.52 | 194.80 | 211.71 | 223.35 | 226.29 | 236.84 | 253.56
62 | 176.61 | 197.36 | 214.56 | 226.29 | 229.28 | 240.02 | 257.12
63 | 178.70 | 199.93 | 217.46 | 229.14 | 232.32 | 243.06 | 260.63
64 | 180.74 | 202.54 | 220.31 | 232.04 | 235.32 | 246.19 | 264.20
65 | 182.83 | 205.11 | 223.16 | 234.89 | 238.31 | 249.33 | 267.76
66 | 184.92 | 207.67 | 226.05 | 237.74 | 241.30 | 252.51 | 271.27
67 |  |  |  |  |  |  |
68 |  |  |  |  |  |  |
69 |  |  |  |  |  |  |
70 |  |  |  |  |  |  |

Maximum weight (pounds) | Country price group: 2 ($) | Country price group: 3 ($) | Country price group: 4 ($) | Country price group: 5 ($) | Country price group: 6 ($) | Country price group: 7 ($) | Country price group: 8 ($) | Country price group: 9 ($)
51 | 173.57 | 227.15 | 310.51 | 194.42 | 265.24 | 360.81 | 260.11 | 221.64
52 | 176.04 | 230.57 | 315.59 | 197.32 | 269.61 | 366.99 | 264.39 | 225.01
53 | 178.65 | 234.03 | 320.72 | 200.17 | 273.93 | 373.26 | 268.71 | 228.38
54 | 181.12 | 237.50 | 325.85 | 203.06 | 278.30 | 379.48 | 272.94 | 231.75
55 | 183.59 | 240.97 | 330.98 | 205.91 | 282.72 | 385.65 | 277.21 | 235.22
56 | 186.11 | 244.44 | 336.21 | 208.81 | 287.09 | 391.83 | 281.44 | 238.55
57 | 188.58 | 247.90 | 341.34 | 211.66 | 291.41 | 398.00 | 285.71 | 241.92
58 | 191.05 | 251.32 | 346.42 | 214.56 | 295.74 | 404.23 | 290.04 | 245.29
59 | 193.56 | 254.79 | 351.55 | 217.50 | 300.11 | 410.40 | 294.26 | 248.66
60 | 196.03 | 258.26 | 356.68 | 220.40 | 304.52 | 416.58 | 298.54 | 251.99
61 | 198.50 | 261.73 | 361.90 | 223.30 | 308.89 | 422.75 | 302.77 | 255.36
62 | 201.02 | 265.29 | 367.03 | 226.15 | 313.22 | 428.97 | 307.04 | 258.73
63 | 203.49 | 268.76 | 372.12 | 229.05 | 317.59 | 435.15 | 311.36 | 262.11
64 | 206.10 | 272.22 | 377.25 | 231.90 | 321.91 | 441.32 | 315.64 | 265.48
65 | 208.57 | 275.64 | 382.38 | 234.79 | 326.37 | 447.50 | 319.87 | 268.80
66 | 211.04 | 279.11 | 387.51 | 237.64 | 330.70 | 453.72 | 324.09 | 272.18
67 | 213.56 | 282.58 | 392.73 | 240.54 | 335.07 | 459.99 | 328.37 | 275.55
68 | 216.03 | 286.05 | 397.86 | 243.39 | 339.39 | 466.17 | 332.69 | 278.92
69 | 218.50 | 289.51 | 402.94 | 246.29 | 343.71 | 472.39 | 336.97 | 282.29
70 | 221.02 | 292.98 | 408.07 | 249.19 | 348.18 | 478.56 | 341.19 | 285.62

Maximum weight (pounds) | Country price group: 10 ($) | Country price group: 11 ($) | Country price group: 12 ($) | Country price group: 13 ($) | Country price group: 14 ($) | Country price group: 15 ($) | Country price group: 16 ($) | Country price group: 17 ($)
51 | 315.97 | 225.06 | 213.42 | 183.87 | 234.08 | 260.82 | 160.08 | 184.92
52 | 321.29 | 228.52 | 216.60 | 186.44 | 237.55 | 265.24 | 162.07 | 187.58
53 | 326.71 | 232.09 | 219.74 | 189.00 | 241.02 | 269.61 | 164.07 | 190.29
54 | 332.03 | 235.55 | 222.92 | 191.62 | 244.48 | 273.93 | 166.06 | 192.95
55 | 337.35 | 239.02 | 226.10 | 194.18 | 247.95 | 278.30 | 168.06 | 195.65
56 | 342.62 | 242.49 | 229.38 | 196.75 | 251.37 | 282.63 | 170.05 | 198.31
57 | 347.94 | 246.05 | 232.51 | 199.36 | 254.84 | 287.09 | 172.05 | 201.02
58 | 353.26 | 249.52 | 235.70 | 201.92 | 258.31 | 291.41 | 174.04 | 203.68
59 | 358.67 | 252.99 | 238.88 | 204.49 | 261.77 | 295.74 | 176.04 | 206.34
60 | 363.99 | 256.45 | 242.01 | 207.10 | 265.24 | 300.11 | 178.03 | 209.05
61 | 369.31 | 259.92 | 245.20 | 209.67 | 268.71 | 304.43 | 180.03 | 211.71
62 | 374.63 | 263.48 | 248.38 | 212.23 | 272.13 | 308.89 | 182.02 | 214.42
63 | 379.95 | 266.95 | 251.51 | 214.80 | 275.60 | 313.22 | 184.02 | 217.17
64 | 385.27 | 270.42 | 254.70 | 217.41 | 279.16 | 317.59 | 186.01 | 219.88
65 | 390.69 | 273.89 | 257.88 | 219.97 | 282.63 | 321.91 | 188.01 | 222.54
66 | 396.01 | 277.50 | 261.01 | 222.54 | 286.09 | 326.28 | 190.00 | 225.25
67 |  |  |  |  |  |  | 192.00 |
68 |  |  |  |  |  |  | 193.99 |
69 |  |  |  |  |  |  | 195.99 |
70 |  |  |  |  |  |  | 197.98 |
Notes:
¹ The applicable Origin Zone for pieces destined to Canada is based on the applicable zone from the origin point to the serving International Service Center (ISC). In future releases, distance to and within Canada could be considered for application of the appropriate Origin Zone group.

Priority Mail International Parcels Commercial Plus Prices
Maximum weight (pounds) | Country price group ¹: Origin Zone 1.1 &1.2 ($) | Country price group ¹: Origin Zone 1.3 ($) | Country price group ¹: Origin Zone 1.4 ($) | Country price group ¹: Origin Zone 1.5 ($) | Country price group ¹: Origin Zone 1.6 ($) | Country price group ¹: Origin Zone 1.7 ($) | Country price group ¹: Origin Zone 1.8 ($)
1 | 34.53 | 35.53 | 38.14 | 39.43 | 40.71 | 41.33 | 41.80
2 | 37.34 | 38.52 | 41.09 | 42.56 | 43.99 | 44.51 | 45.08
3 | 40.09 | 41.52 | 44.03 | 45.70 | 47.31 | 47.64 | 48.31
4 | 42.85 | 44.56 | 47.03 | 48.88 | 50.73 | 50.78 | 51.59
5 | 45.60 | 47.64 | 49.97 | 52.11 | 54.01 | 53.96 | 54.82
6 | 48.36 | 50.54 | 53.01 | 55.24 | 57.00 | 57.29 | 58.47
7 | 51.16 | 53.39 | 56.19 | 58.43 | 60.04 | 60.56 | 62.04
8 | 54.01 | 56.24 | 59.23 | 61.56 | 63.03 | 63.79 | 65.55
9 | 56.76 | 59.09 | 62.27 | 64.74 | 66.03 | 67.02 | 69.11
10 | 59.52 | 61.99 | 65.36 | 67.88 | 69.02 | 70.30 | 72.77
11 | 62.23 | 64.84 | 68.21 | 71.01 | 72.34 | 73.86 | 76.29
12 | 64.89 | 67.69 | 71.06 | 74.20 | 75.62 | 77.38 | 79.85
13 | 67.55 | 70.54 | 73.96 | 77.33 | 78.95 | 80.94 | 83.36
14 | 70.21 | 73.44 | 76.81 | 80.47 | 82.22 | 84.60 | 86.93
15 | 72.87 | 76.29 | 79.66 | 83.65 | 85.55 | 88.11 | 90.44
16 | 75.53 | 79.14 | 82.51 | 86.78 | 88.92 | 91.68 | 94.00
17 | 78.23 | 81.99 | 85.41 | 89.97 | 92.25 | 95.24 | 97.52
18 | 80.89 | 84.55 | 88.26 | 93.10 | 95.52 | 98.90 | 101.08
19 | 83.55 | 87.12 | 91.11 | 96.24 | 98.85 | 102.41 | 104.60
20 | 86.31 | 89.68 | 94.05 | 99.51 | 102.13 | 105.97 | 108.16
21 | 88.97 | 92.25 | 96.95 | 102.65 | 105.45 | 109.54 | 111.67
22 | 91.68 | 94.81 | 99.80 | 105.78 | 108.73 | 113.19 | 115.24
23 | 94.34 | 97.38 | 102.65 | 108.97 | 112.15 | 116.71 | 118.80
24 | 97.61 | 99.94 | 105.50 | 112.10 | 115.14 | 120.27 | 122.31
25 | 99.70 | 102.51 | 108.40 | 115.28 | 118.04 | 123.83 | 125.88

Maximum weight (pounds) | Country price group: 2 ($) | Country price group: 3 ($) | Country price group: 4 ($) | Country price group: 5 ($) | Country price group: 6 ($) | Country price group: 7 ($) | Country price group: 8 ($) | Country price group: 9 ($)
1 | 42.28 | 45.93 | 52.01 | 48.36 | 49.83 | 51.87 | 46.93 | 44.79
2 | 46.03 | 51.44 | 57.52 | 51.92 | 54.39 | 58.00 | 51.54 | 49.64
3 | 49.78 | 56.86 | 63.13 | 55.39 | 58.81 | 64.08 | 56.15 | 54.44
4 | 53.53 | 62.27 | 68.64 | 58.85 | 63.22 | 70.16 | 60.80 | 59.38
5 | 57.29 | 67.69 | 74.15 | 62.32 | 67.69 | 76.38 | 65.50 | 64.22
6 | 60.04 | 71.16 | 79.28 | 65.12 | 71.44 | 82.46 | 69.45 | 67.97
7 | 62.94 | 74.62 | 84.41 | 67.88 | 75.19 | 88.59 | 73.39 | 71.73
8 | 65.69 | 78.04 | 89.49 | 70.63 | 78.90 | 94.67 | 77.33 | 75.48
9 | 68.50 | 81.51 | 94.72 | 73.44 | 82.65 | 100.89 | 81.32 | 79.33
10 | 71.25 | 84.98 | 99.85 | 76.19 | 86.40 | 106.97 | 85.26 | 83.13
11 | 73.77 | 88.45 | 104.98 | 79.09 | 90.73 | 113.15 | 89.49 | 86.55
12 | 76.24 | 92.01 | 110.11 | 81.94 | 95.10 | 119.32 | 93.72 | 90.01
13 | 78.76 | 95.48 | 115.24 | 84.84 | 99.42 | 125.50 | 97.99 | 93.48
14 | 81.23 | 98.94 | 120.32 | 87.69 | 103.79 | 131.72 | 102.32 | 96.95
15 | 83.70 | 102.36 | 125.54 | 90.58 | 108.21 | 137.89 | 106.59 | 100.42
16 | 86.21 | 105.83 | 130.67 | 93.43 | 112.58 | 144.07 | 110.82 | 103.79
17 | 88.68 | 109.30 | 135.80 | 96.33 | 116.90 | 150.24 | 115.05 | 107.11
18 | 91.15 | 112.77 | 140.93 | 99.18 | 121.22 | 156.47 | 119.32 | 110.49
19 | 93.77 | 116.23 | 146.02 | 102.17 | 125.59 | 162.64 | 123.64 | 113.86
20 | 96.24 | 119.70 | 151.15 | 105.07 | 129.91 | 168.82 | 127.92 | 117.23
21 | 98.75 | 123.12 | 156.37 | 107.92 | 134.38 | 174.99 | 132.15 | 120.56
22 | 101.22 | 126.59 | 161.50 | 110.82 | 138.70 | 181.21 | 136.37 | 123.93
23 | 103.69 | 130.06 | 166.63 | 113.67 | 143.07 | 187.39 | 140.65 | 127.40
24 | 106.21 | 133.52 | 171.76 | 116.57 | 147.39 | 193.66 | 144.97 | 130.77
25 | 108.68 | 136.99 | 176.84 | 119.42 | 151.76 | 199.83 | 149.25 | 134.14

Maximum weight (pounds) | Country price group: 10 ($) | Country price group: 11 ($) | Country price group: 12 ($) | Country price group: 13 ($) | Country price group: 14 ($) | Country price group: 15 ($) | Country price group: 16 ($) | Country price group: 17 ($)
1 | 51.40 | 53.34 | 52.25 | 43.80 | 50.78 | 46.74 | 44.56 | 43.08
2 | 56.15 | 58.09 | 56.00 | 48.07 | 55.72 | 50.64 | 48.40 | 47.31
3 | 60.85 | 62.80 | 59.90 | 52.44 | 60.61 | 54.53 | 52.39 | 51.59
4 | 65.60 | 67.55 | 63.65 | 56.67 | 65.55 | 58.43 | 56.24 | 55.81
5 | 70.30 | 72.30 | 67.40 | 60.94 | 70.59 | 62.32 | 60.09 | 60.18
6 | 75.72 | 75.53 | 70.54 | 64.51 | 74.43 | 66.36 | 63.75 | 63.03
7 | 81.13 | 78.80 | 73.72 | 67.97 | 78.28 | 70.25 | 67.40 | 65.93
8 | 86.55 | 82.03 | 76.90 | 71.44 | 82.13 | 74.15 | 71.16 | 68.78
9 | 91.96 | 85.31 | 80.09 | 74.91 | 86.02 | 78.04 | 74.86 | 71.68
10 | 97.47 | 88.54 | 83.22 | 78.47 | 89.97 | 81.94 | 78.52 | 74.58
11 | 102.79 | 91.82 | 86.50 | 80.94 | 93.81 | 86.31 | 80.51 | 77.24
12 | 108.11 | 95.10 | 89.68 | 83.51 | 97.66 | 90.63 | 82.51 | 79.90
13 | 113.38 | 98.37 | 92.82 | 86.07 | 101.56 | 95.10 | 84.46 | 82.60
14 | 118.70 | 101.60 | 96.00 | 88.68 | 105.50 | 99.42 | 86.45 | 85.41
15 | 124.02 | 104.88 | 99.18 | 91.25 | 109.35 | 103.74 | 88.45 | 88.07
16 | 129.44 | 108.16 | 102.36 | 93.81 | 112.81 | 108.11 | 90.44 | 90.73
17 | 134.76 | 111.44 | 105.50 | 96.38 | 116.28 | 112.43 | 92.44 | 93.43
18 | 140.08 | 114.67 | 108.68 | 98.99 | 119.75 | 116.90 | 94.43 | 96.09
19 | 145.40 | 117.94 | 111.86 | 101.56 | 123.17 | 121.22 | 96.43 | 98.80
20 | 150.72 | 121.32 | 115.00 | 104.12 | 126.64 | 125.59 | 98.33 | 101.46
21 | 156.04 | 124.59 | 118.18 | 106.59 | 130.10 | 129.91 | 100.32 | 104.17
22 | 161.45 | 127.82 | 121.36 | 109.20 | 133.57 | 134.28 | 102.32 | 106.83
23 | 166.77 | 131.10 | 124.50 | 111.77 | 137.04 | 138.70 | 104.31 | 109.54
24 | 172.05 | 134.38 | 127.68 | 114.33 | 140.51 | 143.07 | 106.31 | 112.20
25 | 177.37 | 137.66 | 130.86 | 116.90 | 143.93 | 147.39 | 108.30 | 114.90

Maximum weight (pounds) | Country price group ¹: Origin Zone 1.1 &1.2 ($) | Country price group ¹: Origin Zone 1.3 ($) | Country price group ¹: Origin Zone 1.4 ($) | Country price group ¹: Origin Zone 1.5 ($) | Country price group ¹: Origin Zone 1.6 ($) | Country price group ¹: Origin Zone 1.7 ($) | Country price group ¹: Origin Zone 1.8 ($)
26 | 101.75 | 105.07 | 111.25 | 118.32 | 121.08 | 126.97 | 129.49
27 | 103.84 | 107.64 | 114.10 | 121.36 | 124.07 | 130.10 | 133.05
28 | 105.93 | 110.20 | 116.99 | 124.45 | 127.06 | 133.24 | 136.56
29 | 108.02 | 112.77 | 119.84 | 127.49 | 130.06 | 136.37 | 140.13
30 | 110.06 | 115.33 | 122.69 | 130.53 | 133.05 | 139.51 | 143.64
31 | 112.15 | 117.90 | 125.54 | 133.62 | 136.09 | 142.55 | 147.20
32 | 114.24 | 120.46 | 128.44 | 136.66 | 139.08 | 145.73 | 150.72
33 | 116.33 | 123.03 | 131.29 | 139.70 | 142.07 | 148.87 | 154.28
34 | 118.42 | 125.59 | 134.24 | 142.79 | 145.07 | 152.00 | 157.80
35 | 120.46 | 128.16 | 137.09 | 145.92 | 148.11 | 155.14 | 161.36
36 | 122.55 | 130.63 | 139.98 | 148.96 | 151.10 | 158.27 | 164.87
37 | 124.64 | 133.19 | 142.83 | 152.05 | 154.09 | 161.45 | 168.44
38 | 126.64 | 135.76 | 145.68 | 155.09 | 157.08 | 164.59 | 171.95
39 | 128.73 | 138.37 | 148.53 | 158.13 | 160.12 | 167.72 | 175.51
40 | 130.77 | 140.93 | 151.43 | 161.22 | 163.12 | 170.86 | 179.03
41 | 132.86 | 143.50 | 154.28 | 164.26 | 166.11 | 174.04 | 182.59
42 | 134.95 | 146.06 | 157.13 | 167.30 | 169.10 | 177.18 | 186.11
43 | 137.04 | 148.63 | 159.98 | 170.38 | 172.14 | 180.22 | 189.76
44 | 139.13 | 151.19 | 162.88 | 173.42 | 175.13 | 183.35 | 193.33
45 | 141.22 | 153.76 | 165.73 | 176.46 | 178.13 | 186.49 | 196.84
46 | 143.26 | 156.32 | 168.58 | 179.55 | 181.12 | 189.67 | 200.40
47 | 145.35 | 158.89 | 171.57 | 182.59 | 184.16 | 192.80 | 203.92
48 | 147.44 | 161.45 | 174.42 | 185.63 | 187.15 | 195.94 | 207.48
49 | 149.53 | 164.02 | 177.27 | 188.81 | 190.14 | 199.07 | 211.00
50 | 151.62 | 166.58 | 180.12 | 191.85 | 193.14 | 202.26 | 214.56

Maximum weight (pounds) | Country price group: 2 ($) | Country price group: 3 ($) | Country price group: 4 ($) | Country price group: 5 ($) | Country price group: 6 ($) | Country price group: 7 ($) | Country price group: 8 ($) | Country price group: 9 ($)
26 | 111.15 | 140.46 | 181.97 | 122.31 | 156.18 | 206.06 | 153.47 | 137.47
27 | 113.67 | 143.88 | 187.20 | 125.21 | 160.50 | 212.23 | 157.70 | 140.84
28 | 116.14 | 147.35 | 192.33 | 128.06 | 164.87 | 218.41 | 161.98 | 144.21
29 | 118.61 | 150.91 | 197.46 | 130.96 | 169.20 | 224.58 | 166.30 | 147.58
30 | 121.13 | 154.38 | 202.54 | 133.81 | 173.57 | 230.80 | 170.57 | 150.96
31 | 123.69 | 157.84 | 207.67 | 136.71 | 177.98 | 236.98 | 174.80 | 154.28
32 | 126.21 | 161.31 | 212.90 | 139.65 | 182.35 | 243.15 | 179.03 | 157.65
33 | 128.68 | 164.73 | 218.03 | 142.55 | 186.68 | 249.33 | 183.30 | 161.03
34 | 131.15 | 168.20 | 223.16 | 145.40 | 191.05 | 255.55 | 187.63 | 164.40
35 | 133.67 | 171.67 | 228.29 | 148.30 | 195.37 | 261.73 | 191.90 | 167.77
36 | 136.14 | 175.13 | 233.37 | 151.19 | 199.83 | 267.90 | 196.13 | 171.10
37 | 138.61 | 178.60 | 238.50 | 154.04 | 204.16 | 274.08 | 200.36 | 174.47
38 | 141.12 | 182.07 | 243.72 | 156.94 | 208.48 | 280.30 | 204.63 | 177.84
39 | 143.59 | 185.54 | 248.85 | 159.79 | 212.85 | 286.57 | 208.95 | 181.31
40 | 146.11 | 188.96 | 253.98 | 162.69 | 217.17 | 292.74 | 213.23 | 184.68
41 | 148.58 | 192.42 | 259.07 | 165.54 | 221.64 | 298.92 | 217.46 | 188.01
42 | 151.15 | 195.89 | 264.20 | 168.44 | 225.96 | 305.14 | 221.68 | 191.38
43 | 153.66 | 199.36 | 269.33 | 171.29 | 230.33 | 311.32 | 225.96 | 194.75
44 | 156.13 | 202.83 | 274.55 | 174.18 | 234.65 | 317.49 | 230.28 | 198.12
45 | 158.60 | 206.29 | 279.68 | 177.08 | 239.02 | 323.67 | 234.56 | 201.50
46 | 161.12 | 209.81 | 284.81 | 180.03 | 243.44 | 329.89 | 238.78 | 204.82
47 | 163.59 | 213.28 | 289.89 | 182.92 | 247.81 | 336.06 | 243.01 | 208.19
48 | 166.11 | 216.74 | 295.02 | 185.77 | 252.13 | 342.24 | 247.29 | 211.57
49 | 168.58 | 220.21 | 300.15 | 188.67 | 256.45 | 348.41 | 251.61 | 214.94
50 | 171.05 | 223.68 | 305.38 | 191.52 | 260.82 | 354.64 | 255.88 | 218.26

Maximum weight (pounds) | Country price group: 10 ($) | Country price group: 11 ($) | Country price group: 12 ($) | Country price group: 13 ($) | Country price group: 14 ($) | Country price group: 15 ($) | Country price group: 16 ($) | Country price group: 17 ($)
26 | 182.69 | 140.89 | 134.14 | 119.51 | 147.39 | 151.72 | 110.30 | 117.66
27 | 188.01 | 144.16 | 137.28 | 122.08 | 150.86 | 156.09 | 112.29 | 120.37
28 | 193.42 | 147.44 | 140.46 | 124.64 | 154.33 | 160.50 | 114.29 | 123.03
29 | 198.74 | 150.72 | 143.64 | 127.21 | 157.89 | 164.87 | 116.28 | 125.69
30 | 204.06 | 153.95 | 146.78 | 129.82 | 161.36 | 169.20 | 118.28 | 128.39
31 | 209.38 | 157.23 | 149.96 | 132.38 | 164.78 | 173.57 | 120.27 | 131.05
32 | 214.70 | 160.50 | 153.14 | 134.95 | 168.25 | 177.89 | 122.27 | 133.76
33 | 220.02 | 163.78 | 156.28 | 137.56 | 171.71 | 182.35 | 124.26 | 136.42
34 | 225.44 | 167.01 | 159.46 | 140.13 | 175.18 | 186.68 | 126.26 | 139.13
35 | 230.71 | 170.38 | 162.64 | 142.69 | 178.65 | 191.00 | 128.25 | 141.79
36 | 236.03 | 173.66 | 165.78 | 145.26 | 182.12 | 195.37 | 130.25 | 144.50
37 | 241.35 | 176.94 | 168.96 | 147.87 | 185.54 | 199.69 | 132.24 | 147.16
38 | 246.67 | 180.17 | 172.14 | 150.43 | 189.00 | 204.16 | 134.24 | 149.96
39 | 251.99 | 183.45 | 175.32 | 153.00 | 192.47 | 208.48 | 136.23 | 152.62
40 | 257.40 | 186.72 | 178.46 | 155.61 | 195.94 | 212.85 | 138.23 | 155.33
41 | 262.72 | 190.19 | 181.74 | 158.18 | 199.41 | 217.17 | 140.22 | 157.99
42 | 268.04 | 193.66 | 184.92 | 160.74 | 202.87 | 221.64 | 142.22 | 160.69
43 | 273.36 | 197.13 | 188.05 | 163.31 | 206.29 | 225.96 | 144.21 | 163.35
44 | 278.68 | 200.69 | 191.24 | 165.92 | 209.76 | 230.33 | 146.21 | 166.01
45 | 283.96 | 204.16 | 194.42 | 168.48 | 213.23 | 234.65 | 148.20 | 168.72
46 | 289.37 | 207.62 | 197.55 | 170.95 | 216.70 | 238.97 | 150.20 | 171.38
47 | 294.69 | 211.09 | 200.74 | 173.57 | 220.26 | 243.44 | 152.19 | 174.09
48 | 300.01 | 214.65 | 203.92 | 176.13 | 223.73 | 247.76 | 154.19 | 176.75
49 | 305.33 | 218.12 | 207.10 | 178.70 | 227.19 | 252.13 | 156.09 | 179.46
50 | 310.65 | 221.59 | 210.24 | 181.26 | 230.61 | 256.45 | 158.08 | 182.12

Maximum weight (pounds) | Country price group ¹: Origin Zone 1.1 &1.2 ($) | Country price group ¹: Origin Zone 1.3 ($) | Country price group ¹: Origin Zone 1.4 ($) | Country price group ¹: Origin Zone 1.5 ($) | Country price group ¹: Origin Zone 1.6 ($) | Country price group ¹: Origin Zone 1.7 ($) | Country price group ¹: Origin Zone 1.8 ($)
51 | 153.71 | 169.15 | 183.02 | 194.70 | 196.13 | 205.39 | 218.07
52 | 155.75 | 171.71 | 185.87 | 197.55 | 199.17 | 208.53 | 221.64
53 | 157.84 | 174.28 | 188.72 | 200.45 | 202.16 | 211.66 | 225.15
54 | 159.93 | 176.84 | 191.57 | 203.30 | 205.15 | 214.84 | 228.71
55 | 162.02 | 179.41 | 194.47 | 206.15 | 208.15 | 217.98 | 232.23
56 | 164.11 | 181.97 | 197.32 | 209.05 | 211.19 | 221.11 | 235.79
57 | 166.20 | 184.54 | 200.17 | 211.90 | 214.18 | 224.25 | 239.31
58 | 168.25 | 187.10 | 203.02 | 214.75 | 217.27 | 227.43 | 242.87
59 | 170.34 | 189.67 | 205.91 | 217.60 | 220.31 | 230.57 | 246.38
60 | 172.43 | 192.23 | 208.86 | 220.50 | 223.30 | 233.70 | 249.95
61 | 174.52 | 194.80 | 211.71 | 223.35 | 226.29 | 236.84 | 253.56
62 | 176.61 | 197.36 | 214.56 | 226.29 | 229.28 | 240.02 | 257.12
63 | 178.70 | 199.93 | 217.46 | 229.14 | 232.32 | 243.06 | 260.63
64 | 180.74 | 202.54 | 220.31 | 232.04 | 235.32 | 246.19 | 264.20
65 | 182.83 | 205.11 | 223.16 | 234.89 | 238.31 | 249.33 | 267.76
66 | 184.92 | 207.67 | 226.05 | 237.74 | 241.30 | 252.51 | 271.27
67 |  |  |  |  |  |  |
68 |  |  |  |  |  |  |
69 |  |  |  |  |  |  |
70 |  |  |  |  |  |  |

Maximum weight (pounds) | Country price group: 2 ($) | Country price group: 3 ($) | Country price group: 4 ($) | Country price group: 5 ($) | Country price group: 6 ($) | Country price group: 7 ($) | Country price group: 8 ($) | Country price group: 9 ($)
51 | 173.57 | 227.15 | 310.51 | 194.42 | 265.24 | 360.81 | 260.11 | 221.64
52 | 176.04 | 230.57 | 315.59 | 197.32 | 269.61 | 366.99 | 264.39 | 225.01
53 | 178.65 | 234.03 | 320.72 | 200.17 | 273.93 | 373.26 | 268.71 | 228.38
54 | 181.12 | 237.50 | 325.85 | 203.06 | 278.30 | 379.48 | 272.94 | 231.75
55 | 183.59 | 240.97 | 330.98 | 205.91 | 282.72 | 385.65 | 277.21 | 235.22
56 | 186.11 | 244.44 | 336.21 | 208.81 | 287.09 | 391.83 | 281.44 | 238.55
57 | 188.58 | 247.90 | 341.34 | 211.66 | 291.41 | 398.00 | 285.71 | 241.92
58 | 191.05 | 251.32 | 346.42 | 214.56 | 295.74 | 404.23 | 290.04 | 245.29
59 | 193.56 | 254.79 | 351.55 | 217.50 | 300.11 | 410.40 | 294.26 | 248.66
60 | 196.03 | 258.26 | 356.68 | 220.40 | 304.52 | 416.58 | 298.54 | 251.99
61 | 198.50 | 261.73 | 361.90 | 223.30 | 308.89 | 422.75 | 302.77 | 255.36
62 | 201.02 | 265.29 | 367.03 | 226.15 | 313.22 | 428.97 | 307.04 | 258.73
63 | 203.49 | 268.76 | 372.12 | 229.05 | 317.59 | 435.15 | 311.36 | 262.11
64 | 206.10 | 272.22 | 377.25 | 231.90 | 321.91 | 441.32 | 315.64 | 265.48
65 | 208.57 | 275.64 | 382.38 | 234.79 | 326.37 | 447.50 | 319.87 | 268.80
66 | 211.04 | 279.11 | 387.51 | 237.64 | 330.70 | 453.72 | 324.09 | 272.18
67 | 213.56 | 282.58 | 392.73 | 240.54 | 335.07 | 459.99 | 328.37 | 275.55
68 | 216.03 | 286.05 | 397.86 | 243.39 | 339.39 | 466.17 | 332.69 | 278.92
69 | 218.50 | 289.51 | 402.94 | 246.29 | 343.71 | 472.39 | 336.97 | 282.29
70 | 221.02 | 292.98 | 408.07 | 249.19 | 348.18 | 478.56 | 341.19 | 285.62

Maximum weight (pounds) | Country price group: 10 ($) | Country price group: 11 ($) | Country price group: 12 ($) | Country price group: 13 ($) | Country price group: 14 ($) | Country price group: 15 ($) | Country price group: 16 ($) | Country price group: 17 ($)
51 | 315.97 | 225.06 | 213.42 | 183.87 | 234.08 | 260.82 | 160.08 | 184.92
52 | 321.29 | 228.52 | 216.60 | 186.44 | 237.55 | 265.24 | 162.07 | 187.58
53 | 326.71 | 232.09 | 219.74 | 189.00 | 241.02 | 269.61 | 164.07 | 190.29
54 | 332.03 | 235.55 | 222.92 | 191.62 | 244.48 | 273.93 | 166.06 | 192.95
55 | 337.35 | 239.02 | 226.10 | 194.18 | 247.95 | 278.30 | 168.06 | 195.65
56 | 342.62 | 242.49 | 229.38 | 196.75 | 251.37 | 282.63 | 170.05 | 198.31
57 | 347.94 | 246.05 | 232.51 | 199.36 | 254.84 | 287.09 | 172.05 | 201.02
58 | 353.26 | 249.52 | 235.70 | 201.92 | 258.31 | 291.41 | 174.04 | 203.68
59 | 358.67 | 252.99 | 238.88 | 204.49 | 261.77 | 295.74 | 176.04 | 206.34
60 | 363.99 | 256.45 | 242.01 | 207.10 | 265.24 | 300.11 | 178.03 | 209.05
61 | 369.31 | 259.92 | 245.20 | 209.67 | 268.71 | 304.43 | 180.03 | 211.71
62 | 374.63 | 263.48 | 248.38 | 212.23 | 272.13 | 308.89 | 182.02 | 214.42
63 | 379.95 | 266.95 | 251.51 | 214.80 | 275.60 | 313.22 | 184.02 | 217.17
64 | 385.27 | 270.42 | 254.70 | 217.41 | 279.16 | 317.59 | 186.01 | 219.88
65 | 390.69 | 273.89 | 257.88 | 219.97 | 282.63 | 321.91 | 188.01 | 222.54
66 | 396.01 | 277.50 | 261.01 | 222.54 | 286.09 | 326.28 | 190.00 | 225.25
67 |  |  |  |  |  |  | 192.00 |
68 |  |  |  |  |  |  | 193.99 |
69 |  |  |  |  |  |  | 195.99 |
70 |  |  |  |  |  |  | 197.98 |
Notes:
¹ The applicable Origin Zone for pieces destined to Canada is based on the applicable zone from the origin point to the serving International Service Center (ISC). In future releases, distance to and within Canada could be considered for application of the appropriate Origin Zone group.

International Service Center (ISC) Zone Chart

The International Service Center (ISC) Zone Chart identifies the appropriate distance code assigned to each origin.

| Annual fee ($)
Zone Chart concerning appropriate International Service Center and partner Induction Facility from every ZIP Code in the nation (per year) | 68.00

2320 International Priority Airmail (IPA)

* * *

2320.6 Prices

International Priority Airmail Letters and Postcards

The price to be paid is the applicable per-piece price plus the applicable per-pound price. The per-piece price applies to each mailpiece regardless of weight. The per-pound price applies to the net weight (gross weight of the container minus the tare weight of the container) of the mail for the specific Country Price Group.

a. Presort Mail (Full Service and ISC Drop Shipment)

i. Per Piece

| Price group: 1 ($) | Price group: 2 ($) | Price group: 3 ($) | Price group: 4 ($) | Price group: 5 ($) | Price group: 6 ($) | Price group: 7 ($) | Price group: 8 ($) | Price group: 9 ($) | Price group: 10 ($)
Direct Country Containers | 0.78 | 0.26 | 0.77 | 0.78 | 0.77 | 0.74 | 0.80 | 0.72 | 0.66 | 0.30
Mixed Country Containers |  |  |  |  |  |  |  |  | 0.77 | 0.32

| Price group: 11 ($) | Price group: 12 ($) | Price group: 13 ($) | Price group: 14 ($) | Price group: 15 ($) | Price group: 16 ($) | Price group: 17 ($) | Price group: 18 ($) | Price group: 19 ($)
Direct Country Containers | 0.27 | 0.71 | 0.66 | 0.25 | 0.70 | 0.29 | 0.30 | 0.27 | 0.23
Mixed Country Containers | 0.29 | 0.73 | 0.71 | 0.26 | 0.76 | 0.31 | 0.32 | 0.29 | 0.25

ii. Per Pound

| Price group: 1 ($) | Price group: 2 ($) | Price group: 3 ($) | Price group: 4 ($) | Price group: 5 ($) | Price group: 6 ($) | Price group: 7 ($) | Price group: 8 ($) | Price group: 9 ($) | Price group: 10 ($)
Direct Country Containers (Full Service) | 9.86 | 11.85 | 12.12 | 12.64 | 12.33 | 13.06 | 12.40 | 12.86 | 13.54 | 14.89
Direct Country Containers (ISC Drop Shipment) | 6.68 | 7.40 | 9.00 | 9.52 | 9.24 | 9.78 | 9.27 | 9.29 | 10.15 | 9.83
Mixed Country Containers (ISC Drop Shipment) |  |  |  |  |  |  |  |  | 10.63 | 10.31

| Price group: 11 ($) | Price group: 12 ($) | Price group: 13 ($) | Price group: 14 ($) | Price group: 15 ($) | Price group: 16 ($) | Price group: 17 ($) | Price group: 18 ($) | Price group: 19 ($)
Direct Country Containers (Full Service) | 12.93 | 12.81 | 13.06 | 13.58 | 12.66 | 13.12 | 14.96 | 13.00 | 14.40
Direct Country Containers (ISC Drop Shipment) | 9.84 | 9.39 | 9.52 | 10.50 | 9.16 | 9.79 | 9.88 | 9.88 | 11.33
Mixed Country Containers (ISC Drop Shipment) | 10.26 | 9.87 | 10.07 | 11.01 | 9.82 | 9.87 | 10.36 | 10.30 | 11.93

b. Worldwide Nonpresort Mail (Full Service and ISC Drop Shipment)

i. Per Piece

| ($)
Worldwide Nonpresorted Containers | 0.83

ii. Per Pound

| ($)
Worldwide Nonpresorted Containers (Full Service) | 16.83
Worldwide Nonpresorted Containers (ISC Drop Shipment) | 13.26

International Priority Airmail Large Envelopes (Flats)

The price to be paid is the applicable per-piece price plus the applicable per-pound price. The per-piece price applies to each mailpiece regardless of weight. The per-pound price applies to the net weight (gross weight of the container minus the tare weight of the container) of the mail for the specific Country Price Group.

a. Presort Mail (Full Service and ISC Drop Shipment)

i. Per Piece

| Price group: 1 ($) | Price group: 2 ($) | Price group: 3 ($) | Price group: 4 ($) | Price group: 5 ($) | Price group: 6 ($) | Price group: 7 ($) | Price group: 8 ($) | Price group: 9 ($) | Price group: 10 ($)
Direct Country Containers | 0.78 | 0.26 | 0.77 | 0.78 | 0.77 | 0.74 | 0.80 | 0.72 | 0.66 | 0.30
Mixed Country Containers |  |  |  |  |  |  |  |  | 0.77 | 0.32

| Price group: 11 ($) | Price group: 12 ($) | Price group: 13 ($) | Price group: 14 ($) | Price group: 15 ($) | Price group: 16 ($) | Price group: 17 ($) | Price group: 18 ($) | Price group: 19 ($)
Direct Country Containers | 0.27 | 0.71 | 0.66 | 0.25 | 0.70 | 0.29 | 0.30 | 0.27 | 0.23
Mixed Country Containers | 0.29 | 0.73 | 0.71 | 0.26 | 0.76 | 0.31 | 0.32 | 0.29 | 0.25

ii. Per Pound

| Price group: 1 ($) | Price group: 2 ($) | Price group: 3 ($) | Price group: 4 ($) | Price group: 5 ($) | Price group: 6 ($) | Price group: 7 ($) | Price group: 8 ($) | Price group: 9 ($) | Price group: 10 ($)
Direct Country Containers (Full Service) | 8.41 | 10.12 | 10.36 | 10.84 | 10.57 | 11.18 | 10.63 | 10.99 | 11.58 | 12.73
Direct Country Containers (ISC Drop Shipment) | 5.74 | 6.35 | 7.72 | 8.18 | 7.91 | 8.38 | 7.94 | 7.92 | 8.67 | 8.41
Mixed Country Containers (ISC Drop Shipment) |  |  |  |  |  |  |  |  | 9.08 | 8.84

| Price group: 11 ($) | Price group: 12 ($) | Price group: 13 ($) | Price group: 14 ($) | Price group: 15 ($) | Price group: 16 ($) | Price group: 17 ($) | Price group: 18 ($) | Price group: 19 ($)
Direct Country Containers (Full Service) | 11.07 | 10.94 | 11.17 | 11.62 | 12.66 | 13.12 | 14.96 | 13.00 | 14.40
Direct Country Containers (ISC Drop Shipment) | 8.42 | 8.05 | 8.16 | 8.99 | 9.16 | 9.79 | 9.88 | 9.88 | 11.33
Mixed Country Containers (ISC Drop Shipment) | 8.78 | 8.45 | 8.64 | 9.41 | 9.82 | 9.87 | 10.36 | 10.30 | 11.93

b. Worldwide Nonpresort Mail (Full Service and ISC Drop Shipment)

i. Per Piece

| ($)
Worldwide Nonpresorted Containers | 0.83

ii. Per Pound

| ($)
Worldwide Nonpresorted Containers (Full Service) | 16.83
Worldwide Nonpresorted Containers (ISC Drop Shipment) | 13.26

International Priority Airmail Packages (Small Packets and Rolls)

The price to be paid is the applicable per-piece price plus the applicable per-pound price. The per-piece price applies to each mailpiece regardless of weight. The per-pound price applies to the net weight (gross weight of the container minus the tare weight of the container) of the mail for the specific Country Price Group.

a. Presort Mail (Full Service and ISC Drop Shipment)

i. Per Piece

| Price group: 1 ($) | Price group: 2 ($) | Price group: 3 ($) | Price group: 4 ($) | Price group: 5 ($) | Price group: 6 ($) | Price group: 7 ($) | Price group: 8 ($) | Price group: 9 ($) | Price group: 10 ($)
Direct Country Containers | 0.78 | 0.26 | 0.77 | 0.78 | 0.77 | 0.74 | 0.81 | 0.72 | 0.66 | 0.30
Mixed Country Containers |  |  |  |  |  |  |  |  | 0.77 | 0.32

| Price group: 11 ($) | Price group: 12 ($) | Price group: 13 ($) | Price group: 14 ($) | Price group: 15 ($) | Price group: 16 ($) | Price group: 17 ($) | Price group: 18 ($) | Price group: 19 ($)
Direct Country Containers | 0.27 | 0.71 | 0.66 | 0.25 | 0.70 | 0.29 | 0.30 | 0.27 | 0.23
Mixed Country Containers | 0.29 | 0.73 | 0.71 | 0.26 | 0.76 | 0.31 | 0.32 | 0.29 | 0.25

ii. Per Pound

| Price group: 1 ($) | Price group: 2 ($) | Price group: 3 ($) | Price group: 4 ($) | Price group: 5 ($) | Price group: 6 ($) | Price group: 7 ($) | Price group: 8 ($) | Price group: 9 ($) | Price group: 10 ($)
Direct Country Containers (Full Service) | 8.04 | 9.67 | 9.90 | 10.31 | 10.07 | 10.68 | 10.11 | 10.49 | 11.06 | 12.13
Direct Country Containers (ISC Drop Shipment) | 5.45 | 6.07 | 7.34 | 7.78 | 7.55 | 7.98 | 7.56 | 7.58 | 8.27 | 8.01
Mixed Country Containers (ISC Drop Shipment) |  |  |  |  |  |  |  |  | 8.69 | 8.39

| Price group: 11 ($) | Price group: 12 ($) | Price group: 13 ($) | Price group: 14 ($) | Price group: 15 ($) | Price group: 16 ($) | Price group: 17 ($) | Price group: 18 ($) | Price group: 19 ($)
Direct Country Containers (Full Service) | 10.54 | 10.44 | 10.66 | 11.08 | 12.66 | 13.12 | 14.96 | 13.00 | 14.40
Direct Country Containers (ISC Drop Shipment) | 8.04 | 7.68 | 7.77 | 8.57 | 9.16 | 9.79 | 9.88 | 9.88 | 11.33
Mixed Country Containers (ISC Drop Shipment) | 8.39 | 8.03 | 8.23 | 8.97 | 9.82 | 9.87 | 10.36 | 10.30 | 11.93

b. Worldwide Nonpresort Mail (Full Service and ISC Drop Shipment)

i. Per Piece

| ($)
Worldwide Nonpresorted Containers | 0.83

ii. Per Pound

| ($)
Worldwide Nonpresorted Containers (Full Service) | 16.83
Worldwide Nonpresorted Containers (ISC Drop Shipment) | 13.26

International Priority Airmail M-Bag

The price to be paid is the applicable per-pound price. The per-pound price applies to the total weight of the sack (M-bag) for the specific Country Price Group.

a. International Priority Airmail M-Bag (Full Service)

Maximum weight (pounds) | Price group: 1 ($) | Price group: 2 ($) | Price group: 3 ($) | Price group: 4 ($) | Price group: 5 ($) | Price group: 6 ($) | Price group: 7 ($) | Price group: 8 ($) | Price group: 9 ($) | Price group: 10 ($)
11 | 79.53 | 89.98 | 105.38 | 105.38 | 105.38 | 132.55 | 105.38 | 105.38 | 126.28 | 115.83
For each additional pound or fraction thereof | 7.23 | 8.18 | 9.58 | 9.58 | 9.58 | 12.05 | 9.58 | 9.58 | 11.48 | 10.53

Maximum weight (pounds) | Price group: 11 ($) | Price group: 12 ($) | Price group: 13 ($) | Price group: 14 ($) | Price group: 15 ($) | Price group: 16 ($) | Price group: 17 ($) | Price group: 18 ($) | Price group: 19 ($)
11 | 128.92 | 109.23 | 105.38 | 128.48 | 105.38 | 119.35 | 115.83 | 128.92 | 126.94
For each additional pound or fraction thereof | 11.72 | 9.93 | 9.58 | 11.68 | 9.58 | 10.85 | 10.53 | 11.72 | 11.54

b. International Priority Airmail M-Bag (ISC Drop Shipment)

Maximum weight (pounds) | Price group: 1 ($) | Price group: 2 ($) | Price group: 3 ($) | Price group: 4 ($) | Price group: 5 ($) | Price group: 6 ($) | Price group: 7 ($) | Price group: 8 ($) | Price group: 9 ($) | Price group: 10 ($)
5 | 31.20 | 38.59 | 48.45 | 48.45 | 48.45 | 70.59 | 48.45 | 48.45 | 64.62 | 61.21
6 | 31.75 | 39.68 | 50.04 | 50.04 | 50.04 | 73.23 | 50.04 | 50.04 | 66.98 | 62.40
7 | 32.30 | 40.77 | 51.63 | 51.63 | 51.63 | 75.87 | 51.63 | 51.63 | 69.34 | 63.59
8 | 32.85 | 41.86 | 53.22 | 53.22 | 53.22 | 78.51 | 53.22 | 53.22 | 71.70 | 64.78
9 | 33.40 | 42.95 | 54.81 | 54.81 | 54.81 | 81.15 | 54.81 | 54.81 | 74.06 | 65.97
10 | 33.95 | 44.04 | 56.40 | 56.40 | 56.40 | 83.79 | 56.40 | 56.40 | 76.42 | 67.16
11 | 34.50 | 45.13 | 57.99 | 57.99 | 57.99 | 86.43 | 57.99 | 57.99 | 78.78 | 68.35
For each additional pound or fraction thereof | 3.15 | 4.10 | 5.28 | 5.28 | 5.28 | 7.85 | 5.28 | 5.28 | 7.16 | 6.21

Maximum weight (pounds) | Price group: 11 ($) | Price group: 12 ($) | Price group: 13 ($) | Price group: 14 ($) | Price group: 15 ($) | Price group: 16 ($) | Price group: 17 ($) | Price group: 18 ($) | Price group: 19 ($)
5 | 70.17 | 52.46 | 48.45 | 70.49 | 48.45 | 61.34 | 61.21 | 70.17 | 67.93
6 | 72.04 | 54.02 | 50.04 | 72.20 | 50.04 | 63.06 | 62.40 | 72.04 | 69.87
7 | 73.91 | 55.58 | 51.63 | 73.91 | 51.63 | 64.78 | 63.59 | 73.91 | 71.81
8 | 75.78 | 57.14 | 53.22 | 75.62 | 53.22 | 66.50 | 64.78 | 75.78 | 73.75
9 | 77.65 | 58.70 | 54.81 | 77.33 | 54.81 | 68.22 | 65.97 | 77.65 | 75.69
10 | 79.52 | 60.26 | 56.40 | 79.04 | 56.40 | 69.94 | 67.16 | 79.52 | 77.63
11 | 81.39 | 61.82 | 57.99 | 80.75 | 57.99 | 71.66 | 68.35 | 81.39 | 79.57
For each additional pound or fraction thereof | 7.39 | 5.61 | 5.28 | 7.35 | 5.28 | 6.52 | 6.21 | 7.39 | 7.23

2325 International Surface Air Lift (ISAL)

* * *

2325.6 Prices

International Surface Air Lift Letters and Postcards

The price to be paid is the applicable per-piece price plus the applicable per-pound price. The per-piece price applies to each mailpiece regardless of weight. The per-pound price applies to the net weight (gross weight of the container minus the tare weight of the container) of the mail for the specific price group.

a. Presort Mail (Full Service and ISC Drop Shipment)

i. Per Piece

| Price group: 1 ($) | Price group: 2 ($) | Price group: 3 ($) | Price group: 4 ($) | Price group: 5 ($) | Price group: 6 ($) | Price group: 7 ($) | Price group: 8 ($) | Price group: 9 ($) | Price group: 10 ($)
Direct Country Containers | 0.71 | 0.23 | 0.68 | 0.71 | 0.71 | 0.69 | 0.72 | 0.65 | 0.59 | 0.27
Mixed Country Containers |  |  |  |  |  |  |  |  | 0.72 | 0.29

| Price group: 11 ($) | Price group: 12 ($) | Price group: 13 ($) | Price group: 14 ($) | Price group: 15 ($) | Price group: 16 ($) | Price group: 17 ($) | Price group: 18 ($) | Price group: 19 ($)
Direct Country Containers | 0.25 | 0.59 | 0.64 | 0.23 | 0.65 | 0.28 | 0.27 | 0.26 | 0.21
Mixed Country Containers | 0.26 | 0.61 | 0.68 | 0.25 | 0.70 | 0.30 | 0.29 | 0.27 | 0.23

ii. Per Pound

| Price group: 1 ($) | Price group: 2 ($) | Price group: 3 ($) | Price group: 4 ($) | Price group: 5 ($) | Price group: 6 ($) | Price group: 7 ($) | Price group: 8 ($) | Price group: 9 ($) | Price group: 10 ($)
Direct Country Containers (Full Service) | 9.61 | 11.13 | 10.78 | 11.52 | 11.31 | 12.39 | 11.52 | 11.32 | 12.47 | 13.79
Direct Country Containers (ISC Drop Shipment) | 6.49 | 6.98 | 8.04 | 8.66 | 8.46 | 9.27 | 8.58 | 8.18 | 9.32 | 9.10
Mixed Country Containers (ISC Drop Shipment) |  |  |  |  |  |  |  |  | 9.46 | 9.56

| Price group: 11 ($) | Price group: 12 ($) | Price group: 13 ($) | Price group: 14 ($) | Price group: 15 ($) | Price group: 16 ($) | Price group: 17 ($) | Price group: 18 ($) | Price group: 19 ($)
Direct Country Containers (Full Service) | 11.68 | 11.55 | 11.05 | 12.57 | 11.39 | 12.34 | 13.62 | 11.87 | 13.37
Direct Country Containers (ISC Drop Shipment) | 8.89 | 8.45 | 7.98 | 9.74 | 8.21 | 9.18 | 8.98 | 9.05 | 10.53
Mixed Country Containers (ISC Drop Shipment) | 9.21 | 8.89 | 8.86 | 10.00 | 9.12 | 9.25 | 9.44 | 9.37 | 10.72

b. Worldwide Nonpresort Mail (Full Service and ISC Drop Shipment)

i. Per Piece

| ($)
Worldwide Nonpresorted Containers | 0.77

ii. Per Pound

| ($)
Worldwide Nonpresorted Containers (Full Service) | 15.51
Worldwide Nonpresorted Containers (ISC Drop Shipment) | 12.22

International Surface Air Lift Large Envelopes (Flats)

The price to be paid is the applicable per-piece price plus the applicable per-pound price. The per-piece price applies to each mailpiece regardless of weight. The per-pound price applies to the net weight (gross weight of the container minus the tare weight of the container) of the mail for the specific price group.

a. Presort Mail (Full Service and ISC Drop Shipment)

i. Per Piece

| Price group: 1 ($) | Price group: 2 ($) | Price group: 3 ($) | Price group: 4 ($) | Price group: 5 ($) | Price group: 6 ($) | Price group: 7 ($) | Price group: 8 ($) | Price group: 9 ($) | Price group: 10 ($)
Direct Country Containers | 0.71 | 0.24 | 0.68 | 0.71 | 0.71 | 0.69 | 0.72 | 0.65 | 0.61 | 0.27
Mixed Country Containers |  |  |  |  |  |  |  |  | 0.72 | 0.29

| Price group: 11 ($) | Price group: 12 ($) | Price group: 13 ($) | Price group: 14 ($) | Price group: 15 ($) | Price group: 16 ($) | Price group: 17 ($) | Price group: 18 ($) | Price group: 19 ($)
Direct Country Containers | 0.25 | 0.61 | 0.64 | 0.23 | 0.65 | 0.28 | 0.27 | 0.26 | 0.21
Mixed Country Containers | 0.26 | 0.62 | 0.68 | 0.25 | 0.70 | 0.30 | 0.29 | 0.27 | 0.23

ii. Per Pound

| Price group: 1 ($) | Price group: 2 ($) | Price group: 3 ($) | Price group: 4 ($) | Price group: 5 ($) | Price group: 6 ($) | Price group: 7 ($) | Price group: 8 ($) | Price group: 9 ($) | Price group: 10 ($)
Direct Country Containers (Full Service) | 8.19 | 9.57 | 9.23 | 9.86 | 9.67 | 10.59 | 9.86 | 9.68 | 10.68 | 11.80
Direct Country Containers (ISC Drop Shipment) | 5.57 | 5.99 | 6.86 | 7.42 | 7.25 | 7.93 | 7.36 | 7.00 | 7.95 | 7.80
Mixed Country Containers (ISC Drop Shipment) |  |  |  |  |  |  |  |  | 8.10 | 8.19

| Price group: 11 ($) | Price group: 12 ($) | Price group: 13 ($) | Price group: 14 ($) | Price group: 15 ($) | Price group: 16 ($) | Price group: 17 ($) | Price group: 18 ($) | Price group: 19 ($)
Direct Country Containers (Full Service) | 10.00 | 9.85 | 9.45 | 10.74 | 11.39 | 12.34 | 13.62 | 11.87 | 13.37
Direct Country Containers (ISC Drop Shipment) | 7.62 | 7.23 | 6.84 | 8.34 | 8.21 | 9.18 | 8.98 | 9.05 | 10.53
Mixed Country Containers (ISC Drop Shipment) | 7.88 | 7.60 | 7.57 | 8.54 | 9.12 | 9.25 | 9.44 | 9.37 | 10.72

b. Worldwide Nonpresort Mail (Full Service and ISC Drop Shipment)

i. Per Piece

| ($)
Worldwide Nonpresorted Containers | 0.77

ii. Per Pound

| ($)
Worldwide Nonpresorted Containers (Full Service) | 15.51
Worldwide Nonpresorted Containers (ISC Drop Shipment) | 12.22

International Surface Air Lift Packages (Small Packets and Rolls)

The price to be paid is the applicable per-piece price plus the applicable per-pound price. The per-piece price applies to each mailpiece regardless of weight. The per-pound price applies to the net weight (gross weight of the container minus the tare weight of the container) of the mail for the specific price group.

a. Presort Mail (Full Service and ISC Drop Shipment)

i. Per Piece

| Price group: 1 ($) | Price group: 2 ($) | Price group: 3 ($) | Price group: 4 ($) | Price group: 5 ($) | Price group: 6 ($) | Price group: 7 ($) | Price group: 8 ($) | Price group: 9 ($) | Price group: 10 ($)
Direct Country Containers | 0.71 | 0.23 | 0.68 | 0.71 | 0.71 | 0.69 | 0.72 | 0.65 | 0.61 | 0.27
Mixed Country Containers |  |  |  |  |  |  |  |  | 0.72 | 0.29

| Price group: 11 ($) | Price group: 12 ($) | Price group: 13 ($) | Price group: 14 ($) | Price group: 15 ($) | Price group: 16 ($) | Price group: 17 ($) | Price group: 18 ($) | Price group: 19 ($)
Direct Country Containers | 0.25 | 0.61 | 0.64 | 0.23 | 0.65 | 0.28 | 0.27 | 0.26 | 0.21
Mixed Country Containers | 0.26 | 0.62 | 0.68 | 0.25 | 0.70 | 0.30 | 0.29 | 0.27 | 0.23

ii. Per Pound

| Price group: 1 ($) | Price group: 2 ($) | Price group: 3 ($) | Price group: 4 ($) | Price group: 5 ($) | Price group: 6 ($) | Price group: 7 ($) | Price group: 8 ($) | Price group: 9 ($) | Price group: 10 ($)
Direct Country Containers (Full Service) | 7.82 | 9.08 | 8.81 | 9.40 | 9.22 | 10.10 | 9.40 | 9.23 | 10.14 | 11.27
Direct Country Containers (ISC Drop Shipment) | 5.29 | 5.70 | 6.52 | 7.06 | 6.91 | 7.56 | 7.00 | 6.68 | 7.60 | 7.43
Mixed Country Containers (ISC Drop Shipment) |  |  |  |  |  |  |  |  | 7.73 | 7.81

| Price group: 11 ($) | Price group: 12 ($) | Price group: 13 ($) | Price group: 14 ($) | Price group: 15 ($) | Price group: 16 ($) | Price group: 17 ($) | Price group: 18 ($) | Price group: 19 ($)
Direct Country Containers (Full Service) | 9.54 | 9.44 | 9.01 | 10.27 | 11.39 | 12.34 | 13.62 | 11.87 | 13.37
Direct Country Containers (ISC Drop Shipment) | 7.29 | 6.89 | 6.52 | 7.99 | 8.21 | 9.18 | 8.98 | 9.05 | 10.53
Mixed Country Containers (ISC Drop Shipment) | 7.54 | 7.26 | 7.21 | 8.17 | 9.12 | 9.25 | 9.44 | 9.37 | 10.72

b. Worldwide Nonpresort Mail (Full Service and ISC Drop Shipment)

i. Per Piece

| ($)
Worldwide Nonpresorted Containers | 0.77

ii. Per Pound

| ($)
Worldwide Nonpresorted Containers (Full Service) | 15.51
Worldwide Nonpresorted Containers (ISC Drop Shipment) | 12.22

International Surface Air Lift M-Bags

The price to be paid is applicable per-pound price. The per-pound price applies to the total weight of the sack (M-bag) for the specific price group.

a. International Surface Air Lift M-Bag (Full Service)

Maximum weight (pounds) | Price group: 1 ($) | Price group: 2 ($) | Price group: 3 ($) | Price group: 4 ($) | Price group: 5 ($) | Price group: 6 ($) | Price group: 7 ($) | Price group: 8 ($) | Price group: 9 ($) | Price group: 10 ($)
11 | 27.61 | 29.59 | 34.65 | 34.65 | 34.65 | 48.18 | 34.65 | 35.20 | 45.10 | 40.59
For each additional pound or fraction thereof | 2.51 | 2.69 | 3.15 | 3.15 | 3.15 | 4.38 | 3.15 | 3.20 | 4.10 | 3.69

Maximum weight (pounds) | Price group: 11 ($) | Price group: 12 ($) | Price group: 13 ($) | Price group: 14 ($) | Price group: 15 ($) | Price group: 16 ($) | Price group: 17 ($) | Price group: 18 ($) | Price group: 19 ($)
11 | 45.10 | 36.30 | 35.20 | 47.52 | 35.20 | 40.59 | 40.59 | 45.10 | 56.43
For each additional pound or fraction thereof | 4.10 | 3.30 | 3.20 | 4.32 | 3.20 | 3.69 | 3.69 | 4.10 | 5.13

b. International Surface Air Lift M-Bag (ISC Drop Shipment)

Maximum weight (pounds) | Price group: 1 ($) | Price group: 2 ($) | Price group: 3 ($) | Price group: 4 ($) | Price group: 5 ($) | Price group: 6 ($) | Price group: 7 ($) | Price group: 8 ($) | Price group: 9 ($) | Price group: 10 ($)
5 | 25.51 | 23.46 | 18.31 | 18.31 | 18.31 | 25.95 | 18.31 | 18.62 | 25.12 | 23.66
6 | 25.69 | 24.25 | 20.41 | 20.41 | 20.41 | 29.43 | 20.41 | 20.78 | 27.88 | 25.86
7 | 25.87 | 25.04 | 22.51 | 22.51 | 22.51 | 32.91 | 22.51 | 22.94 | 30.64 | 28.06
8 | 26.05 | 25.83 | 24.61 | 24.61 | 24.61 | 36.39 | 24.61 | 25.10 | 33.40 | 30.26
9 | 26.23 | 26.62 | 26.71 | 26.71 | 26.71 | 39.87 | 26.71 | 27.26 | 36.16 | 32.46
10 | 26.41 | 27.41 | 28.81 | 28.81 | 28.81 | 43.35 | 28.81 | 29.42 | 38.92 | 34.66
11 | 26.59 | 28.20 | 30.91 | 30.91 | 30.91 | 46.83 | 30.91 | 31.58 | 41.68 | 36.86
For each additional pound or fraction thereof | 2.41 | 2.56 | 2.81 | 2.81 | 2.81 | 4.27 | 2.81 | 2.86 | 3.80 | 3.37

Maximum weight (pounds) | Price group: 11 ($) | Price group: 12 ($) | Price group: 13 ($) | Price group: 14 ($) | Price group: 15 ($) | Price group: 16 ($) | Price group: 17 ($) | Price group: 18 ($) | Price group: 19 ($)
5 | 19.91 | 19.60 | 18.62 | 20.85 | 18.62 | 21.39 | 23.66 | 19.91 | 26.82
6 | 23.48 | 21.78 | 20.78 | 24.69 | 20.78 | 23.99 | 25.86 | 23.48 | 31.18
7 | 27.05 | 23.96 | 22.94 | 28.53 | 22.94 | 26.59 | 28.06 | 27.05 | 35.54
8 | 30.62 | 26.14 | 25.10 | 32.37 | 25.10 | 29.19 | 30.26 | 30.62 | 39.90
9 | 34.19 | 28.32 | 27.26 | 36.21 | 27.26 | 31.79 | 32.46 | 34.19 | 44.26
10 | 37.76 | 30.50 | 29.42 | 40.05 | 29.42 | 34.39 | 34.66 | 37.76 | 48.62
11 | 41.33 | 32.68 | 31.58 | 43.89 | 31.58 | 36.99 | 36.86 | 41.33 | 52.98
For each additional pound or fraction thereof | 3.77 | 2.98 | 2.86 | 3.98 | 2.86 | 3.37 | 3.37 | 3.77 | 4.81

2330 International Direct Sacks—Airmail M-Bags

* * *

2330.6 Prices

Outbound International Direct Sacks—Airmail M-Bags

The price is based on the applicable per-pound price. The per-pound price applies to the total weight of the sack (M-Bag) for the specific price group.

Maximum weight (pounds) | Price group ¹: 1 ($) | Price group ¹: 2 ($) | Price group ¹: 3 ($) | Price group ¹: 4 ($) | Price group ¹: 5 ($) | Price group ¹: 6 ($) | Price group ¹: 7 ($) | Price group ¹: 8 ($) | Price group ¹: 9 ($)
11 | 51.70 | 48.95 | 93.50 | 75.35 | 65.45 | 90.75 | 75.35 | 77.00 | 77.00
For each additional pound or fraction thereof | 4.70 | 4.45 | 8.50 | 6.85 | 5.95 | 8.25 | 6.85 | 7.00 | 7.00
Notes
¹ Same as Price Groups 1-9 for Single-Piece First-Class Mail International (SPFCMI).

Inbound International Direct Sacks—M-Bags

Payment is made in accordance with Part III of the Universal Postal Convention and associated UPU Letter Post Regulations. This information is available in the Letter Post Manual at www.upu.int.

2335 Outbound Single-Piece First-Class Package International Service

* * *

2335.6 Prices

Outbound Single-Piece First-Class Package International Service Retail Prices
Maximum weight (ounces) | Country price group: 1 ($) | Country price group: 2 ($) | Country price group: 3 ($) | Country price group: 4 ($) | Country price group: 5 ($) | Country price group: 6 ($) | Country price group: 7 ($) | Country price group: 8 ($) | Country price group: 9 ($)
1 | 12.25 | 12.50 | 17.25 | 15.25 | 14.50 | 15.25 | 15.25 | 15.25 | 15.25
2 | 12.25 | 12.50 | 17.25 | 15.25 | 14.50 | 15.25 | 15.25 | 15.25 | 15.25
3 | 12.25 | 12.50 | 17.25 | 15.25 | 14.50 | 15.25 | 15.25 | 15.25 | 15.25
4 | 12.25 | 12.50 | 17.25 | 15.25 | 14.50 | 15.25 | 15.25 | 15.25 | 15.25
5 | 12.25 | 12.50 | 17.25 | 15.25 | 14.50 | 15.25 | 15.25 | 15.25 | 15.25
6 | 12.25 | 12.50 | 17.25 | 15.25 | 14.50 | 15.25 | 15.25 | 15.25 | 15.25
7 | 12.25 | 12.50 | 17.25 | 15.25 | 14.50 | 15.25 | 15.25 | 15.25 | 15.25
8 | 12.25 | 12.50 | 17.25 | 15.25 | 14.50 | 15.25 | 15.25 | 15.25 | 15.25
12 | 20.75 | 21.75 | 27.75 | 25.50 | 24.50 | 25.50 | 25.50 | 25.50 | 25.50
16 | 20.75 | 21.75 | 27.75 | 25.50 | 24.50 | 25.50 | 25.50 | 25.50 | 25.50
20 | 20.75 | 21.75 | 27.75 | 25.50 | 24.50 | 25.50 | 25.50 | 25.50 | 25.50
24 | 20.75 | 21.75 | 27.75 | 25.50 | 24.50 | 25.50 | 25.50 | 25.50 | 25.50
28 | 20.75 | 21.75 | 27.75 | 25.50 | 24.50 | 25.50 | 25.50 | 25.50 | 25.50
32 | 20.75 | 21.75 | 27.75 | 25.50 | 24.50 | 25.50 | 25.50 | 25.50 | 25.50
36 | 32.00 | 33.25 | 43.00 | 40.50 | 39.00 | 40.50 | 40.50 | 40.50 | 40.50
40 | 32.00 | 33.25 | 43.00 | 40.50 | 39.00 | 40.50 | 40.50 | 40.50 | 40.50
44 | 32.00 | 33.25 | 43.00 | 40.50 | 39.00 | 40.50 | 40.50 | 40.50 | 40.50
48 | 32.00 | 33.25 | 43.00 | 40.50 | 39.00 | 40.50 | 40.50 | 40.50 | 40.50
52 | 50.25 | 51.75 | 67.25 | 63.25 | 61.75 | 63.25 | 63.25 | 63.25 | 63.25
56 | 50.25 | 51.75 | 67.25 | 63.25 | 61.75 | 63.25 | 63.25 | 63.25 | 63.25
60 | 50.25 | 51.75 | 67.25 | 63.25 | 61.75 | 63.25 | 63.25 | 63.25 | 63.25
64 | 50.25 | 51.75 | 67.25 | 63.25 | 61.75 | 63.25 | 63.25 | 63.25 | 63.25

Outbound Single-Piece First-Class Package International Service Commercial Base Prices
Maximum weight (ounces) | Country price group: 1 ($) | Country price group: 2 ($) | Country price group: 3 ($) | Country price group: 4 ($) | Country price group: 5 ($) | Country price group: 6 ($) | Country price group: 7 ($) | Country price group: 8 ($) | Country price group: 9 ($)
1 | 11.64 | 11.88 | 16.39 | 14.49 | 13.78 | 14.49 | 14.49 | 14.49 | 14.49
2 | 11.64 | 11.88 | 16.39 | 14.49 | 13.78 | 14.49 | 14.49 | 14.49 | 14.49
3 | 11.64 | 11.88 | 16.39 | 14.49 | 13.78 | 14.49 | 14.49 | 14.49 | 14.49
4 | 11.64 | 11.88 | 16.39 | 14.49 | 13.78 | 14.49 | 14.49 | 14.49 | 14.49
5 | 11.64 | 11.88 | 16.39 | 14.49 | 13.78 | 14.49 | 14.49 | 14.49 | 14.49
6 | 11.64 | 11.88 | 16.39 | 14.49 | 13.78 | 14.49 | 14.49 | 14.49 | 14.49
7 | 11.64 | 11.88 | 16.39 | 14.49 | 13.78 | 14.49 | 14.49 | 14.49 | 14.49
8 | 11.64 | 11.88 | 16.39 | 14.49 | 13.78 | 14.49 | 14.49 | 14.49 | 14.49
12 | 19.71 | 20.66 | 26.36 | 24.23 | 23.28 | 24.23 | 24.23 | 24.23 | 24.23
16 | 19.71 | 20.66 | 26.36 | 24.23 | 23.28 | 24.23 | 24.23 | 24.23 | 24.23
20 | 19.71 | 20.66 | 26.36 | 24.23 | 23.28 | 24.23 | 24.23 | 24.23 | 24.23
24 | 19.71 | 20.66 | 26.36 | 24.23 | 23.28 | 24.23 | 24.23 | 24.23 | 24.23
28 | 19.71 | 20.66 | 26.36 | 24.23 | 23.28 | 24.23 | 24.23 | 24.23 | 24.23
32 | 19.71 | 20.66 | 26.36 | 24.23 | 23.28 | 24.23 | 24.23 | 24.23 | 24.23
36 | 30.40 | 31.59 | 40.85 | 38.48 | 37.05 | 38.48 | 38.48 | 38.48 | 38.48
40 | 30.40 | 31.59 | 40.85 | 38.48 | 37.05 | 38.48 | 38.48 | 38.48 | 38.48
44 | 30.40 | 31.59 | 40.85 | 38.48 | 37.05 | 38.48 | 38.48 | 38.48 | 38.48
48 | 30.40 | 31.59 | 40.85 | 38.48 | 37.05 | 38.48 | 38.48 | 38.48 | 38.48
52 | 47.74 | 49.16 | 63.89 | 60.09 | 58.66 | 60.09 | 60.09 | 60.09 | 60.09
56 | 47.74 | 49.16 | 63.89 | 60.09 | 58.66 | 60.09 | 60.09 | 60.09 | 60.09
60 | 47.74 | 49.16 | 63.89 | 60.09 | 58.66 | 60.09 | 60.09 | 60.09 | 60.09
64 | 47.74 | 49.16 | 63.89 | 60.09 | 58.66 | 60.09 | 60.09 | 60.09 | 60.09

Outbound Single-Piece First-Class Package International Service Commercial Plus Prices
Maximum weight (ounces) | Country price group: 1 ($) | Country price group: 2 ($) | Country price group: 3 ($) | Country price group: 4 ($) | Country price group: 5 ($) | Country price group: 6 ($) | Country price group: 7 ($) | Country price group: 8 ($) | Country price group: 9 ($)
1 | 11.64 | 11.88 | 16.39 | 14.49 | 13.78 | 14.49 | 14.49 | 14.49 | 14.49
2 | 11.64 | 11.88 | 16.39 | 14.49 | 13.78 | 14.49 | 14.49 | 14.49 | 14.49
3 | 11.64 | 11.88 | 16.39 | 14.49 | 13.78 | 14.49 | 14.49 | 14.49 | 14.49
4 | 11.64 | 11.88 | 16.39 | 14.49 | 13.78 | 14.49 | 14.49 | 14.49 | 14.49
5 | 11.64 | 11.88 | 16.39 | 14.49 | 13.78 | 14.49 | 14.49 | 14.49 | 14.49
6 | 11.64 | 11.88 | 16.39 | 14.49 | 13.78 | 14.49 | 14.49 | 14.49 | 14.49
7 | 11.64 | 11.88 | 16.39 | 14.49 | 13.78 | 14.49 | 14.49 | 14.49 | 14.49
8 | 11.64 | 11.88 | 16.39 | 14.49 | 13.78 | 14.49 | 14.49 | 14.49 | 14.49
12 | 19.71 | 20.66 | 26.36 | 24.23 | 23.28 | 24.23 | 24.23 | 24.23 | 24.23
16 | 19.71 | 20.66 | 26.36 | 24.23 | 23.28 | 24.23 | 24.23 | 24.23 | 24.23
20 | 19.71 | 20.66 | 26.36 | 24.23 | 23.28 | 24.23 | 24.23 | 24.23 | 24.23
24 | 19.71 | 20.66 | 26.36 | 24.23 | 23.28 | 24.23 | 24.23 | 24.23 | 24.23
28 | 19.71 | 20.66 | 26.36 | 24.23 | 23.28 | 24.23 | 24.23 | 24.23 | 24.23
32 | 19.71 | 20.66 | 26.36 | 24.23 | 23.28 | 24.23 | 24.23 | 24.23 | 24.23
36 | 30.40 | 31.59 | 40.85 | 38.48 | 37.05 | 38.48 | 38.48 | 38.48 | 38.48
40 | 30.40 | 31.59 | 40.85 | 38.48 | 37.05 | 38.48 | 38.48 | 38.48 | 38.48
44 | 30.40 | 31.59 | 40.85 | 38.48 | 37.05 | 38.48 | 38.48 | 38.48 | 38.48
48 | 30.40 | 31.59 | 40.85 | 38.48 | 37.05 | 38.48 | 38.48 | 38.48 | 38.48
52 | 47.74 | 49.16 | 63.89 | 60.09 | 58.66 | 60.09 | 60.09 | 60.09 | 60.09
56 | 47.74 | 49.16 | 63.89 | 60.09 | 58.66 | 60.09 | 60.09 | 60.09 | 60.09
60 | 47.74 | 49.16 | 63.89 | 60.09 | 58.66 | 60.09 | 60.09 | 60.09 | 60.09
64 | 47.74 | 49.16 | 63.89 | 60.09 | 58.66 | 60.09 | 60.09 | 60.09 | 60.09

* * *

2600 Special Services

* * *

2600.2 Products Included in Group

• Address Enhancement Services (2605)

• Greeting Cards and Stationery (2610)

• International Ancillary Services (2615)

○ International Certificate of Mailing (2615.1)

○ Competitive International Registered Mail (2615.2)

○ International Return Receipt (2615.3)

○ Outbound International Insurance (2615.5)

○ Custom Clearance and Delivery Fee (2615.6)

• International Money Transfer Service—Outbound (2620)

• International Money Transfer Service—Inbound (2625)

• Premium Forwarding Service (2630)

• Shipping and Mailing Supplies (2635)

• Post Office Box Service (2640)

• Competitive Ancillary Services (2645)

○ Adult Signature (2645.1)

○ Package Intercept Service (2645.2)

○ Premium Data Retention and Retrieval Service (2645.3)

2605 Address Enhancement Services

* * *

2605.2 Prices

| ($)
AEC: |
Per record processed | 0.027
Minimum charge per list | 27.00
AMS API Address Matching System Application Program Interface (per year, per platform): ¹ |
Developer's Kit, one platform | 5,800.00
Each Additional, per platform | 2,000.00
Resell License, one platform | 24,740.00
Each Additional, per platform | 12,445.00
Additional Database License:
Number of Additional Licenses:
1-100 | 3,050.00
101-200 | 6,200.00
201-300 | 9,300.00
301-400 | 12,400.00
401-500 | 15,700.00
501-600 | 18,850.00
601-700 | 21,800.00
701-800 | 25,100.00
801-900 | 28,500.00
901-1,000 | 31,350.00
1,001-10,000 | 40,550.00
10,001-20,000 | 49,900.00
20,001-30,000 | 59,750.00
30,001-40,000 | 69,050.00
RDI API Developer's Kit: ¹
Each, per platform | 465.00
Resell License, one platform | 1,750.00
Each Additional, per platform | 990.00
Notes
¹ Above API License Fees prorated during the first year based on the date of the license agreement.

* * *

2615 International Ancillary Services

2615.1 International Certificate of Mailing

* * *

2615.1.2 Prices

Individual Pieces Prices

| ($)
Original certificate of mailing for listed pieces of ordinary Outbound Single-Piece First-Class Package International Service | 1.50
Three or more pieces individually listed in a firm mailing book or an approved customer provided manifest (per piece) | 0.51
Each additional copy of original certificate of mailing or firm mailing bills (each copy) | 1.50

Multiple Pieces Prices

| ($)
Up to 1,000 identical-weight pieces (one certificate for total number) | 8.75
Each additional 1,000 identical-weight pieces or fraction thereof | 1.09
Duplicate copy | 1.50

2615.2 Outbound Competitive International Registered Mail

* * *

2615.2.2 Prices

| ($)
Per Piece | 16.00

2615.3 Outbound International Return Receipt

* * *

2615.3.2 Prices

Outbound International Return Receipt

| ($)
Per Piece | 4.15

Inbound International Return Receipt

No additional payment.

2615.5 Outbound International Insurance

* * *

2615.5.3 Prices

Outbound International Insurance

a. Priority Mail International Insurance and Priority Mail Express International Merchandise Insurance

Indemnity limit not over ($) | Price ($)
¹ 200 | 0.00
300 | 6.75
400 | 8.40
500 | 10.05
600 | 11.70
700 | 13.35
800 | 15.00
900 | 16.65
Over 900 | 16.65 plus 1.65 for each 100.00 or fraction thereof over 900.00. Maximum indemnity varies by country.
Notes
¹ Insurance coverage is provided, for no additional charge, up to $200.00 for merchandise, and up to $100.00 for document reconstruction.

b. Global Express Guaranteed Insurance

($) |  | ($) | ($)
Amount of coverage:
0.01 | to | 100.00 | 0.00
100.01 | to | 200.00 | 1.25
200.01 | to | 300.00 | 2.50
300.01 | to | 400.00 | 3.75
400.01 | to | 500.00 | 5.00
For document reconstruction insurance or non-document insurance coverage above 500.00, add 1.25 per 100.00 or fraction thereof, up to a maximum of 2,499.00 per shipment. Maximum indemnity varies by country.
| Up to | 2,499.00 | 30.00

2615.6 Custom Clearance and Delivery Fee

* * *

2615.6.2 Prices

| ($)
Per Dutiable Item | 6.50

2620 International Money Transfer Service—Outbound

* * *

2620.3 Prices

International Money Order

| ($)
Per International Money Order | 10.25
Inquiry Fee | 7.60

Vendor Assisted Electronic Money Transfer

| Transfer amount: Minimum amount ($) | Transfer amount: Maximum amount ($) | Per transfer ($)
Electronic Money Transfer | 0.01 | 750.00 | 14.55
| 750.01 | 1,500.00 | 20.75
Refund | 0.01 | 1,500.00 | 31.95
Change of Recipient | 0.01 | 1,500.00 | 16.95

Electronic Money Transfer

[Reserved]

* * *

2630 Premium Forwarding Service

* * *

2630.2 Prices

| ($)
Online Enrollment (Commercial, Residential, and Local) | 20.10
Retail Counter Enrollment (Residential Only) | 21.90
Weekly Reshipment (Residential Only) | 21.90
Per-Container Reshipment (Local Only) | 21.90
Priority Mail Half Tray Box (Commercial Only) | 24.40
Priority Mail Full Tray Box (Commercial Only) | 44.50
Priority Mail Express Half Tray Box (Commercial Only) | 56.15
Priority Mail Express Full Tray Box (Commercial Only) | 110.80

* * *

2645 Competitive Ancillary Services

2645.1 Adult Signature

* * *

2645.1.2 Prices

| ($)
Adult Signature Required | 6.65
Adult Signature Restricted Delivery | 6.90

2645.2 Package Intercept Service

* * *

2645.2.2 Prices

| ($)
Package Intercept Service | 14.65

2645.3 Premium Data Retention and Retrieval Service

2645.3.1 Description

a. Premium Data Retention and Retrieval Service allows a customer to request that the Postal Service retain: (1) scan data or (2) scan and signature data for the customer's packages beyond the Postal Service's standard data retention period, for up to ten years. The customer will be charged for the retrieval of any archived statement of tracking or signature letter.

b. Premium Data Retention and Retrieval Service is available for packages shipped via Priority Mail Express, Priority Mail, First-Class Package Service, and Parcel Select. For Scan and Signature Retention on products other than Priority Mail Express, the customer must have purchased an underlying signature service, such as Signature Confirmation service.

2645.3.2 Prices

Data Retention (per package)

Retention period | Scan Retention ($) | Scan + Signature Retention ($)
6 months | 2.10 | N/A
1 year | 2.59 | N/A
3 years | 3.59 | 4.59
5 years | 4.59 | 5.59
7 years | 5.59 | 6.99
10 years | 9.99 | 12.99

Data Retrieval (per retrieved report)

Archived Item | ($)
Archive Statement of Tracking | 9.99
Archive Signature Letter | 19.99

[FR Doc. 2019-22542 Filed 10-15-19; 8:45 am]

BILLING CODE 7710-12-P